DEPARTMENT OF COMMERCE

National Oceanic and Atmospheric Administration

50 CFR Part 679

[Docket No. 010112013-1013-01; I.D. 011101B]

RIN 0648-A082

Fisheries of the Exclusive Economic Zone Off Alaska; Steller Sea Lion Protection Measures for the Groundfish Fisheries Off Alaska; Final 2001 Harvest Specifications and Associated Management Measures for the Groundfish Fisheries Off Alaska

AGENCY: National Marine Fisheries Service (NMFS), National Oceanic and Atmospheric Administration (NOAA), Commerce.

ACTION: Emergency interim rule; request for comments.

SUMMARY: NMFS issues an emergency interim rule to implement Steller sea lion protection measures to avoid the likelihood that the groundfish fisheries off Alaska will jeopardize the continued existence of the western population of Steller sea lions or adversely modify its critical habitat. These management measures will disperse fishing effort over time and area and provide protection from fisheries competition for prey in waters adjacent to rookeries and important haulouts. This action also announces final 2001 harvest specifications and associated management measures for the groundfish fisheries of the Bering Sea and Aleutian Islands management area (BSAI) and the Gulf of Alaska (GOA). The intended effect of this emergency interim rule is to protect the endangered western population of Steller sea lions, as required under the Endangered Species Act (ESA), and to conserve and manage the groundfish resources in the BSAI and the GOA in accordance with the Magnuson-Stevens Fishery Conservation and Management Act (Magnuson-Stevens Act).

DATES: Effective January 18, 2001 through July 17, 2001, except for:

50 CFR 679.22(a)(11)(v), (a)(12)(v), and (b)(3)(iv) will be effective on 1200 hours (Noon) A.l.t., June 10, 2001, through July 17, 2001, and

Sections 679.4(l); 679.5(a)(4)(iv); 679.5(f)(3); 679.5(i)(1)(iii); 679.5(o); 679.20(a)(5)(i)(D); 679.20(d)(1)(iv); 679.21(d)(8); 679.21(e)(3)(v); 679.50(c)(5); 679.50(d)(5) and subpart F will be effective January 18, 2001, through December 31, 2001.

Comments must be received by February 21, 2001.

ADDRESSES: Comments may be sent to Sue Salveson, Assistant Regional Administrator, Sustainable Fisheries Division, Alaska Region, NMFS, P.O. Box 21668, Juneau, AK, 99802, Attn: Lori Gravel, or delivered to room 401 of the Federal Building, 709 West 9th Street, Juneau, AK. Comments will not be accepted if submitted via e-mail or Internet. Copies of the November 30, 2000, Biological Opinion and Incidental Take Statement on Authorization of the BSAI groundfish fisheries based on the Fishery Management Plan for the Groundfish Fishery of the Bering Sea and Aleutian Islands and Authorization of the GOA groundfish fisheries based on the Fishery Management Plan for Groundfish of the Gulf of Alaska (Comprehensive BiOp), including the Reasonable and Prudent Alternative (RPA), may be obtained from the same address. The Comprehensive BiOp is also available on the NMFS Alaska Region home page at http://www.fakr.noaa.gov.

Copies of the Final 2001 Stock Assessment and Fishery Evaluation (SAFE) reports, dated November 2000, are available from the North Pacific Fishery Management Council, West 4th Avenue, Suite 306, Anchorage, AK, 99510 or from their home page at ­http://www.fakr.noaa.gov/npfmc.

FOR FURTHER INFORMATION CONTACT: Sue Salveson, Sustainable Fisheries Division, Alaska Region, 907-586-7228 or email at sue.salveson@noaa.gov.

SUPPLEMENTARY INFORMATION: NMFS manages the groundfish fisheries in the exclusive economic zone off Alaska under the Fishery Management Plan for the Groundfish Fishery of the Bering Sea and Aleutian Islands Area and the Fishery Management Plan for Groundfish of the Gulf of Alaska (FMPs). The North Pacific Fishery Management Council (Council) prepared the FMPs under the authority of the Magnuson-Stevens Act, 16 U.S.C. 1801, et seq. Regulations governing U.S. fisheries and implementing the FMPs appear at 50 CFR parts 600 and 679. NMFS also has management responsibility for certain threatened and endangered species, including Steller sea lions, under the Endangered Species Act of 1973 (ESA), 16 U.S.C. 1531, et seq., and the authority to promulgate regulations to enforce provisions of the ESA to protect such species.

Introduction

The preamble to this emergency rule contains two parts. Part I explains the background surrounding actions taken to protect the endangered western population of Steller sea lions, including information on the development and specific provisions of the RPA developed in the Comprehensive BiOp. Part II describes the harvest specifications for the 2001 groundfish fisheries of the BSAI and GOA. These specifications are consistent with the 2001 Steller sea lion protection measures.

Part I. Steller Sea Lion Protection Measures

Background

In 1990, NMFS designated the Steller sea lion as a threatened species under the ESA. The designation followed severe declines throughout much of the GOA and Aleutian Islands region. In 1993, NMFS defined critical habitat for the species to include (among other areas), the marine areas within 20 nautical miles (nm) of major rookeries and haulouts of the species west of 144° W longitude. In 1997, NMFS recognized two separate populations, and reclassified the western population (west of 144° W longitude) as endangered.

NMFS first began collecting information on the abundance of Steller sea lions during the 1950s and 1960s. However, the first counts based on reliable data were not available until the late 1970s; these counts reported approximately 109,800 animals. During the 1980s, a precipitous decline of Steller sea lions was observed. By 1996, the population had declined by 80 percent from the late 1970s. Counts of adult and juvenile Steller sea lions have continued to decline over the last few years, but at a lower rate.

NMFS believes that multiple factors have contributed to the decline, but considerable evidence indicates that lack of available prey is a significant factor. Foraging studies confirm that Steller sea lions depend on pollock, Pacific cod, and Atka mackerel as major prey sources, and that they may be particularly sensitive to reduced availability of prey during the winter. The significance of pollock, Pacific cod, and Atka mackerel in the diet of sea lions may have increased since the 1970s due to shifts in the Bering Sea ecosystem related to atmospheric and oceanographic changes.

In accordance with the requirements of the ESA, the NMFS Office of Protected Resources issued a biological opinion on the pollock fisheries of the BSAI and GOA and the Atka mackerel fishery of the Aleutian Islands subarea, dated December 3, 1998, and revised December 16, 1998 (1998-1 BiOp). The 1998-1 BiOp concluded that the BSAI and GOA pollock trawl fisheries, as projected for 1999 through 2002, were likely to jeopardize the endangered western population of Steller sea lions and adversely modify critical habitat designated for this population. The term “jeopardize” means “to engage in an action that reasonably would be expected, directly or indirectly, to reduce appreciably the likelihood of both the survival and recovery of a listed species in the wild by reducing the reproduction, numbers, or distribution of that species” (50 CFR 402.02). The phrase “adversely modify its critical habitat” means “a direct or indirect alteration that appreciably diminishes the value of critical habitat for both the survival and recovery of a listed species. Such alterations include, but are not limited to, alterations adversely modifying any of those physical or biological features that were the basis for determining the habitat to be critical” (50 CFR 402.02). The 1998-1 BiOp also concluded that the Atka mackerel fishery, as modified by recent regulatory changes (64 FR 3446, January 22, 1999), was not likely to jeopardize the endangered western population of Steller sea lions or adversely modify its critical habitat.

The 1998-1 BiOp did not prescribe a single RPA for the BSAI and GOA pollock fisheries, but rather established a framework to avoid the likelihood of jeopardizing the continued existence of the western population of Steller sea lions or adversely modifying their critical habitat. The framework consisted of three principles: (1) Temporal dispersion of fishing effort, (2) spatial dispersion of fishing effort, and (3) protection from fisheries competition for Steller sea lion prey in waters adjacent to rookeries and important haulouts. For each of these principles, the 1998-1 BiOp provided guidance on the development of management measures to meet the objectives and, ultimately, to avoid jeopardy and adverse modification. The 1998-1 BiOp stated that certain conservation measures could be phased in over a 2-year period.

In December 1998, NMFS staff briefed the Council on the 1998-1 BiOp. The Council then prepared recommendations for alternative management measures based on the RPA guidelines to avoid jeopardy and adverse modification. The Council's recommendation did not contain Bering Sea subarea (BS) pollock harvest specifications for the second half of 1999. However, the Council planned to recommend these measures prior to mid-1999. The Council also recommended closing all but nine of the haulout zones specified by the 1998-1 BiOp in the BSAI and GOA. NMFS determined these recommendations to be acceptable as part of a 2-year phase-in strategy, in which equivalent or better protections would be extended for those areas for 2000 and beyond.

On December 16, 1998, NMFS adopted the measures recommended by the Council (with modifications) into the 1998-1 BiOp as part of the reasonable and prudent alternatives for the Alaska pollock fisheries. NMFS published an emergency interim rule implementing these measures in the Federal Register on January 22, 1999 (64 FR 3437), as amended on February 17, 1999 (64 FR 7814), and on February 25, 1999 (64 FR 9375), which was effective through July 19, 1999. The preamble to the emergency rule provides a detailed description of the purpose and need for the implementation of emergency measures in 1999.

The Council met again in February, April, and June 1999 to consider recommendations for extending the emergency rule for the second half of 1999, and, at its June meeting, voted to extend the emergency rule. Using the Council's recommendation, NMFS extended the emergency rule through December 31, 1999 (64 FR 39087, July 21, 1999; technical amendment 64 FR 43297, August 10, 1999), with revisions that included BS pollock harvest specifications for the second half of 1999.

In June 1999, the Council also deliberated on various management measures to implement permanently the reasonable and prudent alternatives as described in the 1998-1 BiOp for 2000 and beyond. After significant debate and public comment, the Council voted to recommend a series of conservation measures to protect Steller sea lions.

Greenpeace, the American Oceans Campaign, and the Sierra Club challenged the 1998-1 BiOp in the U.S. District Court for the Western District of Washington (Greenpeace v. NMFS, Civ. No. C98-0492Z (W.D. Wash.)). In an Order issued on July 9, 1999 (and amended on July 13, 1999), the Court upheld the no-jeopardy conclusion for the Atka mackerel fishery and the jeopardy conclusion for the pollock fisheries. However, the Court also found that “the Reasonable and Prudent Alternatives * * * were arbitrary and capricious * * * because they were not justified under the prevailing legal standards and because the record does not support a finding that they were reasonably likely to avoid jeopardy.” On August 6, 1999, the Court remanded the 1998-1 BiOp back to NMFS for further analysis and explanation.

To comply with the Court's Order, NMFS conducted additional analyses and completed the Revised Final Reasonable and Prudent Alternatives (RFRPAs) on October 15, 1999. The RFRPAs describe management measures that will avoid the likelihood that the pollock fisheries authorized by regulations will jeopardize the continued existence of the endangered western population of Steller sea lions or adversely modify their critical habitat.

NMFS evaluated the measures recommended by the Council in June 1999 as part of the RFRPA analyses, and determined that these measures (with modification to season dates, haulout protections, and spatial dispersion in the Bering Sea) achieved the principles identified in the 1998-1 BiOp and the RFRPAs, and these were subsequently incorporated into the October 15, 1999, RFRPAs mentioned above. NMFS implemented the modified measures (then the RFRPAs) by emergency interim rule for the 2000 groundfish fisheries (65 FR 3892, January 25, 2000, and 65 FR 36795, June 12, 2000). Greenpeace, the American Oceans Campaign, the Sierra Club, and fishing industry representatives have challenged the adequacy of the RFRPAs in the U.S. District Court for the Western District of Washington. That judicial challenge is still pending.

In December 1998, NMFS also issued an additional biological opinion evaluating the effects of the 1999 Federal groundfish fisheries in the BSAI and the GOA on endangered and threatened species and their critical habitat (1998-2 BiOp). Greenpeace, the American Oceans Campaign, and the Sierra Club also challenged the legal adequacy of the 1998-2 BiOp, resulting in a Court Order finding it too narrow in scope. (Greenpeace v. NMFS, 80 F. Supp. 2d 1137 (W.D. Wash. 2000)). On July 19, 2000, the Court issued an injunction prohibiting fishing for groundfish with trawl gear in the exclusive economic zone within Steller sea lion critical habitat west of 144° W. longitude until NMFS issued a comprehensive biological opinion adequately analyzing the full scope of the FMPs. (Greenpeace v. NMFS, 106 F. Supp. 2d 1066 (W.D. Wash. 2000)). The critical habitat areas closed by the Court's injunction were defined in regulations codified at 50 CFR 226.202, and in Tables 1 and 2 of 50 CFR part 226. Pursuant to the ESA, NMFS issued an interim final rule prohibiting fishing for groundfish with trawl gear in Steller sea lion critical habitat specified in the Court's injunction (65 FR 49766, August 15, 2000).

In response to the Court's Order that found the 1998-2 BiOp inadequate, NMFS issued the Comprehensive BiOp on November 30, 2000. The Comprehensive BiOp evaluates all authorized federal groundfish fisheries and the overall management framework established by the GOA and BSAI FMPs. After analyzing the cumulative, direct, and indirect effects of the groundfish fisheries authorized by the GOA and BSAI FMPs on listed species, NMFS concluded in the Comprehensive BiOp that the Alaska groundfish fisheries, as currently prosecuted, jeopardize the continued existence of the western population of Steller sea lions and adversely modify its critical habitat. This conclusion was reached based on information that pollock, Pacific cod, and Atka mackerel are the main prey species for which Steller sea lions compete with the fisheries; that this competition causes reduced availability of prey, an effect of particular concern within Steller sea lion critical habitat, that reduced availability of prey leads to nutritional stress; and that nutritional stress, especially of juveniles and to a lesser extent adult females, is the leading hypothesis to explain the continued decline of the western population of Steller sea lions. The Comprehensive BiOp included an RPA that would allow a modified fishery to occur in a manner that would avoid jeopardy to the continued existence of Steller sea lions and adverse modification to their critical habitat.

On December 21, 2000, the President signed Public Law 106-554. This law contains a one-year timetable for implementing the RPA as well as provisions affecting its implementation. In the following discussion, references will be made to these provisions whenever they affect implementation of the RPA.

Section 209 of Public Law 106-554, paragraph (c)(3) also requires that “(t)he 2001 Bering Sea/Aleutian Islands and Gulf of Alaska groundfish fisheries shall be managed in accordance with the fishery management plan and federal regulations in effect for such fisheries prior to July 15, 2000 * * * and said regulations are hereby restored to full force and effect.” NMFS has determined that this statutory provision extends through 2001 the interim emergency regulations promulgated in 2000 to implement the American Fisheries Act, Public Law 105-277 (AFA). In addition, NMFS has determined that this statutory provision does not invalidate fishery management plan amendments or regulatory amendments approved or implemented after July 15, 2000, that do not directly affect measures governing the interaction of fisheries with endangered Steller sea lions, and that such amendments remain in full force and effect. These measures include: Amendment 58 (Chinook salmon bycatch controls published at 65 FR 60587, October 12, 2000) and Amendment 64 (fixed gear allocations of Pacific cod published at 65 FR 51553, August 24, 2000) to the Fishery Management Plan for Groundfish of the Bering Sea and Aleutian Islands Area; Amendment 59 to the Fishery Management Plan for Groundfish of the Gulf of Alaska that established the Sitka Sound Marine reserve (65 FR 67305, November 9, 2000); and three separate regulatory amendments that require vessel monitoring systems onboard vessels that are used to participate in the BSAI Atka mackerel fishery (65 FR 61264, October 17, 2000), an extension of the Pacific halibut donation program beyond 2000 (65 FR 78119, December 14, 2000), adjustments to observer coverage requirements established for the Community Development Quota (CDQ) Program (65 FR 69483, November 17, 2000), and an extension of regulations governing observer coverage for the Alaska groundfish fisheries beyond 2000 (65 FR 80381, December 21, 2000).

Specific Elements of the 2001 Management Measures

The measures proposed to be implemented in this emergency rule, as well as for the remainder of 2001, are discussed below. Initially, NMFS did not contemplate a one-year phase-in for the RPA. However, after consideration of Public Law 106-554 (signed into law on December 21, 2001), NMFS reassessed 2001 protection measures relative to the concept of a phase-in. This assessment was conducted under the objective of maintaining strict adherence to ESA standards for no jeopardy to endangered listed species or adverse modification to their critical habitat during the one-year phase-in period. NMFS determined, as previously explained, that the short time period until full implementation of the protection measures is achieved (January 1, 2002), along with immediate implementation of many of the protection measures by this emergency rule, will ensure that the fisheries are not likely to jeopardize the continued existence of any listed species or destroy or adversely modify the critical habitat of any listed species during the period of the phase-in.

Specifically, Steller sea lion protection measures that are being put into place in this emergency rule as of January 20, 2001, affecting fishing for all of 2001 that are in addition to status quo fishing under the current FMP, include measures that were in place as RFRPAs under the previous biological opinion for all areas: (1) No transit zones within 3 nm of 37 rookery sites, (2) closure within 10 or 20 nm of 37 rookeries to all trawling year-round, and (3) closure to pollock fishing within 10 or 20 nm of 75 haulouts, seasonally or year-round based on use by sea lions. In the Bering Sea pollock fishery measures include: (1) Four seasons with harvest limits within sea lion critical habitat foraging areas; and (2) two seasons (40:60 percent allocation) outside critical habitat, continuation of Bering Sea fishery cooperatives established under the American Fisheries Act, and the Gulf of Alaska pollock fishery distributed over 4 seasons (30:15:30:25 percent allocation). In the Atka mackerel fishery, measures include: (1) A VMS requirement, (2) continuation of two equal seasons, (3)restrictions on harvests in critical habitat and new, reduced 2001 critical habitat harvest limits for Atka mackerel in the Aleutian Islands.

Measures from the RPA in the comprehensive 2000 biological opinion that have never been implemented before, but will be effective January 20, 2001, reflecting the fact that the pollock roe fisheries and the GOA Pacific cod fishery (all gears) and the BSAI trawl Pacific cod fishery typically conclude by mid-March include: (1) Prohibiting groundfish fishing by federally permitted vessels within 3 nm of more than 75 important haulout sites identified under established criteria, (2) establishing two fishing seasons for Pacific cod, January 1-June 10 (60 percent of the allocation) and June 11-December 31 (40 percent), (3) reduction of the allowable catch for Gulf of Alaska pollock from the Council's recommended 2001 level by 10 percent (reduction is less than the 20 percent reduction calculated under the Global Control Rule developed under the biological opinion because it is limited by the new appropriations law (P.L. 106-554)), and (4) a cap of the 2001 Bering Sea pollock harvest in the Steller sea lion conservation area to no more than the amount authorized in the final 2000 harvest specifications, effectively capping the Bering Sea pollock harvest in critical habitat at the 2000 level until the biological opinion is fully implemented in 2002. Additionally, by June 10, 2001, the emergency rule would implement the closed areas contained in the biological opinion for the pollock, Pacific cod, and Atka mackerel fisheries. The Council would have the opportunity to suggest modifications to these closures for the remainder of 2001 provided they meet the requirements of the biological opinion (e.g., close at least 50 percent of critical habitat to the three fisheries and maximize protection of Steller sea lion pups and juveniles). The full RPA would be implemented by January of 2002, including additional seasonal restrictions and harvest limits, unless alternative strategies are developed that meet the objectives of the RPA in removing jeopardy and adverse modification.

After reviewing this phase-in as an alternative strategy for implementation of Steller sea lion protection measures, NMFS has determined that it is a reasonable alternative way to implement the RPA while maintaining the goal of removing the threat of jeopardy and adverse modification from this fishery, provided that the phase-in is complete by January of 2002. This conclusion was reached because, if we assume that the average annual 4 percent rate of decline for Steller sea lions over the past decade is due to fishing, as discussed in the biological opinion (2000), immediate implementation of the RPA is expected to reverse that rate of decline to a level around minus 0.7 percent by the end of 2001, although this rate would likely not be detectable for four years. Using the phase-in approach, NMFS expects the measures being implemented in January and June of 2001 to reduce the average annual rate of decline in 2001 to between approximately minus 2.0 and minus 2.5 percent. The one-year time frame for achieving the effect of full RPA implementation (minus 0.7 percent rate) would have an undetectable effect on the recovery and sustainability of the Steller sea lion population. This represents the most reasonable method of complying with all applicable law, including P.L. 106-554 (which did not exist at time of development of the original RPA)and the ESA.

The 2001 protection measures that are implemented in January and June address the competition between the groundfish fishery and non-human predators in the marine ecosystem in several ways. First, these measures as described will modify the existing harvest control rule to ensure that during 2001 enough prey resources exist overall and that prey densities are sufficient to supply all competitors on a large scale. Second, the protection measures will distribute the catch of important prey species over space and time to reduce the effects of localized depletion. Localized depletion is the reduction of prey resources below a threshold necessary to effectively supply predators in a specific area during a specific time period. Finally, the RPA will prohibit fishing in areas immediately surrounding rookery and haulout sites and curtail fishing for important prey species in significant portions of designated critical habitat to relieve competition in areas considered important to Steller sea lion survival and recovery.

Modify the Existing Harvest Control Rule

The RPA includes a modification of the existing harvest control rule for pollock, Pacific cod, and Atka mackerel. NMFS currently uses a harvest control rule when determining the maximum allowable biological catch (ABC). Under the existing control rule, ABC for a majority of stocks, including pollock, Pacific cod, and Atka mackerel, is based on a fishing mortality rate that would reduce the spawning biomass per recruit to 40 percent of its unfished level, if the biomass of the target stock is projected to be at or above a biomass necessary to achieve maximum sustainable yield. However, if the biomass of the target stock is projected to be below a biomass necessary to achieve maximum sustainable yield, then the fishing mortality rate is reduced in a linear fashion until the biomass is 5 percent of a biomass necessary to achieve maximum sustainable yield. At this point, when the spawning biomass per recruit of the target stock is reduced to 2 percent of its unfished level, the fishing mortality rate is 0, and all fishing for that target stock is stopped.

The modification of the existing control rule contained in the RPA (also known as the Global Control Rule) will require a more aggressive linear reduction in fishing mortality rate when the biomass of a pollock, Pacific cod, or Atka mackerel stock is projected to be below a biomass necessary to achieve maximum sustainable yield. This means that the fishing mortality rate will be reduced more rapidly when the biomass of the target stock is projected to be below a biomass necessary to achieve maximum sustainable yield. This adjustment to the fishing mortality rate also means that all fishing for a target species would stop when the spawning biomass per recruit of the target stock is reduced to 20 percent of its unfished level, rather than when the spawning biomass per recruit of the target stock is reduced to 2 percent of its unfished level as in the existing control rule. The Global Control Rule is designed to ensure adequate levels of each prey species is maintained for Steller sea lions by more rapidly reducing the fishing mortality rate when the biomass of the target stock is projected to be below a biomass necessary to achieve maximum sustainable yield and by stopping fishing for those prey species when their population size is 10 times larger than under the existing control rule.

The application of the Global Control Rule in 2001 is modified by Public Law 106-554, which provides at section 209(c)(5) that “[t]he harvest reduction requirement (‘Global Control Rule’) shall take effect immediately in any 2001 groundfish fishery in which it applies, but shall not cause a reduction in the total allowable catch of any fishery of more than 10 percent.” Based on this provision, the reduction in the amount of GOA pollock that can be harvested in 2001 will be limited to 10 percent of the total allowable catch for that species. This reduction is less than the 20 percent reduction calculated under the Global Control Rule developed under the biological opinion because it as limited by the subsequent requirements of implementation of Public Law 106-554. The Global Control Rule will be fully implemented in 2002.

Distribution of the Catch of Prey Species Over Time and Area

The 2001 Steller sea lion protection measures include fishing seasons ¹ for pollock, Pacific cod, Atka mackerel, and BS pollock critical habitat harvest limits. Seasons for pollock and Atka mackerel for 2001 remain the same as under Steller sea lion protection measures implemented in 2000. This is consistent with the RPA. For Pacific cod, the RPA also required two seasons outside critical habitat and four seasons inside critical habitat. The 2001 protection measures will implement two new seasons for Pacific cod that did not exist in 2000, phasing in full implementation of the four seasons by 2002. These new seasons for Pacific cod, like the seasons for pollock and Atka mackerel, will distribute the affected fisheries over time. Critical habitat harvest limits for pollock and Atka mackerel will be implemented by this emergency rule consistent with the requirements of the RPA. Critical habitat harvest limits for Pacific cod will be implemented by January 1, 2002, when it will become more practicable for NMFS to monitor smaller vessels that are used to fish for Pacific cod. For example, more effective monitoring and enforcement of harvest limits would include use of tools like vessel monitoring systems and electronic logbooks. Critical habitat limits will distribute the affected fisheries over area.

¹ Times for all openings and closures of seasons are specified in 50 CFR 679.23.

1. BSAI Pollock Seasons and Critical Habitat Limits

Fishing for pollock in the BSAI during the first half of 2001 will be conducted in the same manner as in 2000. This emergency rule will continue to prohibit directed fishing for pollock in the Aleutian Islands subarea (AI). Fishing seasons also are continued for the four sectors of the Bering Sea pollock fishery that are defined in the AFA. These fishing seasons are summarized in Table 1.

This emergency rule extends the repeal of the “fair start” provisions that required vessels fishing for pollock in the Bering Sea to cease fishing for groundfish during the week preceding each pollock season or face a mandatory stand-down period during the first week of the pollock season. The Council determined that these fair start requirements were no longer necessary given the changes to the pollock fishery that occurred under the AFA.

The biological opinion notes that in order to maximize protection of Steller sea lion pups and juveniles, at least 50 percent of critical habitat should be closed to pollock, Pacific cod, and Atka mackerel fishing and that closed areas must provide for the statistical design of a monitoring program that will evaluate the effectiveness of protection measures. This emergency rule also will extend the use of the Steller sea lion conservation area (SCA) established by the emergency rule published January 25, 2000 (65 FR 3892). However, these are only adequate as part of an overall phase-in approach that will implement the full closure scenario (or an equally effective alternative approach) contemplated by the RPA in the 2000 biological opinion by 2002. The SCA includes the portion of Bering Sea critical habitat known as the Bogoslof foraging area and the portion of the Catcher Vessel Operational Area (CVOA) that extends eastward from the Bogoslof foraging area. This eastern block of the CVOA overlaps with the pollock trawl exclusion zone for Sea Lion Rocks (Amak Island). Inclusion of this eastern block in the SCA is necessary to provide sufficient protection from concentrated fishing and resulting localized depletions of sea lion prey in (1) the narrow corridor between the Bogoslof foraging area and the Sea Lion Rocks (Amak Island) trawl exclusion zone and (2) the adjacent portions of critical habitat.

The SCA consists of the area of the Bering Sea between 170°00′ W longitude and 163°00′ W longitude, south of straight lines connecting the following points in the order listed:

55°00′ N lat 170°00′ W long.;

55°00′ N lat 168°00′ W long.;

55°30′ N lat 168°00′ W long.;

55°30′ N lat 166°00′ W long.;

56°00′ N lat 166°00′ W long.;

56°00′ N lat 163°00′ W long.

This emergency rule specifies the amount of the annual total allowable catch (TAC), that can be taken from the SCA in each season listed in Table 1. The TAC is equal to the sum of each sector's directed fishing allowance (DFA) plus the incidental catch allowance (ICA). This amount is capped at the harvest amounts authorized for 2000 until the full RPA is implemented in 2002. Effectively, the SCA allocations using the 2000 TACs is 149,208 mt higher than under the full RPA. Although the 2000 harvest levels were based on specified percentages of the 2000 pollock TAC, the 2001 SCA harvest limits are established as the actual 2000 harvest limit in metric tons. The pollock SCA harvest limit specified for each industry sector is further apportioned to the fishing seasons identified in Table 1 according to the percentages set out in the emergency rule published in the Federal Register on January 25, 2000 (65 FR 3892). As a result, each sector's 2001 seasonal harvest limit in the SCA is unchanged from the tonnage level specified for 2000, except to the extent that NMFS adjusts the ICA (See Part II and § 679.22(a)(11)(iv)(E)(1) for specific amounts in metric tons). Further, the increase in the Bering Sea pollock TAC in 2001 from 2000, which occurred because more pollock is available for harvest in 2001, will be harvested outside the SCA. This action is taken to further ensure adequate prey resources inside critical habitat.

Table 1.—Bering Sea Subarea Pollock Fishing Seasons for All Sectors
Bering Sea subarea— | Season: A | Season: B | Season: C | Season: D
Outside the SCA ¹ | January 20-June 10 (combined A/B season) |  | June 10-November 1 (combined C/D season)
Inside the SCA | Jan. 20-April 1 | April 1-June 10 | June 10-Aug. 20 | Aug. 20-Nov. 11
¹ For the area outside the SCA, there will be two seasonal pairs, A/B and C/D, that are allocated the annual Bering Sea subarea directed fishing allowance by sector.

NMFS will monitor catch by each industry sector and close the SCA to directed fishing for pollock by sector when NMFS determines that the specified SCA limit has been reached. In accordance with the Council's intent to address small vessel safety concerns, inshore catcher vessels less than or equal to 99 ft (30.2 m) LOA will continue to be exempt from SCA closures during the fall and winter months unless the cap for the inshore sector has been reached. Under the authority of the AFA, NMFS will separate the inshore fishery into cooperative and non-cooperative sector allocations. For each sector, NMFS will announce the closure of the SCA to catcher vessels over 99 ft (30.2 m) LOA before the inshore sector SCA limit is reached. NMFS will implement the closure in a manner intended to leave remaining quota within the SCA that is sufficient to support directed fishing for pollock by vessels less than or equal to 99 ft (30.2 m) LOA for the duration of the inshore sector opening. This measure will be implemented only during the A, B, and D seasons because of Council's intent to address vessel safety concerns during these time periods of severe weather.

Over harvest and under harvest of SCA amounts may be “rolled over” from the A season SCA limit to the B season SCA limit so that no single season exceeds 15 percent of the annual TAC, and that the combined A/B limit inside the SCA of 20 percent is not exceeded.

2. BSAI Atka Mackerel Seasons and Critical Habitat Limits

As required by P.L. 106-554, fishing for Atka mackerel in the BSAI during the first half of the 2001 will be conducted as specified in current regulations. As such, critical habitat limits in the western and central Aleutian Islands districts will be reduced as required under existing regulations at 50 CFR 679.22(a)(8)(iii)(B). The A season for Atka mackerel will begin January 1, 2001, and end April 15, 2001. The B season will begin September 1, 2001, and end November 1, 2001. Fifty percent of the annual TACs for the western, central, and eastern Aleutian Islands districts is available during each season. Critical habitat harvest limits on the amount of 2001 TAC apportioned to the respective areas during each season are: Western area, 48 percent; central area, 46 percent; and eastern area, 0 percent.

This emergency rule makes two general changes to the regulations governing the Atka mackerel fishery not specific to implementing the biological opinion, but that require change. First, correction is made to regulations at § 679.20(c)(2)(ii) that establish annual interim harvest amounts to indicate that in any given year the first proposed seasonal allowance of Atka mackerel TACs would be available at the beginning of the fishing year as interim TAC amounts until superseded by final harvest specifications. Second, a regulatory reference to 50 CFR part 226 at § 679.22(a)(8)(iii)(A) is removed. Instead, the regulations now refer to a new Table 21 in 50 CFR part 679 that contains a complete list of corrected rookery and haulout sites that are used to identify different fishery restrictions surrounding these areas and implemented under 50 CFR part 679.

3. BSAI and GOA Pacific Cod Seasons

This emergency rule separates the BSAI and GOA Pacific cod TACs into two separate seasonal allowances, a change from prior years in which there were no seasonal splits. The new A season begins on January 1, 2001, and ends June 10, 2001. Sixty percent of the annual TAC of BSAI and GOA Pacific cod, after subtraction of any reserves and incidental catch, will be available for harvest during the A season and will be apportioned among the various sectors as provided in §§ 679.20(a)(6)(iii) and 679.20(a)(7). The new B season begins at noon A.l.t. on June 10, 2001, and ends on December 31, 2001. Forty percent of the annual TAC of BSAI Pacific cod, after subtraction of any reserves and incidental catch, will be available for harvest during the B season and will be apportioned among the various sectors as provided in §§ 679.20(a)(6)(iii) and 679.20(a)(7). Apportioning Pacific cod between two seasons will affect the ability of fishermen to fully utilize the TAC for Pacific cod. Pacific cod tends to aggregate during the early part of the calendar year and is easier to locate and catch. In previous years, a large portion of the Pacific cod TAC was taken during the early part of the calendar year. Also, as Pacific cod becomes disaggregated, the increased fishing time and effort to catch the same amount of fish means commensurate increases in bycatch, which also can affect the success of fully utilizing the TAC. Finally, these effects will be further exacerbated in future years because the 60/40 percentage split between the A and B seasons will be in place for 2001 only. In subsequent years, the percentage split will be changed to 40 percent in the A season and 60 percent in the B season. This change is consistent with the conclusions in the Comprehensive BiOp, which indicated that a greater proportion of essential prey should be made available to Steller sea lions during the winter season. Any over harvest or under harvest of Pacific cod harvest from the A season may be subtracted from or added to the subsequent B season.

4. GOA Pollock Seasons

In accordance with P.L. 106-544, fishing for pollock in the GOA during the first half of the 2001 will be conducted in the same manner as in 2000. Fishing seasons and pollock TAC apportionments in the Western and Central (W/C) Regulatory Areas of the GOA are summarized in Table 2.

Table 2.—Pollock Fishing Seasons and TAC Apportionments for the Western and Central Regulatory Areas of the Gulf of Alaska
Season | TAC apportionment (in percent) | Season dates
A | 30 | January 20-March 1.
B | 15 | March 15-May 31.
C | 30 | August 20-September 15.
D | 25 | October 1-November 1.

The TAC for pollock during the A/B season in the combined W/C Regulatory Areas will continue to be apportioned among Statistical Areas 610, Shelikof Strait, and areas 620 and 630 outside of Shelikof Strait in proportion to the distribution of the pollock biomass as determined by the most recent NMFS surveys. Consistent with current regulations, pollock fishing seasons are not established for the Eastern Regulatory Area.

In the GOA, overall pollock fishery harvest rates have varied from about 5 percent of the total biomass to about 10 percent since 1990. From 1994 to 1999, the estimated harvest rate in Shelikof Strait has been on the order of 1 percent to 3 percent of the total biomass, well below the overall harvest rate for the GOA. This discrepancy suggests that the biomass of pollock in Shelikof Strait is under-utilized relative to the biomass of pollock outside the Strait. Therefore, pollock biomass outside the Strait must be over-utilized relative to the overall harvest rate. This relative over-utilization of pollock outside Shelikof Strait could have had a detrimental effect on the availability of pollock to Steller sea lions in those outer regions. To ameliorate this effect, Shelikof Strait received a separate apportionment in 2000. This separate apportionment will continue with this emergency rule.

The Shelikof Strait conservation area is defined as the area bounded by straight lines and shoreline connecting the following coordinates in the following order:

58°51′ N lat 153°15′ W long.;

58°51′ N lat 152°00′ W long.; and, the intersection of 152°00′ W long with Afognak Island; aligned counterclockwise around the shoreline of Afognak, Kodiak, and Raspberry Islands to

57°00′ N lat 154°00′ W long.;

56°30′ N lat 154°00′ W long.;

56°30′ N lat 155°00′ W long.;

56°00′ N lat 155°00′ W long.;

56°00′ N lat 157°00′ W long.; and the intersection of 157°00′ W long. with the Alaska Peninsula.

As in 2000, the Shelikof Strait conservation area TAC apportionment is determined for the A and B seasons based on the most recent winter hydroacoustic survey data. Specific harvest amounts can be found under Part II of this action. The GOA TAC for areas 610, 620, and 630 outside of the Shelikof Strait conservation area, will be determined based on the biomass available outside of Shelikof Strait. NMFS will prohibit directed fishing for pollock within Shelikof Strait when the seasonal apportionment of the pollock TAC for the Shelikof Strait conservation area has been reached.

The 300,000 lb (136 mt) trip limit for catcher vessels harvesting pollock in the directed pollock fisheries of the GOA supports the temporal distribution objectives of the RPA and is maintained by this rule. A catcher vessel fishing for groundfish in the GOA will be prohibited from retaining on board more than 300,000 lb (136 mt) of pollock harvested in the GOA. This trip limit will not exempt vessels from existing regulations that require 100 percent retention of pollock when directed fishing for pollock is open. A vessel would have to stop fishing for pollock during a fishing trip before the 300,000 lb (136 mt) trip limit is reached to avoid a violation of either the 300,000 lb (136 mt) trip limit or the 100 percent retention requirement for pollock.

In addition, to prevent the large scale use of tender vessels to avoid the trip limit restriction, this rule also will continue to prohibit vessels from operating as tenders in the GOA east of 157°00′ W longitude. Vessels operating as tenders in the GOA west of 157°00′ W longitude will be prohibited from retaining on board more than 600,000 lb (272 mt) (the equivalent of two fishing trips) of unprocessed pollock that was harvested in the GOA. Tendering west of 157°00′ W longitude is allowed because smaller vessels delivering to Sand Point and King Cove are more dependent on tenders than the larger vessels that operate east of 157°00′ W longitude and deliver primarily to Kodiak.

Closed Areas

The RPA recognized the existing 3 nautical mile (nm) no-entry zones around rookeries listed in 50 CFR 223.202. Those regulations are still in effect. Those sites that are subject to the no-entry zones under 50 CFR 223.202 are also listed in Table 21 to 50 CFR part 679 for fishing closures. However, persons should refer to 50 CFR 223.202 for the appropriate locations of the no-entry zones. In some cases those locations may be different than locations for the same sites that are also listed in Table 21 to 50 CFR part 679. NMFS apologizes for any confusion that these differences may cause and plans to rectify any differences in the near future. However, until that occurs, persons are advised to consult with 50 CFR 223.202 for the proper location of no-entry zones and Table 21 to 50 CFR part 679 for proper location of sites for fishery closures.

This emergency rule closes designated haulout areas to directed fishing for groundfish consistent with the conclusion in the Comprehensive BiOp that protecting areas immediately surrounding rookery and haulout sites is particularly critical to Steller sea lion survival and recovery. These closures prohibit all federally-permitted groundfish vessels from fishing within 3 nm of haulouts designated as protection zones for the pollock fishery in 2000. These haulout sites are listed in Table 21 to 50 CFR part 679 and were identified as important to the foraging needs of Steller sea lions in the 1998-1 BiOp and in the RFRPAs for the pollock fishery.

These closed areas, as well as others discussed below, are designed to provide sufficient protection to Steller sea lions, consistent with the hierarchy of concerns established in the Comprehensive BiOp, as well as previous biological opinions. The hierarchy of concerns indicates that concerns about the effects of the groundfish fisheries on Steller sea lions are greatest around rookeries and haulouts. Protecting rookeries and haulouts is important so that the most vulnerable Steller sea lions, lactating females, young-of-the-year, and juveniles, are provided access to essential prey resources.

Under this emergency rule, a another type of closure of areas deemed important to Steller sea lions will become effective on June 10. These closures were identified in the Comprehensive BiOp under the RPA and will prohibit directed fishing for pollock, Pacific cod, and Atka mackerel in 66 percent of Steller sea lion critical habitat. These closed areas include portions of Steller sea lion forage area, as well as a subset of the rookeries and haulouts listed in Table 21 to 50 CFR part 679.

Pollock Trawl Exclusion Zones

Under Public Law 106-554, regulations that governed the 2000 pollock fishery off Alaska are extended into 2001 except as modified through this rule. Thus, the Aleutian Islands closure to directed pollock fishing is extended into 2001. The Aleutian Islands closure originally was implemented in 1999 and is designed to protect the waters surrounding rookeries and major haulouts of Steller sea lions in and around the Aleutian Islands.

The prohibition on directed fishing for pollock within either 10 or 20 nm of rookeries and important haulouts in the Bering Sea and the Gulf of Alaska also is extended consistent with Public Law 106-554. The location, size, and period of each exclusion zone are set out in Table 21 of this emergency rule. Note that the location of some of these sites and extent of closed areas around these sites are different from the sites defined as critical habitat in 50 CFR 226.202. Table 21 to 50 CFR part 679 does not define critical habitat. Table 21 to 50 CFR part 679 defines protection zones for Steller sea lions as required by the RPA and site locations are based on new information gained from recent surveys of the Steller sea lion sites. Similar to the site locations in 50 CFR 223.202, NMFS intends to update site locations in 50 CFR part 226 by proposed and final rulemaking in the near future based on this new information. This update will ensure consistency between site locations listed in Table 21 to 50 CFR part 679 and in 50 CFR part 226. However, the public is advised that the site locations in the Table 21 to 50 CFR part 679 are the ones to be used for purposes of compliance with this rule.

NMFS developed these exclusion zones on the basis of 10 Steller sea lion counts conducted since 1979, during the reproductive season (summer) and non-reproductive season (winter). NMFS used the following criteria to identify sites that require exclusion zones and to determine the period of the closure and the radius of the zone:

1. Rookeries. If the site is a rookery, a 10 or 20-nm year-round pollock trawl exclusion zone.

2. Summer haulouts. If the site is a summer haulout, with greater than 200 sea lions in a summer survey since 1979, and fewer than 75 sea lions in winter surveys since 1979, a 10 or 20-nm exclusion zone from June 1 through November 1.

3. Winter haulouts. If the site is a winter haulout, with less than 200 sea lions in summer surveys since 1979, and greater than 75 sea lions in a winter survey since 1979, a 10 or 20-nm exclusion zone from November 1 through June 1.

4. Year-round haulouts. If the site is a year-round haulout with greater than 200 sea lions in a summer survey since 1979, and greater than 75 sea lions in a winter survey since 1979, a 10 or 20 nm year-round exclusion zone.

In the Bering Sea, the Walrus Island rookery meets the requirements under the guidelines in the RPA for closure to 20 nm. However, because this site falls entirely within the Pribilof Island Area Habitat Conservation Zone (see § 679.22(a)(6)), which is closed to trawling year-round, a 20-nm closure of this area to directed fishing for pollock would be redundant and is not necessary.

In the GOA, two of the haulout sites that qualify for closure to 10 nm under criteria in the 1998-1 BiOp, Point Elrington and The Needles, lie entirely within Alaska State waters. The State of Alaska has developed protection measures for these haulouts similar to Federal protection measures that provide for spatial and temporal distribution of pollock harvests. Therefore, these sites are not established as exclusion zones under this emergency rule.

This rule closes another GOA site, Sea Lion Rocks, for a radius of 10 nm to all vessels longer than 60 ft (18.3 m) length overall (LOA). Sea Lion rocks will not be closed to vessels less than or equal to 60 ft (18.3 m) LOA between 3 nm and 10 nm due to the relatively lower levels of harvests by such vessels and safety concerns for small boats in the region. Historically, from 1994 through 1998, vessels longer than 60 ft (18.3 m) LOA have accounted for 72 percent of total harvests in this area.

Catcher Vessel Exclusive Fishing Seasons

In 2000, the Council recommended that catcher vessels be prohibited from participating in directed fishing for pollock in both the BS and GOA in concurrent seasons, except for catcher vessels less than 125 ft (38.1 m) LOA that fish in the GOA east of 157°00′ W longitude. For example, if a catcher vessel chose to participate in the combined BS A/B season, it would not be eligible to participate in the W/C GOA until the start of the GOA C season. Similarly, if a catcher vessel chose to participate in the GOA A season, it would not be eligible to participate in the BS until the start of the next BS season, which would be the C/D season.

Part II. Specifications

The FMP and its implementing regulations require NMFS, after consultation with the Council, to specify annually the total allowable catch (TAC) for each target species and for the “other species” category, the sum of which must be within the optimum yield range of 1.4 million to 2.0 million metric tons (mt) for the BSAI and within the optimum yield range of 116,000 mt to 800,000 mt for the GOA (§ 679.20(a)(1)).

NMFS is implementing the 2001 TAC specifications for the BSAI and GOA through this emergency rule. The normal procedure of publishing proposed, interim, and final TAC specifications was not followed in 2001 because of the impracticability of publishing proposed specifications prior to the issuance of the Comprehensive BiOp. NMFS anticipated that changes required by the Comprehensive BiOp to protect endangered Steller sea lions would have a significant enough impact on proposed harvest specifications for the BSAI and GOA to require republication of the proposed specifications. To avoid the uncertainty and disruption to the fisheries that would have been caused by republishing proposed specifications, including a potential delay to the season because the Comprehensive BiOp was not due out until November 30, 2000, NMFS decided to use its authority to issue the final 2001 specifications by emergency rule. NMFS anticipates that the normal procedure will be used to implement harvest specifications in the future.

This emergency interim rule includes the following provisions for the BSAI and GOA: (1) Specifications of overfishing levels (OFL), acceptable biological catch (ABC), and total allowable catch (TAC) amounts for each groundfish species category; (2) apportionments of reserves; (3) allocations of the sablefish TAC to vessels using hook-and-line and trawl gear; (4) apportionments of pollock TAC among regulatory areas, seasons, and allocations among different industry sectors including Bering Sea fishery cooperatives; (5) apportionments of Pacific cod TAC among regulatory areas, seasons, and allocations among different industry sectors; (6) apportionment of Atka mackerel in the BSAI among seasons, gear, and regulatory areas; (7) PSC limits; (8) fishery and seasonal apportionments of the Pacific halibut PSC limits; (9) fishery apportionments of other PSC limits in the BSAI; (10) Pacific halibut assumed discard mortality rates; (11) groundfish harvest and PSC limitations for AFA vessels; and (12) closures to directed fishing for specified groundfish targets. A discussion of each of these measures follows.

Acceptable Biological Catch (ABC) and TAC Specifications

The final ABC levels are based on the best available scientific information, including projected biomass trends, information on assumed distribution of stock biomass, and revised technical methods used to calculate stock biomass. The FMPs specify the formulas, or tiers, to be used in computing ABCs and overfishing levels. The formulas applicable to a particular stock or stock complex are determined by the level of reliable information available to fishery scientists. This information is categorized into a successive series of six tiers.

In December 2000, the Scientific and Statistical Committee (SSC), Advisory Panel (AP), and Council reviewed current biological information about the condition of groundfish stocks in the BSAI and GOA. This information was compiled by the Council's Plan Teams and is presented in the final 2001 SAFE reports for the BSAI and GOA groundfish fisheries, dated November 2000 (See ADDRESSES). The SAFE reports contain a review of the latest scientific analyses and estimates of each species' biomass and other biological parameters, as well as summaries of the available information on the BSAI and GOA ecosystem and the economic condition of groundfish fisheries off Alaska. From these data and analyses, the Plan Teams estimate an ABC for each species or species category.

The Council considered the ecological, socioeconomic, and ecosystem information in the SAFE reports, recommendations from its SSC and AP, as well as public testimony when recommending ABCs and TACs at its December 2000 meeting. The Council also reviewed their recommended ABC and TAC recommendations at an emergency meeting during January 2001, relative to the emergency rule provisions for SSL protection measures.

The final specifications are set forth in Tables 3 through 30 of this action. For 2001, the sum of TACs is 2 million mt in the BSAI and 285,994 mt in the GOA.

Bering Sea and Aleutian Islands Management Area

In December 2000, the SSC, AP, and Council reviewed the BSAI Plan Team's recommendations for OFL and ABC levels. Except for Bogoslof pollock, Atka mackerel and the “other species” category, the SSC, AP, and Council endorsed the Plan Team's ABC recommendations. Based on the best available information, the SSC recommended lower ABCs for Bogoslof pollock and the “other species” category and slightly higher ABCs for Atka mackerel than the Plan Team recommended. For Bogoslof pollock, the SSC recommended a lower ABC than the Plan Team by reducing the fishing mortality based on the ratio of the current biomass to a target biomass of about 2 million mt. For “other species,” the Plan Team recommended an ABC based on mean catch since 1977. The SSC disagreed with this approach and recommended using a Tier 5 approach under the FMP. For Atka mackerel, the SSC adopted a slightly higher ABC than the Plan Team by increasing the fishing mortality rate. For all species, the AP endorsed the ABCs recommended by the SSC, and the Council adopted the AP's recommendations.

The Council's TAC recommendations were based on the ABCs as adjusted for other biological and socioeconomic considerations, including maintaining the total TAC within the required OY range of 1.4 million to 2.0 million mt. The Council adopted the AP's TAC recommendations with the exception of the “other red rockfish.”

Through 2000, the “other red rockfish” complex was comprised of northern, sharpchin, rougheye, and shortraker rockfish in the Bering Sea subarea. In the Aleutian Islands subarea, this complex was split out into two groups comprised of northern/sharpchin and rougheye/shortraker rockfish. For 2001, the Council recommended species-specific BSAI OFLs and ABCs for each species in the “other red rockfish” complex to reduce the potential for one species to be fished disproportionately to its abundance and resulting overfishing concerns.

For the non-CDQ fisheries, the Council recommended separate TACs for the Bering Sea and Aleutian Islands subareas for each of the four species in the other red rockfish complex. To further reduce the potential for differential harvesting, the Council recommended that these species be placed on bycatch only status in 2001. The Council also recommended that sharpchin rockfish, which were previously included in the “other red rockfish” complex, be moved into the other rockfish complex.

NMFS agrees with these recommendations, but will not be able to implement all of them in 2001 due to unanticipated monitoring constraints in the fixed gear fisheries. These species are reported by observers using group species codes, which, under current observer procedures, cannot be separated into specific species and incorporated into routine observer reports prior to the 2001 fishing year. Thus NMFS is modifying the Council's recommendation and is establishing BSAI wide OFL and ABC amounts for sharpchin/northern and rougheye/shortraker rockfish. The Bering Sea subarea now will be managed as the Aleutian Islands subarea has in the past, with two groups: Sharpchin/northern rockfish and shortraker/rougheye rockfish. Splitting the Bering Sea subarea “other red rockfish” complex into two groups addresses overfishing concern by decreasing the TAC amounts. To remain consistent with previous years' management, until species specific reporting is feasible, sharpchin rockfish will remain in a group with northern rockfish instead of being placed in the other rockfish group. The final ABCs as recommended by the Council and modified and approved by NMFS are listed in Table 3.

The Council recommended that the Bering Sea “other red rockfish” species category not be separated into individual species groups for the CDQ fisheries. The CDQ reserves for rockfish are 7.5 percent of the TAC. If CDQ reserves were specified for the new rockfish TAC categories, they would be 1.4 mt for Bering Sea sharpchin/northern and 8.7 mt for Bering Sea shortraker/rougheye. If these CDQ reserves were further divided among the six CDQ groups, the sharpchin/northern rockfish CDQ amounts available to each group would be between 100 kg and 325 kg. The Council recommended not splitting out the CDQ reserves to the individual species group because these small quotas could prevent the CDQ groups from harvesting much of their other groundfish CDQs. Therefore, consistent with Council intent to avoid premature closure of the CDQ fisheries, NMFS will continue to specify the CDQ reserve for the Bering Sea “other red rockfish” complex. The CDQ reserve for this complex will be calculated as the sum of an amount equal to 7.5 percent of the TAC for Bering Sea shortraker/rougheye plus 7.5 percent of the TAC for sharpchin/northern, for a total of 10 mt to the CDQ reserve for the “other red rockfish” complex. The Aleutian Islands rockfish TAC categories will remain the same in 2001 as in 2000 for both the CDQ and non-CDQ fisheries.

None of the Council's recommended TACs for 2001 exceeds the final ABC for any species category. NMFS finds that the Council's recommended TACs are consistent with the biological condition of groundfish stocks as described in the 2001 SAFE document and approves them with the exception of the “other red rockfish” complex. NMFS has modified the Council's TAC recommendations for this complex as described above to accommodate monitoring and reporting constraints.

Table 3 lists the 2001 OFL, ABC, TAC, ITAC, and Community Development Quota (CDQ) reserve amounts, overfishing levels, and initial apportionments of groundfish in the BSAI. The apportionment of TAC amounts among fisheries and seasons is discussed below.

Table 3.—2001 Acceptable Biological Catch (ABC), Total Allowable Catch (TAC), Initial Tac (ITAC), CDQ Reserve Allocation, and Overfishing Levels of Groundfish in the Bering Sea and Aleutian Islands Area (BSAI) ¹
[All amounts are in metric tons]
Species | Area | Overfishing level | ABC | TAC | ITAC ² | CDQ reserve ³
Pollock ⁴ | Bering Sea (BS) | 3,536,000 | 1,842,000 | 1,400,000 | 1,209,600 | 140,000
| Aleutian Islands (AI) | 31,700 | 23,800 | 2,000 | 1,800 | 200
| Bogoslof District | 60,200 | 8,470 | 1,000 | 900 | 100
Pacific cod | BSAI | 248,000 | 188,000 | 188,000 | 159,800 | 14,100
Sablefish ⁵ | BS | 1,910 | 1,560 | 1,560 | 663 | 215
| AI | 3,070 | 2,500 | 2,500 | 531 | 422
Atka mackerel | Total | 138,000 | 69,300 | 69,300 | 58,905 | 5,198
| Western AI |  | 27,900 | 27,900 | 23,715 | 2,093
| Central AI |  | 33,600 | 33,600 | 28,560 | 2,520
| Eastern AI/BS |  | 7,800 | 7,800 | 6,630 | 585
Yellowfin sole | BSAI | 209,000 | 176,000 | 113,000 | 96,050 | 8,475
Rock sole | BSAI | 271,000 | 228,000 | 75,000 | 63,750 | 5,625
Greenland turbot | Total | 31,000 | 8,400 | 8,400 | 7,140 | 630
| BS |  | 5,628 | 5,628 | 4,784 | 422
| AI |  | 2,772 | 2,772 | 2,356 | 208
Arrowtooth flounder | BSAI | 141,500 | 117,000 | 22,011 | 18,709 | 1,651
Flathead sole | BSAI | 102,000 | 84,000 | 40,000 | 34,000 | 3,000
Other flatfish ⁶ | BSAI | 147,000 | 122,000 | 28,000 | 23,800 | 2,100
Pacific ocean perch | BS | 2,040 | 1,730 | 1,730 | 1,471 | 130
| AI Total | 11,800 | 10,200 | 10,200 | 8,670 | 765
| Western AI |  | 4,740 | 4,740 | 4,029 | 356
| Central AI |  | 2,560 | 2,560 | 2,176 | 192
| Eastern AI |  | 2,900 | 2,900 | 2,465 | 218
Sharpchin/Northern ⁷ | BSAI | 9,020 | 6,764 | 6,764 | 5,749 |
| BS |  |  | 19 | 16 | (⁷)
| AI |  |  | 6,745 | 5,733 | 506
Shortraker/Rougheye ⁷ | BSAI | 1,369 | 1,028 | 1,028 | 874
| BS |  |  | 116 | 99 | (⁷)
| AI |  |  | 912 | 775 | 68
Other rockfish ⁸ | BS | 482 | 361 | 361 | 307 | 27
| AI | 901 | 676 | 676 | 575 | 51
Squid | BSAI | 2,620 | 1,970 | 1,970 | 1,675 | 148
Other species ⁹ | BSAI | 69,000 | 33,600 | 26,500 | 22,525 | 1,988
Total | 4,836,812 | 2,927,359 | 2,000,000 | 1,717,494 | 185,400
¹ Amounts are in metric tons. These amounts apply to the entire Bering Sea (BS) and Aleutian Islands (AI) management area unless otherwise specified. With the exception of pollock, and for the purpose of these specifications, the Bering Sea subarea includes the Bogoslof District.
² Except for pollock and the portion of the sablefish TAC allocated to hook-and-line or pot gear, 15 percent of each TAC is put into a reserve. The ITAC for each species is the remainder of the TAC after the subtraction of the reserve.
³ Except for pollock and the hook-and-line or pot gear allocation of sablefish, one half of the amount of the TACs placed in reserve, or 7.5 percent of the TACs, is designated as a CDQ reserve for use by CDQ participants (see § 679.31).
⁴ The AFA requires that 10 percent of the annual pollock TAC be allocated as a directed fishing allowance for the CDQ sector. NMFS then subtracts 4 percent of the remainder as an incidental catch allowance of pollock, which is not apportioned by season or area. The remainder is further allocated by sector as follows: inshore, 50 percent; catcher/processor, 40 percent; and motherships, 10 percent. NMFS, under regulations at § 679.24(b)(4), prohibits nonpelagic trawl gear to engage in directed fishing for non-CDQ pollock in the BSAI.
⁵ The ITAC for sablefish reflected in Table 3 is for trawl gear only. Regulations at § 679.20(b)(1) do not provide for the establishment of an ITAC for the hook-and-line or pot gear allocation for sablefish. Twenty percent of the sablefish TAC allocated to hook-and-line gear or pot gear and 7.5 percent of the sablefish TAC allocated to trawl gear is reserved for use by CDQ participants (see § 679.31(c)).
⁶ “Other flatfish” includes all flatfish species, except for Pacific halibut (a prohibited species), flathead sole, Greenland turbot, rock sole, yellowfin sole, and arrowtooth flounder.
⁷ The CDQ reserves for shortraker, rougheye, sharpchin, and northern rockfish will continue to be managed as the “other red rockfish” complex for the BS. For 2001 the CDQ reserve is 10 mt.
⁸ “Other rockfish” includes all Sebastes and Sebastolobus species except for Pacific ocean perch, sharpchin, northern, shortraker, and rougheye rockfish.
⁹ “Other species” includes sculpins, sharks, skates and octopus. Forage fish, as defined at § 679.2, are not included in the “other species” category.

Reserves and the Pollock Incidental Catch Allowance (ICA)

Regulations at § 679.20(b)(1)(i) require that 15 percent of the TAC for each target species or species group, except for the hook-and-line and pot gear allocation of sablefish, be placed in a non-specified reserve. The AFA supersedes this provision for pollock by requiring that the 2001 TAC for this species be fully allocated among the CDQ program, the ICA, inshore, catcher/processor, and mothership directed fishery allowances.

Regulations at § 679.20(b)(1)(iii) require that one-half of each TAC amount placed in the non-specified reserve be allocated to the groundfish CDQ reserve and that 20 percent of the hook-and-line and pot gear allocation of sablefish be allocated to the fixed gear sablefish CDQ reserve. Section 206(a) of the AFA requires that 10 percent of the pollock TAC be allocated to the pollock CDQ reserve. With the exception of the hook-and-line and pot gear sablefish CDQ reserve, the regulations do not further apportion the CDQ reserves by gear. Regulations at § 679.21(e)(1)(i) also require that 7.5 percent of each PSC limit, with the exception of herring, be withheld as a prohibited species quota (PSQ) reserve for the CDQ fisheries. Regulations governing the management of the CDQ and PSQ reserves are set forth at §§ 679.30 and 679.31.

Under section 206(b) of the AFA, NMFS allocates a pollock ICA of 4 percent of the pollock TAC after subtraction of the 10 percent CDQ reserve. This is a reduction from the 5 percent ICA specified for 2000. The 2001 allowance is based on an examination of the incidental catch of pollock in non-pollock target fisheries from 1997 through 2000. During this 4-year period, the incidental catch of pollock ranged from a low of 3 percent in 1998 to a high of about 6 percent in 1997, with a 4-year average of 4 percent. In 2000, the actual incidental catch was only 4 percent of the TAC instead of the 5 percent ICA withheld at the beginning of the year. As a result, 9,000 mt of pollock were reallocated to the directed fishing allowance for non-CDQ fisheries in the fall (65 FR 62646, October 19, 2000). Based on this experience, NMFS believes that a 2001 ICA of 4 percent is sufficient, even if incidental catch of pollock in the Pacific cod fishery increases under SSL protection measures (see Pacific cod seasons below).

The regulations do not designate the remainder of the non-specified reserve by species or species group, and any amount of the reserve may be reapportioned to a target species or to the “other species” category during the year, providing that such reapportionments do not result in overfishing. The Regional Administrator has determined that the ITACs specified for the species listed in Table 4 need to be supplemented from the non-specified reserve because U.S. fishing vessels have demonstrated the capacity to harvest the full TAC allocations. Therefore, in accordance with § 679.20(b)(3), NMFS is apportioning the amounts shown in Table 4 from the non-specified reserve to increase the ITAC to an amount that is equal to TAC minus the CDQ reserve.

Table 4.—Apportionment of Reserves to ITAC Categories
[All amounts are in metric tons]
Species—area or subarea | Reserve amount | Final ITAC
Atka mackerel—Western Aleutian District | 2,093 | 25,808
Atka mackerel—Central Aleutian District | 2,520 | 31,080
Atka mackerel—Eastern Aleutian District and Bering Sea subarea | 585 | 7,215
Pacific ocean perch—Western Aleutian District | 356 | 4,385
Pacific ocean perch—Central Aleutian District | 192 | 2,368
Pacific ocean perch—Eastern Aleutian District | 218 | 2,683
Pacific cod—BSAI | 14,100 | 173,900
Sharpchin/Northern rockfish-Aleutian Islands subarea | 506 | 6,239
Shortraker/Rougheye rockfish—Aleutian Islands subarea | 68 | 843
Greenland turbot—Bering Sea subarea | 422 | 5,206
Greenland turbot—Aleutian Islands subarea | 208 | 2,564
Total | 21,268 | 262,291

Pollock Allocations Under the AFA

Section 206(a) of the AFA requires the allocation of 10 percent of the BSAI pollock TAC as a directed fishing allowance to the CDQ program. The remainder of the BSAI pollock TAC, after the subtraction of an allowance for the incidental catch of pollock by vessels, including CDQ vessels, harvesting other groundfish species, must be allocated as follows: 50 percent to catcher vessels harvesting pollock for processing by the inshore component, 40 percent to catcher/processors and catcher vessels harvesting pollock for processing by catcher/processors in the offshore component, and 10 percent to catcher vessels harvesting pollock for processing by motherships in the offshore component. These amounts are listed in Table 5.

The AFA also contains several specific requirements concerning pollock and pollock allocations. First, paragraph 210(c) of the AFA requires that not less than 8.5 percent of the pollock allocated to vessels for processing by offshore catcher/processors be available for harvest by offshore catcher vessels listed in section 208(b) harvesting pollock for processing by offshore catcher/processors listed in paragraph 208(e). Second, paragraph 208(e)(21) of the AFA specifies that catcher/processors eligible to fish for pollock under such paragraph are prohibited from harvesting in the aggregate a total of more than one-half of a percent (0.5 percent) of the pollock allocated to vessels for processing by offshore catcher/processors. Third, paragraph 210(e)(1) of the AFA specifies that no particular individual, corporation, or other entity may harvest, through a fishery cooperative or otherwise, a total of more than 17.5 percent of the pollock available to be harvested in the directed pollock fishery. Other provisions of the AFA, including inshore pollock cooperative allocations and AFA catcher vessel harvest limitations are discussed later in this section. Table 5 lists the 2001 allocations of pollock TAC as described by the AFA.

SCA Harvest Limits

As described in Part I, this emergency rule establishes pollock harvest limits in the SCA at a level that do not exceed the harvest in metric tons authorized for the 2000 fishery. These amounts, by sector, are listed in Table 5.

Table 5.—Allocations of the Pollock TAC and Directed Fishing Allowance to the Inshore, Catcher/Processor, Mothership, and CDQ Components ¹
[All amounts are in metric tons]
Area and Sector | 2001 DFA | A/B Season ¹: A/B DFA | A/B Season ¹: A SCA limit ³ | A/B Season ¹: B SCA Limit ³ | C/D Season 1 2: C/D DFA | C/D Season 1 2: C SCA Limit ³ | C/D Season 1 2: D SCA Limit ³
Bering Sea subarea | 1,400,000 | 560,000 | 166,751 | 55,497 | 840,000 | 48,210 | 80,142
CDQ | 140,000 | 56,000 | 28,247 | 9,339 | 84,000 | 9,567 | 15,718
ICA ⁴ | 50,400 |  |  |  |  |  |
AFA Inshore | 604,800 | 241,920 | 81,802 | 27,267 | 362,880 | 39,440 | 65,734
AFA C/Ps ⁵ | 483,840 | 193,536 | 38,564 | 12,854 | 290,304 | 0 | 0
Catch by C/Ps | 442,714 | 177,085 |  |  | 265,628 |  |
Catch by CVs ⁵ | 41,126 | 16,451 |  |  | 24,676 |  |
Restricted C/P cap ⁶ | 2,419 | 968 |  |  | 1,452 |  |
AFA Motherships | 120,960 | 48,384 | 14,607 | 4,869 | 72,576 | 0 | 0
Excessive shares cap ⁷ | 211,680 |  |  |  |  |  |
Aleutian Islands ICA ⁸ | 2,000 |  |  |  |  |  |
Bogoslof District ICA ⁸ | 1,000 |  |  |  |  |  |
¹ After subtraction for the CDQ reserve and the incidental catch allowance, the pollock TAC is allocated as follows: inshore component—50 percent, catcher/processor component—40 percent, and mothership component—10 percent. Under paragraph 206(a) of the AFA, the CDQ reserve for pollock is 10 percent. NMFS, under regulations at § 679.24(b)(4), prohibits nonpelagic trawl gear to engage in directed fishing for non-CDQ pollock in the BSAI. The A/B season, January 20—June 10, is allocated 40 percent and the C/D season, June 10—October 31 is allocated 60 percent.
² This emergency interim rule expires on July 17, 2001, before the B season will conclude. Therefore, the B season is not fully authorized unless the emergency interim rule is extended.
³ The SCA limits are established as the amount, in metric tons, authorized for the 2000 pollock fishery (65 FR 3896, January 25, 2000).
⁴ The pollock incidental catch allowance for the BS subarea is 4 percent of the TAC after subtraction of the CDQ reserve.
⁵ Subsection 210(c) of the AFA requires that not less than 8.5 percent of the directed fishing allowance allocated to listed catcher/processors (C/Ps) shall be available for harvest only by eligible catcher vessels (CVs) delivering to listed catcher/processors.
⁶ The AFA requires that vessels described in section 208(e)(21) be prohibited from exceeding a harvest amount of one-half of one percent of the directed fishing allowance allocated to vessels for processing by AFA catcher/processors.
⁷ Paragraph 210(e)(1) of the AFA specifies that “No particular individual, corporation, or other entity may harvest, through a fishery cooperative or otherwise, a total of more than 17.5 percent of the pollock available to be harvested in the directed pollock fishery.”
⁸ Consistent with the RPAs, the Aleutian Islands subarea and the Bogoslof District are closed to directed fishing for pollock. The amounts specified are for incidental catch amounts only, and are not apportioned by season or sector.

Allocation of the Atka Mackerel TAC

Due to concerns about the potential impact of the Atka mackerel fishery on Steller sea lions and their critical habitat, NMFS issued regulations that implement temporal and spatial dispersion of fishing effort in the Atka mackerel fisheries. Regulations at § 679.20(a)(8)(ii) apportion the Atka mackerel ITAC into two equal seasonal allowances. After subtraction of the jig gear allocation, the first allowance is made available for directed fishing from January 1 to April 15 (A season), and the second seasonal allowance is made available from September 1 to November 1 (B season) (Table 6). According to § 679.22(a)(8), fishing with trawl gear in areas defined as Steller sea lion critical habitat (See Table 21 to 50 CFR part 679) within the Western and Central Aleutian Districts, is prohibited during each Atka mackerel season after specified percentages of the TAC are harvested within designated critical habitat areas. In 2001, the specified percentage of each seasonal allowance within critical habitat is 48 percent in the Western Aleutian District and 46 percent in the Central Aleutian District (§ 679.22(a)(8)(iii)(B)). A Steller sea lion critical habitat closure to fishing with trawl gear within an area will remain in effect until NMFS closes Atka mackerel to directed fishing within the same area. The regulations do not establish critical habitat closures based on Atka mackerel catch percentages inside critical habitat areas for the Eastern Aleutian District and Bering Sea subarea.

Under § 679.20(a)(8)(i), up to 2 percent of the Eastern Aleutian District and the Bering Sea subarea Atka mackerel ITAC may be allocated to the jig gear fleet. The Council determines the amount of this allocation annually, based on several criteria including the anticipated harvest capacity of the jig gear fleet. In December 2000, the Council recommended that 1 percent of the Atka mackerel TAC in the Eastern Aleutian District and Bering Sea subarea be allocated to the jig gear fleet based on historic harvest capacity of the fleet. NMFS finds that this is consistent with the status of the stock and with the regulatory framework stated above. Based on an ITAC of 7,215 mt, the jig gear allocation is 72 mt.

Table 6.—Seasonal and Spatial Apportionments, Gear Shares, and CDQ Reserve of the BSAI ATKA Mackerel TAC
[All amounts are in metric tons]
Subarea & component | TAC | CDQ reserve | TACI ¹ | Seasonal apportionment ²: A season ³: Total | Seasonal apportionment ²: A season ³: CH Limit ⁵ | Seasonal apportionment ²: B Season ⁴: Total | Seasonal apportionment ²: B Season ⁴: CH limit ⁵
Western Aleutian District | 27,900 | 2,093 | 25,808 | 12,904 | 6,194 | 12,904 | 6,194
Central Aleutian District | 33,600 | 2,520 | 31,080 | 15,540 | 7,148 | 15,540 | 7,148
Eastern AI/BS subarea ⁶ | 7,800 | 585 | 7,215 |  |  |  |
Jig (1%) ⁷ |  |  | 72
Other gear (99%) |  |  | 7,143 | 3,572 |  | 3,572 |
Total | 69,300 | 5,198 | 64,103 | 32,016 |  | 32,016 |
¹ The reserves have been released for Atka mackerel see (Table 4).
² The seasonal apportionment of Atka mackerel is 50 percent in the A season and 50 percent in the B season.
³ The A season is January 1 through noon April 15.
⁴ The B season is September 1 through noon November 1.
⁵ Critical habitat (CH) allowance refers to the amount of each seasonal allowance that is available for fishing inside critical habitat (50 CFR part 679 Table 21). In 2001, the percentage of each seasonal allowance available for fishing inside critical habitat is 48 percent in the Western AI and 46 percent in the Central AI. When these critical habitat allowances are reached, critical habitat areas will be closed to trawling until NMFS closes Atka mackerel to directed fishing within the same district.
⁶ Eastern Aleutian District and Bering Sea subarea.
⁷ Regulations at § 679.20 (a)(8) require that up to 2 percent of the Eastern AI/BS area ITAC be allocated to the jig gear fleet. The amount of this allocation is 1 percent and was determined by the Council based on anticipated harvest capacity of the jig gear fleet. The jig gear allocation is not apportioned by season.

Allocation of the Pacific Cod TAC

Under § 679.20(a)(7), 2 percent of the Pacific cod ITAC is allocated to vessels using jig gear, 51 percent to vessels using hook-and-line or pot gear, and 47 percent to vessels using trawl gear. Under § 679.20(a)(7)(i)(B), the portion of the Pacific cod TAC allocated to trawl gear is further allocated 50 percent to catcher vessels and 50 percent to catcher/processors. Under regulations at § 679.20(a)(7)(i)(C)(1), a portion of the Pacific cod allocated to hook-and-line or pot gear is set aside as an ICA of Pacific cod in directed fisheries for groundfish other than Pacific cod by vessels using these gear types. Based on anticipated bycatch in these fisheries, the Council proposed an ICA of 500 mt. The remainder of Pacific cod is further allocated to vessels using hook-and-line or pot gear as the following directed fishing allowances: 80 percent to hook-and-line catcher/processor vessels, 0.3 percent to hook-and-line catcher vessels, 18.3 percent to pot gear vessels, and 1.4 percent to catcher vessels under 60 feet LOA using hook-and-line or pot gear.

Due to concerns about the potential impact of the Pacific cod fishery on Steller sea lions and their critical habitat, NMFS is implementing under this emergency rule temporal dispersion of fishing effort in the Pacific cod fisheries by apportioning the Pacific cod ITAC into two seasonal allowances. The first allowance, 60 percent of the ITAC, is made available for directed fishing from January 1 to June 10, and the second seasonal allowance, 40 percent of the ITAC, is made available from June 10 to December 31. Table 7 lists the 2001 allocations and seasonal apportionments of the Pacific cod ITAC.

Table 7.—2001 Gear Shares and Seasonal Apportionments of the BSAI Pacific Cod TAC
Gear sector | Percent | Share ¹ (mt) | Seasonal apportionment ²: Date | Seasonal apportionment ²: Amount (mt)
Jig | 2 | 3,478 | Jan 1-Jun 10 | 2,087
|  |  | Jun 10-Dec 31 | 1,391
Total hook-and-line and pot gear allocation of Pacific cod TAC | 51 | 88,689 |  |
Hook-and-line Catcher Processors | 80 | 70,551 | Jan 1-Jun 10 | 42,331
|  |  | Jun 10-Dec 31 | 28,220
Hook-and-Line Catcher Vessels | 0.3 | 265 | Jan 1-Jun 10 | 159
|  |  | Jun 10-Dec 31 | 106
Pot Gear Vessels | 18.3 | 16,139 | Jan 1-Jun 10 | 9,683
|  |  | Jun 10-Dec 31 | 6,455
Catcher Vessels < 60 feet LOA using Hook-and-line or Pot gear | 1.4 | 1,235 | Jan 1-Jun 10 | 741
|  |  | Jun 10-Dec 31 | 494
Hook-and-line and pot gear sub-total | 100 | 88,189 |  |
Hook-and-line and pot gear Incidental Catch Allowance |  | 500 |  | 500
Trawl gear | 47 | 81,733 |  |
Catcher Vessel | 50 | 40,867 | Jan 1-Jun 10 | 24,520
|  |  | Jun 10-Dec 31 | 16,347
Catcher Processor | 50 | 40,867 | Jan 1-Jun 10 | 24,520
|  |  | Jun 10-Dec 31 | 16,347
Total |  | 173,900 |  |
¹ The reserve have been released for Pacific cod see (Table 4).
² The first season is allocated 60 percent of the TAC and the second season is allocated 40 percent of the TAC. Any unused portion of the first seasonal Pacific cod allowance will be reapportioned to the second seasonal allowance.

Allocation of the Shortraker and Rougheye Rockfish TAC

Under § 679.20(a)(9), the ITAC of shortraker rockfish and rougheye rockfish specified for the Aleutian Islands subarea is allocated 30 percent to vessels using non-trawl gear and 70 percent to vessels using trawl gear. Based on a 2001 ITAC of 843 mt, the trawl allocation is 590 mt and the non-trawl allocation is 253 mt.

Sablefish Gear Allocation

Regulations at § 679.20(a)(4) (iii) and (iv) require that sablefish TACs for the BS and AI subareas be allocated between trawl and hook-and-line or pot gear. Gear allocations of TACs for the Bering Sea subarea are 50 percent for trawl gear and 50 percent for hook-and-line or pot gear and for the Aleutian Islands subarea are 25 percent for trawl gear and 75 percent for hook-and-line or pot gear. Regulations at § 679.20(b)(1)(iii)(B) require that 20 percent of the hook-and-line and pot gear allocation of sablefish be reserved as sablefish CDQ. Additionally, regulations at § 679.20(b)(1)(iii)(A) require that 7.5 percent of the trawl gear allocation of sablefish (one half of the reserve) be reserved as groundfish CDQ. Gear allocations of the sablefish TAC and CDQ reserve amounts are specified in Table 8.

Table 8.—Gear Shares and CDQ Reserve of BSAI Sablefish TAC
[All amounts are in metric tons]
Subarea & gear | Percent of TAC | Share of TAC | ITAC ¹ | CDQ reserve
Bering Sea:
Trawl ² | 50 | 780 | 663 | 59
Hook-&-line/pot gear ³ | 50 | 780 | N/A | 156
Total | 100 | 1,560 | 663 | 215
Aleutian Islands:
Trawl ² | 25 | 625 | 531 | 47
Hook-&-line/pot gear ³ | 75 | 1,875 | N/A | 375
Total | 100 | 2,500 | 531 | 422
¹ Except for the sablefish hook-and-line and pot gear allocation, 15 percent of TAC is apportioned to reserve. The ITAC is the remainder of the TAC after the subtraction of these reserves.
² For the portion of the sablefish TAC allocated to vessels using trawl gear, one half of the reserve (7.5 percent of the specified TAC) is reserved for the multi-species CDQ program.
³ For the portion of the sablefish TAC allocated to vessels using hook-and-line or pot gear, 20 percent of the allocated TAC is reserved for use by CDQ participants. Regulations in § 679.20(b)(1) do not provide for the establishment of an ITAC for sablefish allocated to hook-and-line or pot gear.

Allocation of Prohibited Species Catch (PSC) Limits for Halibut, Crab, Salmon, and Herring

PSC limits for halibut are set in regulations at § 679.21(e). For the BSAI trawl fisheries, the limit is 3,675 mt mortality of Pacific halibut. For non-trawl fisheries, the limit is 900 mt mortality. PSC limits for crab and herring are specified annually based on abundance and spawning biomass. On June 15, 2000, the Pacific halibut and crab PSC limits and associated bycatch allowances for the BSAI trawl fisheries were reduced under regulations implementing Amendment 57 to the FMP for the Groundfish Fishery of the BSAI. Amendment 57 (65 FR 31105, May 16, 2000) prohibits the use of nonpelagic trawl gear in the BSAI directed fishery for pollock. The anticipated reductions in the halibut and crab bycatch resulted in corresponding reductions in the PSC limits for these species. New Chinook Salmon PSC limits were established for the BSAI pollock fishery under Amendment 58 and its implementing regulations at § 679.21(e)(1)(vii). These PSC limits are reduced annually over the next 4 year period. In 2001, the chinook salmon PSC limit for the pollock fishery is 41,000 fish.

The criteria for determining the PSC limits for red king crab in Zone 1 are set forth at § 679.21(e)(1)(ii). For 2001, the PSC limit of red king crab in Zone 1 for trawl vessels is 97,000 animals. The number of mature female red king crab is estimated in 2001 to be above the threshold of 8.4 million animals, and the effective spawning biomass is estimated to be 39.9 million lb (18,099 mt) which is greater than 14.5 million lb (6,577 mt) but less than 55 million lb (24,948 mt). Based on the criteria set out at § 679.21(e)(1)(ii)(B), the limit is 97,000 animals.

The criteria for determining the PSC limits for C. bairdi crabs are set forth in § 679.21(e)(1)(iii). The 2001 C. bairdi PSC limit for trawl gear is 730,000 animals in Zone 1 and 2,070,000 animals in Zone 2. These limits are based on survey data from 2000. In Zone 1, C. bairdi abundance was estimated to be greater than 150 million and less than 270 million animals. In Zone 2, C. bairdi abundance was estimated to be greater than 175 million animals and less than 290 million animals.

Under § 679.21(e)(1)(iv), the PSC limit for C. opilio is based on total abundance as indicated by the NMFS annual bottom trawl survey. The C. opilio PSC limit is set at 0.1133 percent of the Bering Sea abundance index. Based on the 2000 survey estimate of 3.2 billion animals, the calculated limit would be 3,625,600 animals. Because this limit is less than 4.5 million, under § 679.21(e)(1)(iv)(B), the 2001 C. opilio PSC limit is 4,350,000 animals.

Under § 679.21(e)(1)(vi), the PSC limit of Pacific herring caught while conducting any trawl operation for groundfish in the BSAI is 1 percent of the annual eastern Bering Sea herring biomass. NMFS' best estimate of 2001 herring biomass is 152,574 mt. This amount was derived using 2000 survey data and an age-structured biomass projection model developed by the Alaska Department of Fish and Game (ADF&G). Therefore, the herring PSC limit for 2001 is 1,526 mt.

Under § 679.21(e)(1)(i), 7.5 percent of each PSC limit specified for crab and halibut is reserved as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit among five fishery categories. The fishery bycatch allowances for the trawl and non-trawl fisheries are listed in Table 9. These amounts are unchanged from those recommended by the Council at its December 2000 meeting.

Regulations at § 679.21(e)(3)(ii)(B) establish criteria under which NMFS must specify an annual red king crab bycatch limit for the Red King Crab Savings Subarea (RKCSS). The regulations limit the RKCSS to 35 percent of the trawl bycatch allowance specified for the rock sole/flathead sole/ “other flatfish” fishery category and must be based on the need to optimize the groundfish harvest relative to red king crab bycatch. The Council recommended and NMFS approves a red king crab bycatch limit equal to 35 percent of the trawl bycatch allowance specified for the flatfish fishery within the RKCSS in order maximum harvest of groundfish relative to red king crab bycatch.

Regulations at § 679.21(e)(4)(ii) authorize exemption of specified non-trawl fisheries from the halibut PSC limit. As in past years, NMFS, after consultation with the Council, is exempting pot gear, jig gear, and the sablefish IFQ hook-and-line gear fishery categories from halibut bycatch restrictions because these fisheries use selective gear types that take few halibut compared to other gear types such as nonpelagic trawl. In 2000, total groundfish catch for the pot gear fishery in the BSAI was approximately 19,872 mt with an associated halibut bycatch mortality of about 4 mt. The 2000 groundfish jig gear fishery harvested about 72 mt of groundfish. Most vessels in the jig gear fleet are less than 60 ft (18.3 m) LOA and are exempt from observer coverage requirements. As a result, observer data are not available on halibut bycatch in the jig gear fishery. However, NMFS assumes a negligible amount of halibut bycatch mortality because of the selective nature of this gear type and the likelihood that halibut caught with jig gear have a high survival rate when released.

As in past years, the Council recommended that the sablefish IFQ fishery be exempt from halibut bycatch restrictions because of the sablefish and halibut IFQ program (subpart D of 50 CFR part 679). The sablefish IFQ program requires legal-sized halibut to be retained by vessels using hook-and-line gear if a halibut IFQ permit holder is aboard and is holding unused halibut IFQ. This action results in less halibut discard in the sablefish fishery. In 1995, about 36 mt of halibut discard mortality was estimated for the sablefish IFQ fishery. A similar estimate for 1996 through 2000 has not been calculated, but NMFS has no information indicating that it would be significantly different. NMFS approves the Council's recommendation to exempt the hook-and-line sablefish from halibut bycatch restrictions.

Regulations at § 679.21(e)(5) authorize NMFS, after consultation with the Council, to establish seasonal apportionments of PSC amounts in order to maximize the ability of the fleet to harvest the available groundfish TAC and to minimize bycatch. The factors to be considered are: (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. In December 2000, the Council's AP recommended seasonal PSC apportionments in order to maximize harvest among gear types, fisheries, and seasons while minimizing bycatch of PSC based upon the criteria above. NMFS approves the PSC apportionments specified in Table 9, below. However, NMFS recognizes that the Council did not have the opportunity in December 2000, to evaluate the effects of SSL protection measures implemented by this emergency rule on PSC bycatch needs throughout the year with respect to factors listed above. After consulting with the Council at its emergency January 2001 meeting, NMFS will consider amending PSC seasonal apportionments and amounts.

Table 9.—Prohibited Species Bycatch Allowances for the BSAI Trawl and Non-Trawl Fisheries ¹
[All amounts are in metric tons]
| Prohibited species and zone: Halibut mortality (mt) BSAI | Prohibited species and zone: Herring (mt) BSAI | Prohibited species and zone: Red King Crab (animals) Zone 1 | Prohibited species and zone: C. opilio (animals) COBLZ ² | Prohibited species and zone: C. bairdi (animals): Zone 1 | Prohibited species and zone: C. bairdi (animals): Zone 2
TRAWL FISHERIES
Yellowfin sole | 911 | 139 | 11,664 | 2,876,981 | 253,894 | 1,246,502
January 20-March 31 | 286 |  |  |  |  |
April 1-May 20 | 196 |  |  |  |  |
May 21-July 3 | 49 |  |  |  |
July 1-December 31 | 380 |  |  |  |  |
Rocksole/oth.flat/flat sole ³ | 854 | 20 | 64,782 | 469,130 | 272,126 | 415,501
January 20-March 31 | 498 |  |  |  |  |
April 1-July 31 | 179 |  |  |  |  |
July 1-December 31 | 177 |  |  |  |  |
RKC savings subarea ³ |  |  | 22,674 |  |  |
Turbot/sablefish/arrowtooth ⁴ |  | 9 |  | 40,238 |  |
Rockfish (July 1-December 31) ⁵ | 69 | 7 |  | 40,237 |  | 7,658
Pacific cod | 1,334 | 20 | 11,664 | 524,736 | 136,400 | 225,941
Pollock/Atka/other ⁶ | 232 | 146 | 1,615 | 72,428 | 12,830 | 19,148
Midwater trawl pollock |  | 1,184 |  |  |  |
Total Trawl PSC | 3,400 | 1,526 | 89,725 | 4,023,750 | 675,250 | 1,914,750
NON-TRAWL FISHERIES
Pacific cod—Total | 755 |  |  |  |  |
Jan. 1-June 10 ⁷ | 300 |  |  |  |  |
June 11-July 31 | 0 |  |  |  |  |
August 1-Dec. 31 | 455 |  |  |  |  |
Other non-trawl-Total | 78 |  |  |  |  |
May 1-December 31 | 78 |  |  |  |  |
Groundfish pot & jig | Exempt |  |  |  |  |
Sablefish hook-&-line | Exempt |  |  |  |  |
Total Non-Trawl | 833 |  |  |  |  |
PSQ Reserve ⁸ | 342 |  | 7,275 | 326,250 | 54,750 | 155,250
Grand Total | 4,575 | 1,526 | 97,000 | 4,350,000 | 730,000 | 2,070,000
¹ Refer to § 679.2 for definitions of areas.
² C. opilio Bycatch Limitation Zone. Boundaries are defined at 50 CFR part 679, fig. 13.
³ The Council at its December 2000 meeting limited red king crab for trawl fisheries within the RKCSS to 35 percent of the total allocation to the rock sole, flathead sole, and other flatfish fishery category (§ 679.21(e)(3)(ii)(B)).
⁴ Greenland turbot, arrowtooth flounder, and sablefish fishery category.
⁵ The Council at its December 2000 meeting apportioned the rockfish PSC amounts from July 1-December 31, to prevent fishing for rockfish before July 1, 2001.
⁶ Pollock other than pelagic trawl pollock, Atka mackerel, and “other species” fishery category.
⁷ Any unused halibut PSC from the first trimester may be rolled over into the third trimester.
⁸ With the exception of herring, 7.5 percent of each PSC limit is allocated to the multi-species CDQ program as PSQ reserve. The PSQ reserve is not allocated by fishery, gear or season.

To monitor halibut bycatch mortality allowances and apportionments, the Administrator, Alaska Region, NMFS (Regional Administrator), will use observed halibut bycatch rates, assumed mortality rates, and estimates of groundfish catch to project when a fishery's halibut bycatch mortality allowance or seasonal apportionment is reached. The Regional Administrator monitors a fishery's halibut bycatch mortality allowances using assumed mortality rates that are based on the best information available, including information contained in the annual SAFE reports.

The Council recommended, and NMFS concurs, that the assumed halibut mortality rates developed by staff of the International Pacific Halibut Commission (IPHC) for the 2001 BSAI groundfish fisheries be adopted for purposes of monitoring halibut bycatch allowances established for 2001. Results from analysis of halibut release condition data for 1999 showed continued stability in halibut discard mortality rates (DMRs) for many fisheries. Plots of annual DMRs against the 10-year mean indicated little change since 1990 for some fisheries, particularly the major trawl fisheries. DMRs were more variable for the smaller fisheries which typically take minor amounts of halibut bycatch. A new procedure for determining Preseason Assumed DMRs was proposed by the IPHC and adopted by the Council, which included use of the long-term mean DMR for a 3-year period before revisions are proposed except for BSAI longline Pacific cod, for which the Council recommended setting annual DMRs. The IPHC will also continue to conduct annual analyses of observer data and recommend changes to the Preseason Assumed DMR where a fishery DMR shows large variation from the mean. The justification for these mortality rates is discussed in the final SAFE report dated November 2000.

Table 10.—Assumed Pacific Halibut Mortality Rates for the BSAI Fisheries
Fishery | Preseason assumed mortality (percent )
Hood-and-line gear fisheries:
Rockfish | 25
Pacific cod | 12
Greenland turbot | 18
Sablefish | 22
Other Species | 12
Trawl gear fisheries:
Midwater pollock | 84
Non-pelagic pollock | 76
Yellowfin sole | 81
Rock sole | 76
Flathead sole | 67
Other flatfish | 71
Rockfish | 69
Pacific cod | 67
Atka mackerel | 75
Greenland turbot | 70
Sablefish | 50
Other species | 67
Pot gear fisheries:
Pacific cod | 8
Other species | 8
CDQ Trawl fisheries:
Atka mackerel | 82
Midwater pollock | 90
Non-pelagic pollock | 88
Rockfish | 88
Yellowfin sole | 83
CDQ Hood-and-line fisheries:
Pacific cod | 10

Directed Fishing Closures

In accordance with § 679.20(d)(1)(i), if the Regional Administrator determines that any allocation or apportionment of a target species or “other species” category has been or will be reached, the Regional Administrator may establish a directed fishing allowance for that species or species group. If the Regional Administrator establishes a directed fishing allowance, and that allowance is or will be reached before the end of the fishing year, NMFS will prohibit directed fishing for that species or species group in the specified subarea or district (§ 697.20(d)(1)(iii)). Similarly, under § 679.21(e), if the Regional Administrator determines that a fishery category's bycatch allowance of halibut, red king crab, or C. bairdi Tanner crab for a specified area has been reached, the Regional Administrator will prohibit directed fishing for each species in that category in the specified area.

The Regional Administrator has determined that the following remaining allocation amounts will be necessary as incidental catch to support other anticipated groundfish fisheries for the 2001 fishing year:

| (mt)
Bogoslof District:
Pollock | 1,000
Aleutian Islands subarea:
Pollock | 2,000
Sharpchin/northern rockfish | 6,239
Shortraker/rougheye rockfish | 843
“Other rockfish” | 575
Bering Sea subarea:
Pacific ocean perch | 1,471
“Other rockfish” | 307
Sharpchin/northern rockfish | 16
Shortraker/rougheye rockfish | 99

Consequently, in accordance with § 679.20(d)(1)(i), the Regional Administrator establishes the directed fishing allowances for the above species or species groups as zero.

Therefore, in accordance with § 679.20(d)(1)(iii), NMFS immediately is prohibiting directed fishing for these species in the specified areas and these closures will remain in effect through 2400 hrs, Alaska local time (A.l.t.), December 31, 2001, effective January 18, 2001.

In addition, the BSAI, Zone 1, annual red king crab allowance specified for the trawl rockfish fishery (§ 679.21(e)(3)(iv)(D)) is 0 mt and the BSAI first seasonal halibut bycatch allowance specified for the trawl rockfish fishery is 0 mt. The BSAI annual halibut bycatch allowance specified for the trawl Greenland turbot/arrowtooth flounder/sablefish fishery categories, (§ 679.21(e)(3)(iv)(C)) is 0 mt. Therefore, in accordance with § 679.21(e)(7)(ii) and (v), NMFS is prohibiting directed fishing for rockfish by vessels using trawl gear in Zone 1 of the BSAI and directed fishing for Greenland turbot/arrowtooth flounder/sablefish by vessels using trawl gear in the BSAI for the entire 2001 fishing year. NMFS is also prohibiting directed fishing for rockfish outside Zone 1 in the BSAI until 1200 hrs, A.l.t, July 1, 2001.

While these closures are in effect, the maximum retainable bycatch amounts at § 679.20(e) and (f) apply at any time during a fishing trip. These closures to directed fishing are in addition to closures and prohibitions found in regulations at 50 CFR part 679. Refer to § 679.2 for definitions of areas. In the BSAI, “Other rockfish” includes Sebastes and Sebastolobus species except for Pacific ocean perch, shortraker, rougheye, sharpchin, and northern rockfish.

BS Subarea Inshore Pollock Allocations

Under § 679.20(a)(5)(i)(C), NMFS must subdivide the inshore allocation into allocations for cooperatives and vessels not fishing in a cooperative (i.e., the open access sector). In addition, under § 679.22(a)(11)(iv), NMFS must establish harvest limits inside the Steller sea lion conservation area (SCA) and provide a set-aside so that catcher vessels less than or equal to 99 ft (30.2 m) LOA have the opportunity to operate entirely within the SCA during the A, B and D seasons. Accordingly, Table 11 lists the apportionment of the BS subarea inshore pollock allocation into allocations for vessels fishing in a cooperative and for vessels not participating in a cooperative and establishes a cooperative-sector SCA set-aside for AFA catcher vessels less than or equal to 99 ft (30.2 m) LOA. The SCA set-aside for sector catcher vessels less than or equal to 99 ft (30.2 m) LOA that are not participating in a cooperative will be established inseason based on actual participation levels and is not included in Table 11. These allocations may be revised based on any corrections to AFA vessels' catch history.

Table 11.—Bering Sea Subarea Pollock Allocations to the Cooperative and Open Access Sectors of the Inshore Pollock Fishery
[Amounts are expressed in metric tons]
| A/B season TAC | A season inside SCA ¹ | B season inside SCA | C/D season TAC | C season inside SCA ¹ | D season inside SCA
Cooperative sector:
Vessels > 99 ft | n/a | 70,890 | 23,630 | n/a | n/a | 56,966
Vessels ≤ 99 ft | n/a | 10,593 | 3,531 | n/a | n/a | 8,512
Total | 240,976 | 81,483 | 27,161 | 361,465 | 39,286 | 65,478
Open access sector | 944 | ² 319 | ² 106 | 1,415 | 154 | ² 256
Total inshore | 241,920 | 81,802 | 27,267 | 362,880 | 39,440 | 65,734
¹ Steller sea lion conservation area established at § 679.22(a)(11)(iv).
² SCA limitations for vessels less than or equal to 99 ft LOA that are not participating in a cooperative will be established on an inseason basis in accordance with § 679.22(a)(11)(iv)(D)( 2) which specifies that “the Regional Administrator will prohibit directed fishing for pollock by vessels catching pollock for processing by the inshore component greater than 99 ft (30.2 m) LOA before reaching the inshore SCA harvest limit during the A, B and D seasons to accommodate fishing by vessels less than or equal to 99 ft (30.2 m) inside the SCA for the duration of the inshore seasonal opening.”

Under § 679.4, NMFS set out procedures for AFA inshore catcher vessel pollock cooperatives to apply for and receive cooperative fishing permits and inshore pollock allocations. NMFS received applications from seven inshore catcher vessel cooperatives. Table 12 lists the pollock allocations to the seven inshore catcher vessel pollock cooperatives that have been approved and permitted by NMFS for the 2001 fishing year. Allocations for cooperatives and vessels not participating in cooperatives are not made for the AI subarea because the AI subarea has been closed to directed fishing for pollock. These allocations may be revised based on any corrections to AFA vessels' catch history.

Table 12.—Bering Sea Subarea Inshore Cooperative Allocations
Cooperative name and member vessels | Sum of member vessel's official catch histories ¹ | Percentage of inshore sector allocation (percent) | Annual co-op allocation
Akutan Catcher Vessel Association:
ALDEBARAN, ARCTURUS, BLUE FOX, CAPE KIWANDA, COLUMBIA, DOMINATOR, DONA MARTITA, EXODUS, GLADIATOR, GOLDEN DAWN, GOLDEN PISCES, HAZEL LORRAINE, INTREPID EXPLORER, LESLIE LEE, LISA MELINDA, MAJESTY, MARCY J, MARGARET LYN, NORDIC EXPLORER, NORTHERN PATRIOT, NORTHWEST EXPLORER, PACIFIC RAM, PACIFIC VIKING, PEGASUS, PEGGIE JO, PERSEVERANCE, PREDATOR, RAVEN, ROYAL AMERICAN, SEEKER, SOVEREIGNTY, TRAVELER, VIKING EXPLORER | 265,244 | 29.889 | 180,769
Arctic Enterprise Association:
ARCTIC EXPLORER, BRISTOL EXPLORER, OCEAN EXPLORER, PACIFIC EXPLORER | 50,008 | 5.635 | 34,080
Northern Victor Fleet Cooperative:
ANITA J, NORDIC FURY, PACIFIC FURY, GOLDRUSH, EXCALIBUR II, HALF MOON BAY, SUNSET BAY, COMMODORE, STORM PETREL, POSEIDON, ROYAL ATLANTIC, MISS BERDIE | 72,024 | 8.116 | 49,086
Peter Pan Fleet Cooperative:
AMBER DAWN, AMERICAN BEAUTY, ELIZABETH F, OCEAN HOPE 1, OCEANIC, OCEAN LEADER, TOPAZ, WALTER N | 15,309 | 1.725 | 10,433
Unalaska Cooperative:
ALASKA ROSE, BERING ROSE, DESTINATION, GREAT PACIFIC, MESSIAH, MORNING STAR, MS AMY, PROGRESS, SEA WOLF, VANGUARD, WESTERN DAWN | 106,714 | 12.025 | 72,727
UniSea Fleet Cooperative:
ALSEA, AMERICAN EAGLE, ARGOSY, AURIGA, AURORA, DEFENDER, GUN-MAR, NORDIC STAR, PACIFIC MONARCH, SEADAWN, STARFISH, STARLITE, STARWARD | 210,922 | 23.768 | 143,749
Westward Fleet Cooperative:
A.J., ALASKAN COMMAND, ALYESKA, ARCTIC WIND, CAITLIN ANN, CHELSEA K, HICKORY WIND, FIERCE ALLEGIANCE, OCEAN HOPE 3, PACIFIC CHALLENGER, PACIFIC KNIGHT, PACIFIC PRINCE, VIKING, WESTWARD I | 163,750 | 18.452 | 111,598
Open access AFA vessels | 3,463 | 0.390 | 2,359
Total inshore allocation | 887,435 | 100 | 604,800
¹ Under 679.62(e)(1) the individual catch history for each vessel is equal to the vessel's best 2 of 3 years inshore pollock landings from 1995 through 1997 and includes landings to catcher/processors for vessels that made 500 or more mt of landings to catcher/processors from 1995 through 1997.

2001 Unrestricted AFA Catcher/Processor Sideboards

Regulations at § 679.63(a) establish a formula for setting AFA catcher/processor sideboard limits for non-pollock groundfish and PSC in the BSAI. The basis for these sideboard amounts was recommended by the Council and is described in detail in the Emergency Interim Rule to Implement Major Provisions of the AFA (64 FR 4520, January 28, 2000). The 2001 catcher/processor sideboards are set out in Table 13 below.

All non-pollock groundfish that is harvested by unrestricted AFA catcher/processors, whether as targeted catch or bycatch, will be deducted from the harvest limits in Table 13. However, non-pollock groundfish that is delivered to listed catcher/processors by catcher vessels will not be deducted from the 2001 harvest limits for the listed catcher/processors.

Table 13.—2001 Unrestricted BSAI AFA Catcher/Processor Groundfish Sideboards
[Amounts are expressed in metric tons]
Target species | Area | 1995-1997: Total catch | 1995-1997: Available TAC | 1995-1997: Ratio | 2001 ITAC available to trawl C/Ps | 2001 C/P sideboard amount
Pacific cod trawl | BSAI | 13,547 | 51,450 | 0.263 | 40,867 | 10,748
Sablefish trawl | BS | 8 | 1,736 | 0.005 | 663 | 3
| Al | 1 | 1,135 | 0.001 | 531 | 1
Atka mackerel | Western Al |  |  |  |  |
| A season ¹ | n/a | n/a | 0.200 | 12,904 | 2,581
| CH limit ² |  |  |  |  | 1,239
| B season | n/a | n/a | 0.200 | 12,904 | 2,581
| CH limit |  |  |  |  | 1,239
| Central Al |  |  |  |  |
| A season ¹ | n/a | n/a | 0.115 | 15,540 | 1,787
| CH limit |  |  |  |  | 882
| B season | n/a | n/a | 0.115 | 15,540 | 1,787
| CH limit |  |  |  |  | 882
Yellowfin sole | BSAI | 123,003 | 527,000 | 0.233 | 96,050 | 22,380
Rock sole | BSAI | 14,753 | 202,107 | 0.073 | 63,750 | 4,654
Greenland turbot | BS | 168 | 16,911 | 0.010 | 5,206 | 52
| Al | 31 | 6,839 | 0.005 | 2,564 | 13
Arrowtooth flounder | BSAI | 788 | 36,873 | 0.021 | 18,709 | 393
Flathead sole | BSAI | 3,030 | 87,975 | 0.034 | 34,000 | 1,156
Other flatfish | BSAI | 12,145 | 92,428 | 0.131 | 23,800 | 3,118
Pacific ocean perch | BS | 58 | 5,760 | 0.010 | 1,471 | 15
| Western Al | 356 | 12,440 | 0.029 | 4,385 | 127
| Central Al | 95 | 6,195 | 0.015 | 2,368 | 36
| Eastern Al | 112 | 6,265 | 0.018 | 2,683 | 48
Sharpchin/northern | BS |  |  | 0.078 | 16 |
| Al | 1,034 | 13,254 | 0.078 | 6,239 | 487
Shortraker/rougheye | BS |  |  | 0.024 | 99 |
| Al | 68 | 2,827 | 0.024 | 843 | 20
Other rockfish | BS | 39 | 1,026 | 0.038 | 307 | 12
| Al | 95 | 1,924 | 0.049 | 575 | 28
Squid | BSAI | 7 | 3,670 | 0.002 | 1,675 | 3
Other species | BSAI | 3,551 | 65,925 | 0.054 | 22,525 | 1,216
¹ The seasonal apportionment of Atka mackerel in the open access fishery is 50 percent in the A season and 50 percent in the B season. Unrestricted AFA catcher/processors are limited to harvesting no more than 20 and 11.5 percent of the available TAC in the Western and Central Al subareas respectively. Unrestricted AFA catcher/processors are prohibited from harvesting Atka mackerel in the Eastern Aleutian Islands District and Bering Sea subarea (paragraph 211(b)(2)(C)).
² Critical habitat (CH) allowance refers to the amount of each seasonal allowance that is available for fishing inside critical habitat (50 CFR part 679 Table 21). In 2001, the percentage of TAC available for fishing inside critical habitat area is 48 percent in the Western Al and 46 percent in the Central A1. When these critical habitat allowances are reached, critical habitat areas will be closed to trawling until NMFS closes Atka mackerel to directed fishing within the same district.

Regulations at § 679.63(a)(2) establish a formula for PSC sideboards for unrestricted AFA catcher/processors. These amounts are equivalent to the percentage of prohibited species bycatch limits harvested in the non-pollock groundfish fisheries by the AFA catcher/processors listed in subsection 208(e) and section 209 of the AFA from 1995 through 1997. Prohibited species amounts harvested by these catcher/processors in BSAI non-pollock groundfish fisheries from 1995 through 1997 are shown in Table 14. These data were used to calculate the relative amount of prohibited species catch limits harvested by pollock catcher/processors, which were then used to determine the prohibited species harvest limits for unrestricted AFA catcher/processors in the 2001 non-pollock groundfish fisheries.

PSC that is caught by unrestricted AFA catcher/processors participating in any non-pollock groundfish fishery listed in Table 13 shall accrue against the 2001 PSC limits for the listed catcher/processors. Regulations at § 679.21(e)(3)(v) provide authority to close directed fishing for non-pollock groundfish for unrestricted AFA catcher/processors once a 2001 PSC limitation listed in Table 14 is reached.

Crab or halibut PSC that is caught by unrestricted AFA catcher/processors while fishing for pollock will accrue against the bycatch allowances annually specified for either the midwater pollock or the pollock/Atka mackerel/other species fishery categories under § 679.21(e).

Table 14.—2001 Unrestricted BSAI AFA Catcher/Processor Prohibited Species Sideboard Amounts
PSC species | 1995-1997: PSC catch | 1995-1997: Total PSC | 1995-1997: Ratio | 2001 PSC available to trawl vessels | 2001 C/P limit
Halibut mortality | 955 | 11,325 | 0.084 | 3,400 | 286 mt.
Red king crab | 3,098 | 473,750 | 0.007 | 89,725 | 628 crab.
C. opilio | 2,323,731 | 15,139,178 | 0.153 | 4,023,750 | 615,634 crab.
C. bairdi:
Zone 1 | 385,978 | 2,750,000 | 0.140 | 675,250 | 94,535 crab.
Zone 2 | 406,860 | 8,100,000 | 0.050 | 1,914,750 | 95,738 crab.

2001 AFA Catcher Vessel Sideboards

Regulations at § 679.63(b) establish a formula for setting AFA catcher vessel groundfish and PSC sideboard amounts for the BSAI. The basis for these sideboard amounts was recommended by the Council and is described in detail in the Emergency Interim Rule to Implement Major Provisions of the AFA (64 FR 4520, January 28, 2000). The 2001 AFA catcher vessel sideboards amounts are shown in Tables 15 and 16.

All harvests of groundfish sideboard species made by non-exempt AFA catcher vessels, whether as targeted catch or bycatch, will be deducted from the sideboard limits listed in Table 15.

Table 15.—2001 BSAI AFA Catcher Vessel (CV) Sideboards
[Amounts are expressed in metric tons]
Species | Fishery by area/season/processor/gear | Ratio of 1995-1997 AFA CV catch to 1995-1997 TAC | 2001 initial TAC | 2001 catcher vessel sideboard
Pacific cod | BSAI:
| jig gear:
| Jan 1-Jun 10 | 0.0000 | 2,087 | 0
| Jun 10-Dec 31 | 0.0000 | 1,391 | 0
| hook-and-line CV:
| Jan 1-Jun 10 | 0.0006 | 159 | 0
| Jun 10-Dec 31 | 0.0006 | 106 | 0
| Pot gear:
| Jan 1-Jun 10 | 0.0006 | 9,683 | 6
| Jun 10-Dec 31 | 0.0006 | 6,455 | 4
| CV < 60 feet LOA using hook-and-line or pot gear:
| Jan 1-Jun 10 | 0.0006 | 741 | 0
| Jun 10-Dec 31 | 0.0006 | 494 | 0
| trawl gear:
| catcher vessel:
| Jan 1-Jun 10 | 0.7703 | 24,520 | 18,888
| Jun 10-Dec 31 | 0.7703 | 16,347 | 12,592
| catcher/processor:
| Jan 1-Jun 10 | 0.0000 | 24,520 | 0
| Jun 10-Dec 31 | 0.0000 | 16,347 | 0
Sablefish | BS trawl gear | 0.0006 | 663 | 0
| AI trawl gear | 0.0608 | 531 | 32
Atka mackerel | Eastern AI/BS:
| jig gear | 0.0031 | 72 | 0
| other gear:
| Jan 1-Apr 15 | 0.0031 | 3,572 | 11
| Sept 1-Nov 1 | 0.0031 | 3,572 | 11
| Central AI:
| Jan-Apr 15 | 0.0001 | 15,540 | 2
| inside CH | 0.0001 | 7,148 | 1
| Sept 1-Nov 1 | 0.0001 | 15,540 | 2
| inside CH | 0.0001 | 7,148 | 1
| Western AI:
| Jan-Apr 15 | 0.0000 | 12,904 | 0
| inside CH | 0.0000 | 6,194 | 0
| Sept 1-Nov 1 | 0.0000 | 12,904 | 0
| inside CH | 0.0000 | 6,194 | 0
Yellowfin sole | BSAI | 0.0712 | 96,050 | 6,839
Rock sole | BSAI | 0.0255 | 63,750 | 1,626
Greenland Turbot | BS | 0.0405 | 5,206 | 211
| AI | 0.0021 | 2,564 | 5
Arrowtooth flounder | BSAI | 0.0583 | 18,709 | 1,091
Other flatfish | BSAI | 0.0558 | 23,800 | 1,328
POP | BS | 0.1018 | 1,471 | 150
| Eastern AI | 0.0048 | 2,683 | 13
| Central AI | 0.0011 | 2,368 | 3
| Western AI | 0.0000 | 4,385 | 0
Sharpchin/Northern | BS | 0.0280 | 16 | 0
| AI | 0.0015 | 6,239 | 9
Shortraker/Rougheye | BS | 0.0280 | 99 | 3
| AI | 0.0011 | 843 | 1
Other rockfish | BS | 0.0379 | 307 | 12
| AI | 0.0031 | 575 | 2
Squid | BSAI | 0.3885 | 1,675 | 651
Other species | BSAI | 0.0283 | 22,525 | 637
Flathead Sole | BS trawl gear | 0.0490 | 34,000 | 1,666

Regulations at § 679.63(b) establish a formula for PSC sideboards for AFA catcher vessels. The AFA catcher vessel PSC bycatch limit for halibut in the BSAI, and each crab species in the BSAI for which a trawl bycatch limit has been established as a percentage of the PSC limit equal to the ratio of aggregate retained groundfish catch by AFA catcher vessels in each PSC target category from 1995 through 1997 relative to the retained catch of all vessels in that fishery from 1995 through 1997. These amounts are listed in Table 16.

Halibut and crab PSC that is caught by AFA catcher vessels participating in any non-pollock groundfish fishery listed in Table 15 will accrue against the 2001 PSC limits for the AFA catcher vessels. Regulations at § 679.21(d)(8) and (e)(3)(v) provide authority to close directed fishing for non-pollock groundfish for AFA catcher vessels once a 2001 PSC limitation listed in Table 16 for the BSAI is reached. PSC that is caught by AFA catcher vessels while fishing for pollock in the BSAI will accrue against either the midwater pollock or the pollock/Atka mackerel/other species fishery categories.

Table 16.—2001 AFA Catcher Vessel (CV) Prohibited Species Catch (PSC) Sideboard Amounts ¹ for the BSAI
PSC species | Target fishery category ² and season | Ratio of 1995-1997 AFA CV retained catch to total retained catch | 2001 PSC Limit | 2001 AFA catcher vessel PSC sideboard
Halibut | Pacific cod trawl | 0.6183 | 1,334 | 825
| Pacific cod hook-and-line or pot | 0.0022 | 755 | 2
| Yellowfin sole:
| Jan. 20-Mar. 31 | 0.1144 | 286 | 33
| Apr. 1-May 20 | 0.1144 | 196 | 22
| May 21-July 3 | 0.1144 | 49 | 6
| July 1-Dec. 31 | 0.1144 | 380 | 43
| Rock sole/Flathead sole/Oth. flat:
| Jan. 20-Mar. 31 | 0.2841 | 498 | 141
| Apr. 1-July 3 | 0.2841 | 179 | 51
| July 1-Dec. 31 | 0.2841 | 177 | 50
| Turbot/Arrowtooth/Sablefish | 0.2327 | 0 | 0
| Rockfish | 0.0245 | 69 | 2
| Pollock/Atka mackerel/Other sp | 0.0227 | 232 | 5
Red King Crab Zone 1 | Pacific cod | 0.6183 | 11,664 | 7,212
| Yellowfin sole | 0.1144 | 11,664 | 1,334
| Rock sole/Flathead sole/Oth. flat | 0.2841 | 64,782 | 18,405
| Pollock/Atka mackerel/Other sp | 0.0227 | 1,615 | 37
C. opilio COBLZ 3 4 | Pacific cod | 0.6183 | 524,736 | 324,444
| Yellowfin sole | 0.1144 | 2,876,981 | 329,127
| Rock sole/Flathead sole/Oth. flat | 0.2841 | 469,130 | 133,280
| Pollock/Atka mackerel/Other sp | 0.0227 | 72,428 | 1,644
| Rockfish ⁵ | 0.0245 | 40,237 | 986
| Turbot/Arrowtooth/Sablefish | 0.2327 | 40,238 | 9,363
C. bairdi Zone 1 | Pacific cod | 0.6183 | 136,400 | 84,336
| Yellowfin sole | 0.1144 | 253,894 | 29,045
| Rock sole/Flathead sole/Oth. flat | 0.2841 | 272,126 | 77,311
| Pollock/Atka mackerel/Other sp | 0.0227 | 12,830 | 291
C. bairdi Zone 2 | Pacific cod | 0.6183 | 225,941 | 139,699
| Yellowfin sole | 0.1144 | 1,246,502 | 142,600
| Rock sole/Flathead sole/Oth. flat | 0.2841 | 415,501 | 118,044
| Pollock/Atka mackerel/Other sp | 0.0227 | 19,148 | 435
| Rockfish | 0.0245 | 7,658 | 188
¹ Halibut amounts are in metric tons of halibut mortality. Crab amounts are in numbers of animals.
² Target fishery categories are defined in regulation at § 679.21(e)(3)(iv).
³ C. opilio Bycatch Limitation Zone. Boundaries are defined at Figure 13 of 50 CFR part 679.
⁴ The Council at its December 2000 meeting limited red king crab for trawl fisheries within the RKCSS to 35 percent of the total allocation to the rock sole, flathead sole, and other flatfish fishery category (§ 679.21(e)(3)(ii)(B)).
⁵ The Council at its December 2000 meeting apportioned the rockfish PSC amounts from July 1—December 31 to prevent fishing for rockfish before July 1, 2001.

2001 Sideboard Directed Fishing Closures

Catcher/Processor Sideboard Closures

The Regional Administrator has determined that many of the AFA catcher/processor sideboard amounts listed in Table 13 are necessary as incidental catch to support other anticipated groundfish fisheries for the 2001 fishing year. In accordance with § 679.20(d)(1)(iv), the Regional Administrator establishes these following amounts as directed fishing allowances. The Regional Administrator finds that many of these directed fishing allowances will be reached before the end of the year. Therefore, in accordance with § 679.20(d)(1)(iii), NMFS is prohibiting directed fishing by unrestricted AFA catcher/processors for the species in the specified areas set out in Table 17.

Table 17.—AFA Unrestricted Catcher/Processor Sideboard Directed Fishing Closures.¹ These Closures Take Effect 1200 Hrs A.L.T., January 20, 2001 and Remain in Effect Through 2400 Hrs, A.L.T., December 31, 2001
Species | Area | Gear types
Sablefish trawl | BSAI | all
Greenland turbot | BSAI | all
Arrowtooth flounder | BSAI | all
Pacific ocean perch | BSAI | all
Sharpchin/Northern rockfish | BSAI | all
Shortraker/Rougheye rockfish | BSAI | all
Other rockfish | BSAI | all
Squid | BSAI | all
Other species | BSAI | all
¹ Maximum retainable percentages may be found in Table 11 to 50 CFR part 679.

AFA Catcher Vessel Sideboard Closures

The Regional Administrator has determined that many of the AFA catcher vessel sideboard amounts listed in Table 15 are necessary as incidental catch to support other anticipated groundfish fisheries for the 2001 fishing year. In accordance with § 679.20(d)(1)(iv), the Regional Administrator establishes these amounts as directed fishing allowances. The Regional Administrator finds that many of these directed fishing allowances will be reached before the end of the year. Therefore, in accordance with § 679.20(d)(1)(iii), NMFS is prohibiting directed fishing by non-exempt AFA catcher vessels for the species in the specified areas set out in Table 18.

Table 18.—AFA Catcher Vessel Sideboard Directed Fishing Closures¹
[These Closures take effect 12 noon A.L.T., January 20, 2001. These closures will remain in effect through 2400 hrs, A.L.T., December 31, 2001]
Species | Area | Gear
Pacific cod | BSAI | Hook-and-line, pot, jig.
Sablefish | BSAI | Trawl.
Atka mackerel | BSAI | All.
Greenland Turbot | BSAI | All.
Arrowtooth flounder | BSAI | All.
Pacific ocean perch | BSAI | All.
Sharpchin/northern rockfish | BSAI | All.
Shortraker/rougheye rockfish | BSAI | All.
Other rockfish | BSAI | All.
Squid | BSAI | All.
Other species | BSAI | All.
¹ Maximum retainable percentages may be found in Table 11 to 50 CFR part 679.

Gulf of Alaska

The SSC adopted the OFL recommendations from the Plan Team, which were provided in the November 2000 GOA SAFE report (See ADDRESSES), for all groundfish species categories. The SSC also adopted the ABC and area apportionment recommendations from the Plan Team, which were provided in the GOA SAFE report, for all of the groundfish species categories.

The Council adopted the SSC's ABC and AP's TAC recommendations for all species, except other rockfish in the Eastern GOA. The Council requested that NMFS set the TAC for other rockfish in the Eastern GOA at levels which would be sufficient to allow for bycatch to be retained throughout the fishing year but that would be insufficient to allow for a directed fishery to occur. The SSC's, AP's and Council's recommendation for the method of apportioning the sablefish ABC among management areas includes commercial fishery as well as survey data as in 2000. NMFS stock assessment scientists believe that the use of unbiased commercial fishery data reflecting catch-per-unit effort provides a desirable input for stock distribution assessments. The use of commercial fishery data would need to be evaluated annually to assure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat (WYK) District.

NMFS agrees with the Council's approach for the 2001 harvest specifications, except for pollock. The Comprehensive BiOp sets forth an RPA to previous management measures to avoid jeopardizing or adversely modifying the critical habitat of the western population of Steller sea lions. One element of the RPA is to adopt a more conservative harvest strategy for fish removal at the FMP level, also called the Global Control Rule (GCR) (See discussion in Part I of this preamble above). The GCR decreases the likelihood that the biomass of pollock, Pacific cod and Atka mackerel, principal prey species of Steller sea lions, will drop below 40 percent of the estimated unfished level of spawning biomass per recruit, the B40% level. In the GOA in 2001, the GCR would apply to the combined Western, Central, and West Yakutat Regulatory Area (W/C/WYK) stock of pollock as the projected spawning biomass in 2001 for this stock is estimated to be 202,800 mt, below the B40% value of 247,000 mt. Application of the GCR to this stock of pollock in the GOA would lower the Council's recommended ABC (and TAC) from 99,350 mt to 80,462 mt in 2001, a reduction of 18,888 mt or 19 percent. Public Law 106-544, phases-in the implementation of the GCR in 2001. Specifically, section 209(c)(5) states that when the GCR applies in 2001 it “shall not cause a reduction in the total allowable catch of any fishery of more than ten percent.” NMFS therefore is adjusting the Council's recommended TAC of pollock in the combined W/C/WYK area downward by 10 percent (9,935 mt) from 99,350 mt to 89,415 mt. This action is discussed in more detail below.

As in previous years, the Plan Team, SSC, and Council recommended that total removals of Pacific cod from the GOA not exceed ABC recommendations. Accordingly, the Council recommended that the TACs be adjusted downward from the ABCs by amounts equal to the 2001 guideline harvest levels (GHL) established for Pacific cod by the State of Alaska (State) for a State-managed fishery in State waters. The effect of the State's GHL on the Pacific cod TAC is discussed in greater detail below.

The Council's recommended ABCs, as adjusted by the 2001 GCR are listed in Table 19. These amounts reflect harvest amounts that are less than the specified overfishing amounts. The sum of 2001 ABCs for all assessed groundfish is 447,710 mt, which is lower than the 2000 ABC total of 448,010 mt.

2001 Harvest Specifications

Specifications of TAC and Reserves

The Council recommended TACs all equal to ABCs for deep-water flatfish, rex sole, sablefish, shortraker and rougheye rockfish, northern rockfish, Pacific Ocean perch, pelagic shelf rockfish, thornyhead rockfish, demersal shelf rockfish, and Atka mackerel. The Council-recommended TACs are less than the ABC for Pacific cod, flathead sole, shallow-water flatfish, arrowtooth flounder, and other rockfish. NMFS has adjusted the Council's recommended TAC for pollock in the combined W/C/WYK area downward from recommended ABC level by 9,935 mt as described above (Table 19).

The TAC for pollock in the combined W/C/WYK area of the GOA has decreased from 93,540 mt in 2000 to 89,415 mt in 2001. The 2001 TAC in the SEO District of the Eastern GOA is unchanged from 2000 at 6,460 mt. The apportionment of pollock TAC among the W/C/WYK areas of the GOA reflects the current biomass distribution.

Under this emergency interim rule, the annual pollock TAC in the Western and Central GOA is divided into four seasonal apportionments. The annual pollock TAC in the combined Western and Central GOA of 87,080 mt is the result of the combined W/C/WYK annual TAC of 89,415 mt less the WYK annual TAC of 2,335 mt. Thirty percent of the annual TAC in the Western and Central Regulatory Areas in the GOA is apportioned to the A season (January 20 through March 1) in the Western GOA, Shelikof Strait, and Statistical Areas 620 and 630 (outside of Shelikof Strait) in the Central GOA (§ 679.20(a)(5)(ii)); 15 percent to the B season (March 15 through May 31) in the Western GOA, Shelikof Strait, and Statistical Areas 620 and 630 (outside of Shelikof Strait) in the Central GOA; 30 percent to the C season (August 20 through September 15) in the Western GOA and Statistical Areas 620 and 630 in the Central GOA; and 25 percent to the D season (October 1 through November 1) in the Western GOA and Statistical Areas 620 and 630 in the Central GOA (§ 679.23(d)(2)(i) through (iv)). The derivation of the seasonal apportionment amounts in the Western and Central GOA areas is discussed below.

The 2001 Pacific cod TAC is affected by the State's developing fishery for Pacific cod in State waters in the Central and Western GOA, as well as Prince William Sound (PWS). The SSC, AP, and Council recommended that the sum of all State and Federal water Pacific cod removals should not exceed the ABC. Accordingly the Council recommended that Pacific cod TAC be reduced from ABC levels to account for State GHLS in each regulatory area of the GOA so that the TAC for (1) the Eastern GOA be lower than the ABC by 1,190 mt, (2) the Central GOA be lower than the ABC by 8,400 mt, and (3) the Western GOA be lower than the ABC by 6,100 mt. These amounts reflect the sum of State's 2001 GHLs in these areas which are 25 percent, 21.75 percent, and 25 percent of the Eastern, Central, and Western GOA ABCs respectively. These percentages are unchanged from 2000.

NMFS is also establishing seasonal apportionments of the annual Pacific cod TAC in the Western and Central Regulatory Areas at 60 percent of the annual TAC to an A season from January 1 through June 10 and at 40 percent of the annual TAC to a B season from June 10 to December 31. These seasonal apportionments of the annual Pacific cod TAC are discussed in greater detail below.

The Council requested that NMFS set TAC for other rockfish in the Eastern GOA at levels sufficient to allow bycatch to be retained throughout the year but that would be insufficient to allow directed fishing to occur in 2001. Based on catches from 1996 though 2000, NMFS has determined that a TAC of 150 mt in the West Yakutat District and 100 mt in the Southeast Outside District in the Eastern GOA will be sufficient to allow other rockfish to be retained as bycatch throughout the 2001 fishing year but not provide an amount sufficient to conduct a directed fishery.

The FMP specifies that the amount for the “other species” category is calculated as 5 percent of the combined TAC amounts for target species. The GOA-wide “other species” TAC is 13,619 mt, which is 5 percent of the sum of the combined TAC amounts (272,375 mt) for the assessed target species. The sum of the TACs for all GOA groundfish is 285,994 mt, which is within the OY range specified by the FMP. The sum of the TACs is lower than the 2000 TAC sum of 298,510 mt. NMFS has reviewed the Council's recommended TAC specifications and apportionments and, with the exception of pollock as noted in the combined ­W/C/WYK area, hereby approves these specifications under § 679.20(c)(3)(ii). The 2001 ABCs, TACs, and OFLs are shown in Table 19.

Table 19.—2001 ABCs, TACs, and Overfishing Levels of Groundfish for the Western/Central/West Yakutat (W/C/WYK), Western (W), Central (C), Shelikof Strait, Eastern (E) Regulatory Areas, and in the West Yakutat (WYK), Southeast Outside (SEO), and Gulf-Wide (GW) Districts of the Gulf of Alaska
[Values are in metric tons]
Species and area ¹ | ABC | TAC | Overfishing
Pollock: ²
Shumagin (610) | 35,240 | 31,724 |
Chirikof (620) | 14,260 | 12,841 |
Kodiak (630) | 26,650 | 23,996 |
Shelikof | 20,680 | 18,619 |
WYK (640) | 2,520 | 2,235 |
Subtotal W/C/WYK | 99,350 | 89,415 | 117,750
SEO (650) | 6,460 | 6,460 | 8,610
Total | 105,810 | 95,875 | 126,360
Pacific cod: ³
W | 24,400 | 18,300 |
C | 38,650 | 30,250 |
E | 4,750 | 3,560 |
Total | 67,800 | 52,110 | 91,200
Flatfish ⁴ (deepwater):
W | 280 | 280 |
C | 2,710 | 2,710 |
WYK | 1,240 | 1,240 |
SEO | 1,070 | 1,070 |
Total | 5,300 | 5,300 | 6,980
Rex sole:⁴
W | 1,230 | 1,230 |
C | 5,660 | 5,660 |
WYK | 1,540 | 1,540 |
SEO | 1,010 | 1,010 |
Total | 9,440 | 9,440 | 12,300
Flathead sole:
W | 8,490 | 2,000 |
C | 15,720 | 5,000 |
WYK | 1,440 | 1,440 |
SEO | 620 | 620 |
Total | 26,270 | 9,060 | 34,210
Flatfish ⁵ (shallow-water):
W | 19,510 | 4,500 |
C | 16,400 | 12,950 |
WYK | 790 | 790 |
SEO | 1,160 | 1,160 |
Total | 37,860 | 19,400 | 45,330
Arrowtooth flounder:
W | 16,480 | 8,000 |
C | 99,590 | 25,000 |
WYK | 24,220 | 2,500 |
SEO | 7,860 | 2,500 |
Total | 148,150 | 38,000 | 173,550
Sablefish: ⁶
W | 2,010 | 2,010 |
C | 5,410 | 5,410 |
WYK | 2,060 | 2,060 |
SEO | 3,360 | 3,360 |
Subtotal: E | 5,420 | 5,420 |
Total | 12,840 | 12,840 | 15,720
Pacific⁷ ocean perch:
W | 1,280 | 1,280 | 1,520
C | 9,610 | 9,610 | 11,350
WYK | 870 | 870 |
SEO | 1,750 | 1,750 |
Subtotal: E |  |  | 3,090
Total | 13,510 | 13,510 | 15,960
Short raker/rougheye:⁸
W | 210 | 210 |
C | 930 | 930 |
E | 590 | 590 |
Total | 1,730 | 1,730 | 2,510
Other rockfish: 9, 10
W | 20 | 20 |
C | 740 | 740 |
WYK | 250 | 150 |
SEO | 3,890 | 100 |
Total | 4,900 | 1,010 | 6,390
Northern Rockfish:10, 12
W | 600 | 600
C | 4,280 | 4,280 |
E | N/A | N/A |
Total | 4,880 | 4,880 | 5,780
Pelagic shelf rockfish:¹³
W | 550 | 550 |
C | 4,080 | 4,080 |
WYK | 580 | 580 |
SEO | 770 | 770 |
Total | 5,980 | 5,980 | 9,040
Thornyhead rockfish:
W | 420 | 420 |
C | 970 | 970 |
E | 920 | 920 |
Total | 2,310 | 2,310 | 2,770
Demersal shelf rockfish: ¹¹
SEO | 330 | 330 | 410
Atka mackerel: GW | 600 | 600 | 6,200
Other species:¹⁴ GW | 15 N/A | 13,619 | N/A
Total ¹⁶ | 447,710 | 285,994 | 554,710
¹ Regulatory areas and districts are defined at § 679.2.
² Pollock is apportioned in the Western/Central Regulatory areas to the Shelikof Strait conservation area (defined at § 679.22(b)(2)(iii)(B))in the A and B seasons only (§ 679.22(b)(2)(iii)(A)) in accordance with § 679.22(b)(2)(iii)(C) and the remainder to the three statistical areas in the combined Western/Central Regulatory Area outside the Shelikof Strait based on the relative distribution of pollock biomass at 56 percent, 4 percent, and 40 percent in Regulatory areas 610, 620, and 630 respectively. During the C and D seasons pollock is apportioned based on the relative distribution of pollock biomass at 42 percent, 25 percent, and 33 percent in Regulatory Areas 610, 620, and 630 respectively. These seasonal apportionments are shown in Tables 21 and 22. In the West Yakutat and Southeast Outside Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component. Seasonal apportionments and component allocations of TAC are shown in Table 23.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears (Table 20).
⁷ “Pacific ocean perch” means Sebastes alutus.
⁸ “Shortraker/rougheye rockfish” means Sebastes borealis (shortraker) and S. aleutianus (rougheye).
⁹ “Other rockfish” in the Western and Central Regulatory Areas and in the West Yakutat District means slope rockfish and demersal shelf rockfish. The category “other rockfish” in the Southeast Outside District means Slope rockfish.
¹⁰ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, “slope rockfish” also includes northern rockfish, S. polyspinous.
¹¹ “Demersal shelf rockfish” means Sebastes pinniger (canary), S. nebulosus (china), S. caurinus (copper), S. maliger (quillback), S. helvomaculatus (rosethorn), S. nigrocinctus (tiger), and S. ruberrimus (yelloweye).
¹² “Northern rockfish” means Sebastes polyspinis.
¹³ “Pelagic shelf rockfish” means Sebastes ciliatus (dusky), S. entomelas (widow), and S. flavidus (yellowtail).
¹⁴ “Other species” means sculpins, sharks, skates, squid, and octopus. The TAC for “other species” equals 5 percent of the TACs of assessed target species.
¹⁵ N/A means not applicable.
¹⁶ The total ABC is the sum of the ABCs for assessed target species.

Apportionment of Reserves

Regulations implementing the FMP require 20 percent of each TAC for pollock, Pacific cod, flatfish, and the “other species” category be set aside in reserves for possible apportionment at a later date (§ 679.20(b)(2)). For the preceding 12 years, including 2000, NMFS reapportioned all of the reserves in the final harvest specifications except for Pacific cod. Between 1997 and 2000, NMFS retained the Pacific cod reserve to provide for a management buffer to account for excessive fishing effort and incomplete or late catch reporting. NMFS believes this is no longer necessary as estimates of catch and incidental catch needs in other directed fisheries have improved in recent years. For 2001, NMFS has reapportioned all of the reserve for pollock, Pacific cod, flatfish, and “other species”. Specifications of TAC shown in Table 19 reflect apportionment of reserve amounts for these species and species groups.

Allocations of the Sablefish TACs to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear and 20 percent of each TAC is allocated to trawl gear. In the Eastern Regulatory Area, 95 percent of the TAC is allocated to hook-and-line gear and 5 percent is allocated to trawl gear. The trawl gear allocation in the Eastern Regulatory Area may only be used to support incidental catch of sablefish in directed fisheries for other target species. In recognition of the trawl ban in the SEO District of the Eastern Regulatory Area, the Council recommended that 5 percent of the combined Eastern GOA sablefish be allocated to trawl gear in the WYK District and the remainder to vessels using hook-and-line gear. In the SEO District, 100 percent of the sablefish TAC is allocated to vessels using hook-and-line gear. This recommendation results in an allocation of 271 mt to trawl gear and 1,789 mt to hook-and-line gear in the WYK District and 3,360 mt to hook-and-line gear in the SEO District. Table 20 shows the allocations of the 2001 sablefish TACs between hook-and-line gear and trawl gear.

Table 20.—2001 Sablefish TAC specifications in the Gulf of Alaska and Allocations Thereof to Hook-and-Line and Trawl Gear
[Values are in metric tons]
Area/District | TAC | Hook-and-line apportionment | Trawl apportionment
Western | 2,010 | 1,608 | 402
Central | 5,410 | 4,328 | 1,082
West Yakutat | 2,060 | 1,789 | 271
Southeast Outside | 3,360 | 3,360 | 0
Total | 12,840 | 11,085 | 1,755

Apportionments of Pollock TAC Among Seasons and Regulatory Areas, and Allocations for Processing by Inshore and Offshore Components

In the GOA, pollock is apportioned by season and area, and is further allocated for processing by inshore and offshore components. Under this emergency interim rule extending the 2000 RFRPAs, the annual pollock TAC specified for the Western and Central Regulatory Areas of the GOA is apportioned into four seasonal allowances of 30, 15, 30, and 25 percent, respectively (§ 679.20(a)(5)(ii)(C)). As established by § 679.23(d)(2), the A, B, C, and D season allowances are available from January 20 through March 1, from March 15 through May 31, from August 20 through September 15, and from October 1 through November 1 respectively.

To prevent localized depletions of pollock outside the Shelikof Strait conservation area (defined at § 679.22(b)(2)(iii)(B)), this emergency rule also extends seasonal apportionments of pollock TAC within Shelikof Strait during the A and B seasons. The derivation of these harvest limits are explained here and listed in Tables 19 and 22. The Shelikof area apportionments during the A and B seasons are derived from the most recent (2000) NMFS survey estimate of pollock biomass of 334,900 mt in the critical habitat of the Shelikof Strait divided by the most recent (2000) estimate of total GOA pollock biomass of 705,900 mt (equals 0.4746) multiplied by the A and B seasonal apportionments of the combined W/C pollock TAC (87,180 mt), i.e., 30 percent of the annual TACs (26,154 mt) in the A season and 15 percent of the annual TACs in the B season (13,077 mt) in the GOA (§ 679.22(b)(2)(iii)(C)).

The remainder of the A and B seasonal allowances of pollock TAC in the Western and Central Regulatory Areas are apportioned among statistical area 610, and statistical areas 620 and 630 outside the Shelikof Strait conservation area in proportion to the distribution of pollock biomass as determined by the four most recent NMFS summer surveys. Pollock TACs in the Western and Central Regulatory Areas in the C and D seasons are apportioned among statistical areas 610, 620, and 630 in proportion to the distribution of pollock biomass as determined by the four most recent NMFS summer surveys. Within any fishing year, underage or overage of a seasonal allowance may be added to or subtracted from subsequent seasonal allowances in a manner to be determined by the Regional Administrator, provided that a revised seasonal allowance does not exceed 30 percent of the annual TAC apportionment (§ 679.20(a)(5)(ii)(C)). The WYK and SEO District pollock TACs of 2,235 mt and 6,460 mt, respectively, are not allocated seasonally.

Regulations at § 679.20(a)(6)(ii) require that 100 percent of the pollock TAC in all regulatory areas and all seasonal allowances thereof be allocated to vessels catching pollock for processing by the inshore component after subtraction of amounts that are projected by the Regional Administrator to be caught by, or delivered to, the offshore component incidental to directed fishing for other groundfish species. The amount of pollock available for harvest by vessels harvesting pollock for processing by the offshore component is that amount actually taken as bycatch during directed fishing for groundfish species other than pollock, up to the maximum retainable bycatch amounts allowed under regulations at § 679.20(e) and (f). At this time, these bycatch amounts are unknown and will be determined during the fishing year.

The biomass distribution of pollock in the Western and Central GOA, area apportionments, and seasonal apportionments for the A and B seasons are summarized in Table 21 and for the C and D seasons in Table 22, except that amounts of pollock for processing by the inshore and offshore component are not shown.

Table 21.—Distribution of Pollock in the Western and Central Regulatory Areas of the Gulf of Alaska (W/C GOA); Biomass Distribution, Area Apportionments, and Seasonal Allowances of Annual TAC for the A and B Seasons in 2001
Statistical area | Biomass percent | 2001 annual TAC | Seasonal Allowances of annual TAC: A (30%) | Seasonal Allowances of annual TAC: B (15%)
Shelikof | 47.46 | 18,619 | 12,413 | 6,206
Shumagin (610) | 29.47 | 31,724 | 7,707 | 3,854
Chirikof ¹ (620) | 2.14 | 12,841 | 560 | 280
Kodiak ¹ (630) | 20.93 | 23,996 | 5,474 | 2,737
Total | 100.00 | 87,180 | 26,154 | 13,077
¹ A and B seasonal allowances in the Chirikof and Kodiak Districts are outside the Shelikof Strait defined at 679.22(b)(3)(iii)(B).

Table 22.—Distribution of Pollock in the Western and Central Regulatory Areas of the Gulf of Alaska (W/C GOA); Biomass Distribution, Area Apportionments, and Seasonal Allowances of Annual TAC for the C and D Seasons in 2001
Statistical area | Biomass percent | 2001 annual TAC | Seasonal Allowances of annual TAC ¹: C (30%) | Seasonal Allowances of annual TAC ¹: D (25%)
Shelikof |  | 18,619 | (²) | (²)
Shumagin (610) | 42.05 | 31,724 | 10,998 | 9,165
Chirikof (620) | 25.03 | 12,841 | 6,546 | 5,455
Kodiak (630) | 32.92 | 23,996 | 8,610 | 7,175
Total | 100.00 | 87,180 | 26,154 | 21,975
¹ These emergency interim regulations for pollock in the GOA which specify A and B season dates and harvest limitations, expires June 10, 2001, before the C and D seasons are scheduled to begin. Therefore, the C and D seasons are not authorized unless either this emergency rule is extended, or proposed and final rulemaking is completed.
² Not apportioned.

Seasonal Apportionments of Pacific Cod TAC and Allocations for Processing of Pacific Cod TAC Between Inshore and Offshore Components

As described in Part I above, Pacific cod fishing is divided into two seasons in the Western and Central Regulatory Areas. The A season begins on January 1, 2001 and ends on June 10, 2001, the B season begins on June 10, 2001 and ends on December 31, 2001. After subtraction of incidental catch, 60 percent and 40 percent will be available for harvest during the A and B seasons, respectively, and will be apportioned between the inshore and offshore processing components as provided in 50 CFR § 679.20(a)(6)(iii).

The time of all openings and closures of fishing seasons, other than the beginning and ending of the calender fishing year, is 1200 hours, A.l.t. For purposes of clarification NMFS points out that the dates for the A season and the B season Pacific cod fishery dates differ from those of the A, B, C, and D seasons for the pollock fisheries. NMFS finds that seasonal apportionments of Pacific cod TAC in the Eastern GOA are not necessary at this time as less than 60 percent of the annual TAC in the Eastern GOA is normally harvested during the A season. Any overage or underage of Pacific cod harvest from the A season shall be subtracted from or added to the subsequent B season.

Regulations at § 679.20(a)(6)(iii) require that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the Pacific cod TAC for 2001 are shown in Table 23.

Table 23.—2001 Seasonal Apportionments and Allocation of Pacific cod TAC Amounts in the Gulf of Alaska; Allocations for Processing by the Inshore and Offshore Components
[Values are in mt]
Regulatory area | TAC | Component allocation: Inshore (90%) | Component allocation: Offshore (10%)
Western | 18,300 | 16,470 | 1,830
A Season (60%) | 10,980 | 9,882 | 1,098
B Season (40%) | 7,320 | 6,588 | 732
Central | 30,250 | 27,225 | 3,025
A Season (60%) | 18,150 | 16,335 | 1,815
B Season (40%) | 12,250 | 10,890 | 1,210
Eastern | 3,560 | 3,204 | 356
Total | 52,110 | 46,899 | 5,211

Pacific Halibut PSC Mortality Limits

Under § 679.21(d), annual Pacific halibut PSC limits are established and apportioned to trawl and hook-and-line gear and may be established for pot gear.

As in 2000, the Council recommended that pot gear, jig gear, and the hook-and-line sablefish fishery be exempted from the non-trawl halibut limit for 2001. The Council recommended these exemptions because of the low halibut bycatch mortality experienced in the pot gear fisheries (7 mt in 2000) and because of the 1995 implementation of the sablefish and halibut Individual Fishing Quota program, which allows legal-sized halibut to be retained in the sablefish fishery. Halibut mortality for the jig gear fleet cannot be estimated because these vessels do not carry observers. However, halibut mortality is assumed to be very low given the small amount of groundfish harvested by this gear type (62 mt in 2000) and the assumed high survival rate of any halibut that are incidentally taken and discarded.

As in 2000, the Council recommended a hook-and-line halibut PSC mortality limit of 300 mt. Ten mt of this limit are apportioned to the demersal shelf rockfish fishery in the Southeast Outside District. The fishery is defined at § 679.21(d)(4)(iii)(A) and historically has been apportioned this amount in recognition of its small-scale harvests. Observer data are not available to verify actual bycatch amounts given most vessels are less than 60 ft. LOA and are exempt from observer coverage. The remainder of the PSC limit is seasonally apportioned among the non-sablefish hook-and-line fisheries as shown in Table 24.

The Council continued to recommend a trawl halibut PSC mortality limit of 2,000 mt for 2001. The PSC limit has remained unchanged since 1989. Regulations at § 679.21(d)(3)(iii) authorize separate apportionments of the trawl halibut PSC limit between trawl fisheries for deep-water and shallow-water species. Regulations at § 679.21(d)(5) authorize seasonal apportionments of halibut PSC limits. For 2001, the Council recommended delaying the release of the third seasonal apportionment of trawl halibut PSC limits to July 4 to facilitate inseason management of directed trawl fisheries, particularly rockfish. However, NMFS finds that for the year 2001 this delay is not necessary and that inseason management of directed trawl fisheries would be improved with the release of the third seasonal apportionment of trawl halibut PSC limits on July 1, 2001.

NMFS concurs in the Council's recommendations described above and listed in Table 24. The following types of information as presented in, and summarized from, the current SAFE report, or as otherwise available from NMFS, Alaska Department of Fish and Game, the International Pacific Halibut Commission (IPHC), or public testimony were considered:

(A) Estimated Halibut Bycatch in Prior Years

The best available information on estimated halibut bycatch is data collected by observers during 2000. The calculated halibut bycatch mortality by trawl, hook-and-line, and pot gear through December 31, 2000, is 1,888 mt, 276 mt, and 7 mt, respectively, for a total halibut mortality of 2,171 mt.

Halibut bycatch restrictions seasonally constrained trawl gear fisheries during the 2000 fishing year. Trawling for the deep-water fishery complex was closed for the second quarter on May 13 (65 FR 31288, May 17, 2000) and for the third quarter on August 23 (65 FR 51772, August 25, 2000). The shallow-water fishery complex was closed for the second quarter on May 28 (65 FR 34991, June 1, 2000) and for the third quarter on August 11 (65 FR 49946, August 16, 2000). The three seasonal apportionments of the hook-and-line halibut bycatch mortality limit resulted in closures of hook-and-line fisheries for groundfish other than sablefish and demersal shelf rockfish on March 9 (65 FR 13698, March 14, 2000), May 18 (65 FR 31104, May 16, 2000), and on September 1 (65 FR 54179, September 7, 2000).

(B) Expected Changes in Groundfish Stocks

In December 2000 the Council adopted higher ABCs for pollock, arrowtooth flounder, and Pacific Ocean perch than those established for 2000. The Council adopted lower ABCs for Pacific cod, sablefish, northern rockfish, demersal shelf rockfish, and thornyhead rockfish than those established for 2000. More information on these changes is included in the final SAFE report (November 2000) and in the Council and SSC December 2000 meeting minutes.

(C) Expected Changes in Groundfish Catch

The total of the 2001 TACs for the GOA is 285,994 mt, a decrease of 4 percent from the 2000 TAC total of 298,510 mt. Those fisheries for which the 2001 TACs are lower than in 2000 are pollock (decreased to 95,875 mt from 100,000 mt), Pacific cod (decreased to 52,110 mt from 58,715 mt), sablefish (decreased to 12,840 mt from 13,330 mt), northern rockfish (decreased to 4,880 mt from 5,120 mt), other rockfish (decreased to 1,010 mt from 4,900 mt), demersal shelf rockfish (decreased to 330 mt from 340 mt), thornyhead rockfish (decreased to 2,310 mt from 2,360 mt), and other species (decreased to 13,619 mt from 14,215 mt). Those species for which the 2001 TACs are higher than in 2000 are arrowtooth flounder (increased to 38,000 mt from 35,000 mt) and Pacific Ocean perch (increased to 13,510 mt from 13,020 mt).

(D) Current Estimates of Halibut Biomass and Stock Condition

The most recent halibut stock assessment was conducted by the IPHC in December 2000. The halibut resource is considered to be healthy, with total catch near record levels. The current exploitable halibut biomass for 2001 is estimated to be 249,007 mt, using an age-specific estimate for 2001. In the age-specific estimate, the assumption is that the selection of fish by the survey is based primarily on the age of the fish and reflects the availability of fish of different ages on the grounds. This is an increase from the estimate of 135,172 mt in 2000. The difference is in large part due to omitting a precautionary downward correction used in the 1999 assessment which was based on presumed increased fishing power of baits recently used in the surveys. The 2000 estimate for exploitable biomass in 2001 of 249,007 mt is now similar to the 1998 estimate for exploitable biomass in 1999 of 227,366 mt before the fishing power correction was made. The exploitable biomass of the Pacific halibut stock apparently peaked at 326,520 mt in 1988 (Sullivan, 1998). The long-term average reproductive biomass for the Pacific halibut resource was estimated at 118,000 mt (Parma, 1998). Long-term average yield was estimated at 26,980 mt, round weight (Parma, 1998). The species is fully utilized. Recent average catches (1994-96) were 33,580 mt for the U.S. and 6,410 mt for Canada, for a combined total of 39,990 mt for the entire Pacific halibut resource. This catch was 48 percent higher than long-term potential yield, which reflects the good condition of the Pacific halibut resource. In January 2000 the IPHC recommended commercial catch limits totaling 33,910 mt (round weight equivalents) for Alaska in 2000, down from 35,314 mt in 1999. Though November 24, 2000, commercial hook-and line harvests of halibut in Alaska total 33,056 mt (round weight equivalents).

The major change in the assessment results for 2000 came from the elimination of the downward correction in recent survey catch rates that was applied in 1999, to account for a suspected increase in the fishing power of the surveys due to a bait change in 1993. Experiments conducted in 2000 have shown that the precautionary adjustment is not required. The stock assessment shows only minor changes for the southern portion of the range (Areas 2A, 2B, and 2C). Improvements in the estimated biomass of the stock in Area 3A are accounted for largely by the change in the treatment of historical survey data. Weight at age for halibut in the central portion of the range increased slightly in 2000 over the very low values of recent years. However, recruitment of year classes born between 1989 and 1993 appears to be poor. The outlook for the stock biomass over the near future is for a decline from the record high levels of recent years until increased recruitment to the stock occurs.

IPHC staff preliminary 2001 commercial catch limit recommendations for 2001 in Alaska total 63.5 million lb (dressed weight) which is equivalent to 38,406 mt (round weight) an increase of 4,496 mt from 2000. Additional information on the Pacific halibut stock assessment may be found in the final SAFE report (November 2000) and in the IPHC's 2000 Pacific halibut stock assessment (December 2000).

(E) Other Factors

The allowable commercial catch of halibut will be adjusted to account for the overall halibut PSC mortality limit established for groundfish fisheries. The 2001 groundfish fisheries are expected to use the entire proposed halibut PSC limit of 2,300 mt. The allowable directed commercial catch is determined by accounting for the recreational and subsistence catch, waste, and bycatch mortality and then providing the remainder to the directed fishery. Groundfish fishing is not expected to adversely affect the halibut stocks.

Methods available for reducing halibut bycatch include: (1) Reducing halibut bycatch rates through the Vessel Incentive Program; (2) modifications to gear; (3) changes in groundfish fishing seasons; (4) individual transferable quota programs; and (5) time/area closures.

Reductions in groundfish TAC amounts provide no incentive for fishermen to reduce bycatch rates. Costs that would be imposed on fishermen as a result of reducing TAC amounts depend on the species and amounts of groundfish foregone.

Trawl vessels carrying observers for purposes of complying with observer coverage requirements (50 CFR 679.50) are subject to the Vessel Incentive Program. This program encourages trawl fishermen to avoid high halibut bycatch rates while conducting groundfish fisheries by specifying bycatch rate standards for various target fisheries.

Current regulations (§ 679.2 Authorized fishing gear (11)) specify requirements for biodegradable panels and tunnel openings for groundfish pots to reduce halibut bycatch. As a result, low bycatch and mortality rates of halibut in pot fisheries have justified exempting pot gear from PSC limits.

The regulations also define pelagic trawl gear in a manner intended to reduce bycatch of halibut by displacing fishing effort off the bottom of the sea floor when certain halibut bycatch levels are reached during the fishing year. The definition provides standards for physical conformation (§ 679.2, see Authorized fishing gear) and performance of the trawl gear in terms of crab bycatch (§ 679.7(a)(14)). Furthermore, all hook-and-line vessel operators are required to employ careful release measures when handling halibut bycatch (§ 679.7(a)(13)). These measures are intended to reduce handling mortality, to increase the amount of groundfish harvested under the available halibut mortality bycatch limits, and to possibly lower overall halibut bycatch mortality in groundfish fisheries.

The sablefish/halibut IFQ program (implemented in 1995) was intended, in part, to reduce the halibut discard mortality in the sablefish fishery.

Consistent with the goals and objectives of the FMP to reduce halibut bycatch while providing an opportunity to harvest the groundfish OY, NMFS approves the assignments of 2,000 mt and 300 mt of halibut PSC limits to trawl and hook-and-line gear, respectively. While these limits would reduce the harvest quota for commercial halibut fishermen, NMFS has determined that they would not result in unfair allocation to any particular user group. NMFS recognizes that some halibut bycatch will occur in the groundfish fishery, but the Vessel Incentive Program, required modifications to gear, and implementation of the halibut/sablefish IFQ program are intended to reduce adverse impacts on halibut fishermen while promoting the opportunity to achieve the OY from the groundfish fishery. NMFS and the Council will review the methods available for reducing halibut bycatch listed here to determine their effectiveness, and will initiate changes, as necessary, in response to this review or to public testimony and comment.

Fishery and Seasonal Apportionments of the Halibut PSC Limits

Under § 679.21(d)(5), NMFS seasonally apportions the halibut PSC limits based on recommendations from the Council. The FMP requires that the following information be considered by the Council in recommending seasonal apportionments of halibut PSC limits: (a) Seasonal distribution of halibut, (b) seasonal distribution of target groundfish species relative to halibut distribution, (c) expected halibut bycatch needs on a seasonal basis relative to changes in halibut biomass and expected catches of target groundfish species, (d) expected bycatch rates on a seasonal basis, (e) expected changes in directed groundfish fishing seasons, (f) expected actual start of fishing effort, and (g) economic effects of establishing seasonal halibut allocations on segments of the target groundfish industry.

In December 2000, the Council's AP recommended seasonal PSC apportionments in order to maximize harvest among gear types, fisheries, and seasons while minimizing bycatch of PSC based upon the criteria above. NMFS is approving the PSC apportionments specified in Tables 24 and 25, below. However, NMFS recognizes that the Council did not have the opportunity in December 2000 to evaluate the effects of SSL protection measures implemented by this emergency rule on PSC bycatch needs throughout the year with respect to factors listed above. After consulting with the Council at its emergency January 2001 meeting, NMFS will consider amending PSC seasonal apportionments and amounts. Regulations at § 679.21(d)(5)(iii) and (iv) specify that any overages or shortfalls in a seasonal apportionment of a PSC limit will be deducted from or added to the next respective seasonal apportionment within the 2001 season.

Table 24.—Final 2001 Pacific Halibut PSC Limits, Allowances, and Apportionments
[The Pacific halibut PSC limit for hook-and-line gear is allocated to the demersal shelf rockfish (DSR) fishery and fisheries other than DSR. The hook-and-line sablefish fishery is exempt from halibut PSC limits. (Values are im mt)]
Trawl gear: Dates | Trawl gear: Amount | Hook-and-line gear: Other than DSR: Dates | Hook-and-line gear: Other than DSR: Amount | Hook-and-line gear: DSR: Dates | Hook-and-line gear: DSR: Amount
Jan 1-Apr 1 | 450 (23%) | Jan 1-May 17 | 175 (60%) | Jan 1-Dec 31 | 10 (100%)
Apr 1-Jun 10 | 400 (20%) | May 17-Aug 31 | 30 (10%)
Jun 10-Jul 1 | 250 (12%)
Jul 1-Oct 1 | 600 (30%) | Aug 31-Dec 31 | 85 (30%)
Oct 1-Dec 31 | 300 (15%)
Total | 2,000 (100%) |  | 290 (100%) |  | 10 (100%)

Regulations at § 679.21(d)(3)(iii) authorize apportionments of the trawl halibut PSC limit to a deep-water species complex, comprised of sablefish, rockfish, deep-water flatfish, rex sole and arrowtooth flounder; and a shallow-water species complex, comprised of pollock, Pacific cod, shallow-water flatfish, flathead sole, Atka mackerel, and “other species.” The apportionment for these two fishery complexes is presented in Table 25.

Table 25.—Final 2001 Apportionment of Pacific Halibut PSC Trawl Limits Between the Trawl Gear Deep-Water Species Complex and the Shallow-Water Species Complex
[Values are in metric tons]
Season | Shallow-water | Deep-water | Total
Jan. 20-Apr. 1 | 350 | 100 | 450
Apr. 1-Jun. 10 | 100 | 300 | 400
Jun. 10-Jul. 1 | 250 | 0 | 250
Jul. 1-Oct. 1 | 200 | 400 | 600
Subtotal:
Jan. 20-Sep. 30 | 900 | 800 | 1,700
Oct. 1-Dec. 31 |  |  | 300
Total |  |  | 2,000
No apportionment between shallow-water and deep-water fishery complexes during the 4th quarter.

Halibut Discard Mortality Rates

The Council recommended that the revised halibut discard mortality rates (DMRs) recommended by the IPHC be adopted for purposes of monitoring halibut bycatch mortality limits established for the 2001 groundfish fisheries. NMFS concurs in the Council's recommendation. The IPHC recommended use of a long-term average as preseason assumed DMRs for the 2001-2003 groundfish fisheries. The IPHC recommendation also includes a provision that revised DMRs would be proposed should analysis indicate that a fishery's annual DMR diverges substantially (up or down) from the long-term average. Most of the IPHC's assumed DMRs were based on an average of mortality rates determined from NMFS observer data collected between 1990 and 1999. Rates were lacking for some fisheries, so rates from the most recent years were used. For the “other species” fishery, where insufficient mortality data are available, the mortality rate of halibut caught in the Pacific cod fishery for that gear type was recommended as a default rate. The majority of the assumed mortality rates recommended for 2001 differ slightly from those used in 2000 in the GOA. The recommended rates for hook-and-line targeted fisheries range from 8 to 24 percent. The recommended rates for trawl targeted fisheries range from 58 to 72 percent. The recommended rate for all pot targeted fisheries is 14 percent. The 2001 assumed DMRs are listed in Table 26.

Table 26.—2001 Assumed Pacific Halibut Mortality Rates for Vessels Fishing in the Gulf of Alaska
[Listed values are percent of halibut bycatch assumed to be dead]
Gear and target | Mortality rate
Hook-and-Line:
Pacific cod | 14
Rockfish | 8
Other species | 14
Sablefish | 24
Trawl:
Midwater pollock | 72
Rockfish | 69
Shallow-water flatfish | 69
Pacific cod | 61
Deep-water flatfish | 60
Flathead sole | 58
Rex sole | 61
Bottom pollock | 61
Arrowtooth Flounder | 62
Atka mackerel | 70
Sablefish | 66
Other species | 61
Pot:
Pacific cod | 14
Other species | 14

Non-Exempt American Fisheries Act (AFA) Catcher Vessel Groundfish Harvest and PSC Limitations

As discussed in Part I, above, Pub. L. 106-554 extends interim AFA regulations through 2001. One of the provisions implemented by these AFA regulations was to place groundfish harvesting and processing limitations, also called sideboards, on AFA catcher/processors and catcher vessels in the GOA. These limitations are considered necessary for fishermen and processors who have received exclusive harvesting and processing privilege under the AFA to protect the interests of fishermen and processors who have not directly benefitted from the AFA. In the GOA catcher/processors are prohibited from fishing for any species of fish (§ 679.7(k)(1)(ii)) and from processing any groundfish harvested in Statistical Area 630 of the GOA (§ 679.7(k)(1)(iv)). The Council recommended that certain AFA catcher vessels in the GOA be exempt from groundfish harvest limitations. Exempted AFA catcher vessels in the GOA are those less than 125 ft (38.1 m) LOA whose annual BSAI pollock landings totaled less than 5100 mt and that made 40 or more GOA groundfish landings from 1995 through 1997 (§ 679.63(b)(1)(i)(B)).

For non-exempt AFA catcher vessels in the GOA harvest limitations are based upon their traditional harvest levels of TAC in groundfish fisheries covered by the GOA FMP. The amounts of the groundfish harvest limits in the GOA are based on the retained catch of non-exempt AFA catcher vessels of each sideboard species from 1995 through 1997 divided by the TAC for that species over the same period (§ 679.63(b)(1)(ii)(C)). These amounts are listed in Table 27. All harvests of sideboard species made by non-exempt AFA catcher vessels, whether as targeted catch or bycatch, will be deducted from the sideboard limits in Table 27.

Table 27.—Final 2001 GOA Non-Exempt AFA Catcher Vessel (CV) Groundfish Harvest Limitations (Sideboards)
[Values are in mt]
Species and apportionments and allocations by area/season/processor/Gear | Ratio of 1995-1997 non-exempt AFA CV catch to 1995-1997 TAC | 2001 TAC | 2001 non-exempt AFA catcher vessel sideboard
Pollock:
A Season (W/C areas only) January 20-March 1:
Shelikof Strait | 0.1672 | 12,431 | 2,075
Shumagin (610) | 0.6238 | 7,707 | 4,808
Chirikof (620)(outside Shelikof) | 0.1262 | 560 | 71
Kodiak (630)(outside Shelikof) | 0.1984 | 5,474 | 1,086
B Season (W/C areas only) March 15-May 31:
Shelikof Strait | 0.1672 | 6,206 | 1,038
Shumagin (610) | 0.6238 | 3,854 | 2,404
Chirikof (620) (outside Shelikof) | 0.1262 | 280 | 35
Kodiak (630) (outside Shelikof) | 0.1984 | 2,737 | 543
C Season (W/C areas only) August 20-September 15:
Shumagin (610) | 0.6238 | 10,998 | 6,861
Chirikof (620) | 0.1262 | 6,546 | 826
Kodiak (630) | 0.1984 | 8,610 | 1,708
D Season (W/C areas only) October 1—November 1:
Shumagin (610) | 0.6238 | 9,165 | 5,717
Chirikof (620) | 0.1262 | 5,465 | 688
Kodiak (630) | 0.1984 | 7,175 | 1,424
Annual:
WYK (640) | 0.3642 | 2,235 | 814
SEO (650) | 0.3542 | 6,460 | 2,353
Pacific cod:
A Season (W/C areas only) January 1-June 10:
W inshore | 0.1310 | 9,882 | 1,295
offshore | 0.1206 | 1,098 | 113
C inshore | 0.0542 | 16,335 | 885
offshore | 0.0721 | 1,815 | 131
B Season (W/C areas only) June 10-December 31:
W inshore | 0.1310 | 6,588 | 863
offshore | 0.1206 | 732 | 75
C inshore | 0.0542 | 10,980 | 596
offshore | 0.0721 | 1,210 | 87
Annual:
E inshore | 0.0000 | 3,206 | 0
offshore | 0.0078 | 356 | 3
Flatfish deep-water:
W | 0.0000 | 280 | 0
C | 0.0620 | 2,710 | 168
E | 0.0021 | 2,310 | 5
Rex sole:
W | 0.0043 | 1,230 | 5
C | 0.0117 | 5,660 | 66
E | 0.0026 | 2,550 | 7
Flathead sole:
W | 0.0129 | 2,000 | 26
C | 0.0097 | 5,000 | 49
E | 0.0008 | 2,060 | 2
Flatfish shallow-water:
W | 0.0260 | 4,500 | 117
C | 0.0420 | 12,950 | 544
E | 0.0106 | 1,950 | 21
Arrowtooth flounder:
W | 0.0047 | 8,000 | 38
C | 0.0206 | 25,000 | 515
E | 0.0016 | 5,000 | 8
Sablefish:
W trawl gear | 0.0023 | 402 | 1
C trawl gear | 0.0384 | 1,082 | 44
E trawl gear | 0.0236 | 271 | 7
Pacific Ocean perch:
W | 0.0051 | 1,280 | 7
C | 0.0692 | 9,610 | 655
E | 0.0255 | 2,620 | 59
Shortraker/Rougheye:
W | 0.0000 | 210 | 0
C | 0.0145 | 930 | 13
E | 0.0105 | 590 | 6
Other rockfish:
W | 0.0000 | 20 | 0
C | 0.0410 | 740 | 3
E | 0.0000 | 250 | 0
Northern rockfish:
W | 0.0005 | 600 | 0
C | 0.0307 | 4,280 | 131
Pelagic shelf rockfish:
W | 0.0004 | 550 | 0
C | 0.0000 | 4,480 | 0
E | 0.0066 | 1,350 | 9
Thornyhead rockfish:
W | 0.0118 | 420 | 5
C | 0.0118 | 970 | 11
E | 0.0118 | 920 | 11
Demersal shelf rockfish:
SEO | 0.0000 | 330 | 0
Atka mackerel:
Gulfwide | 0.0443 | 600 | 27
Other species:
Gulfwide | 0.0067 | 13,619 | 91

PSC bycatch limits for non-exempt AFA catcher vessels in the GOA are based upon the ratio of aggregate retained groundfish catch by non-exempt AFA catcher vessels in each PSC target category from 1995 through 1997 relative to the retained catch of all vessels in that fishery from 1995 through 1997 (§ 679.63(b)(1)(iii)). These amounts are shown in Table 28.

Table 28.—Final 2001 Non-Exempt AFA Catcher Vessel Prohibited Species Catch (PSC) Limits for the GOA
[Values are in mt]
PSC species | Taget fishery and Season | Ratio* | 2001 PSC limit | 2001 non-exempt AFA catcher vessel PSC limit
Halibut (mortality in mt) | Trawl 1st Seasonal Allowance—January 20-April 1
| Shallow water targets | 0.340 | 350 | 119
| Deep water targets | 0.070 | 100 | 7
| Trawl 2nd Seasonal Allowance—April 1-June 10
| Shallow water | 0.340 | 100 | 34
| Deep water targets | 0.070 | 300 | 21
| Trawl 3rd Seasonal Allowance—June 10-July 1
| Shallow water targets | 0.340 | 250 | 85
| Deep water targets | 0.070 | 0 | 0
| Trawl 4th Seasonal Allowance—July 1-October 1
| Shallow water targets | 0.340 | 200 | 68
| Deep water targets
| Trawl 5th Seasonal Allowance—October 1-December 31
| All targets | 0.205 | 300 | 62
*Of 1995-1997 Non-Exempt AFA CV Retained Catch to Total Retained Catch.

Closures

In accordance with § 679.20(d)(1)(i), if the Regional Administrator determines that the amount of a target species or “other species” category apportioned to a fishery or, with respect to pollock and Pacific cod, to an inshore or offshore component allocation, will be reached, the Regional Administrator may establish a directed fishing allowance for that species or species group. If the Regional Administrator establishes a directed fishing allowance, and that allowance is or will be reached before the end of the fishing year, NMFS will prohibit directed fishing for that species or species group in the specified GOA Regulatory Area or district (§ 679.20(d)(1)(iii)).

The Regional Administrator has determined that the following TAC amounts (Table 29) are necessary as incidental catch to support other anticipated groundfish fisheries for the 2001 fishing year.

Table 29.—Incidental Catch Needed To Support Other Directed Fisheries in the GOA in 2001
[Amounts are in mt]
Target | Regulatory Area | Gear/Component | Amount
Atka Mackerel | Entire GOA | All | 600
Thornyhead Rockfish | Entire GOA | All | 2,310
Shortraker Rougheye Rockfish | Entire GOA | All | 1,730
Other Rockfish | Entire GOA | All | 1,010
Sablefish | Entire GOA | Trawl | 1,755
Pollock | Entire GOA | All/offshore | 0
Pollock | Statistical Area 620 | All/inshore A Season B Season | 560 280

Consequently, in accordance with § 679.20(d)(1)(i), the Regional Administrator establishes the directed fishing allowances for the above species or species groups as zero and in accordance with § 679.20(d)(1)(iii) NMFS is prohibiting directed fishing for those species, areas, gear types, components, and seasons listed in Table 29.

Regulations at § 679.63(b)(iv) provide for management of AFA catcher vessel groundfish harvest limits and PSC bycatch limits using directed fishing closures and PSC closures according to procedures set out at § 679.20(d)(1)(iv) and § 679.21(d)(8). The Regional Administrator has determined that in addition to the closures listed above many of the non-exempt AFA catcher vessel sideboard amounts listed in Table 27 are necessary as incidental catch to support other anticipated groundfish fisheries for the 2001 fishing year.In accordance with § 679.20(d)(1)(iv) the Regional Administrator establishes these amounts as directed fishing allowances. The Regional Administrator finds that many of these directed fishing allowances will be reached before the end of the year. Therefore, in accordance with § 679.20(d)(1)(iii), NMFS is prohibiting directed fishing by non-exempt AFA catcher vessels in the GOA for the species and specified areas set out in Table 30.

Table 30.—Non-Exempt AFA Catcher Vessel Sideboard Directed Fishing Closures in the GOA
Species | Regulatory area/district | Gear
Pacific cod | E GOA | All.
Deep-water flatfish | W and E GOA | All.
Rex sole | W and E GOA | All.
Flathead sole | E GOA | All.
Shallow-water flatfish | E GOA | All.
Arrowtooth flounder | E GOA | All.
Pacific Ocean perch | W GOA | All.
Northern rockfish | W GOA | All.
Pelagic shelf rockfish | entire GOA | All.
Demersal shelf rockfish | SEO District | All.
Other species | entire GOA | All.

Classification

The Administrator, Alaska Region, NMFS (Regional Administrator for Fisheries, NOAA (AA), has determined that this rule is necessary for the conservation and management of the groundfish fisheries of the BSAI and GOA. The Regional Administrator also determined that this proposed rule is consistent with the Magnuson-Stevens Act and other applicable laws.

This action has been determined to be significant for purposes of E.O. 12866. This rule contains no reporting, recordkeeping, or compliance requirements, and no relevant Federal rules exist which may duplicate, overlap, or conflict with this proposed rule.

Public Law 106-554, enacted December 21, 2000, required that the Secretary of Commerce amend the regulations governing the groundfish fisheries of the BSAI and GOA by January 20, 2001. The time available to meet this statutory deadline makes it impracticable to provide prior notice and an opportunity for public comment. Therefore, there is good cause to waive those requirements pursuant to 5 U.S.C. 553(b)(2). For the same reason there is good cause to waive the 30-day delay in effective date pursuant to 5 U.S.C. 553(b)(3). Because this rule is not subject to the requirement to provide notice or an opportunity for comment by 5 U.S.C. 553 or any other law, the analytical requirements of the Regulatory Flexibility Act, 5 U.S.C. 601 et seq., are not applicable. Thus, no initial or final regulatory flexibility analysis has been prepared. However, because this rule is considered economically significant, the following economic discussion is provided.

The RPA will reduce the likelihood of western Steller sea lion extinction. Many persons value the existence of the Steller sea lions, either because they value the species for itself or they value the species contribution to ecosystem diversity. This “existence value” should be counted in a benefit-cost analysis. Similarly, the reduced likelihood of extinction has value for those who would use Steller stocks for subsistence hunting or ecotourism. No studies have been conducted to determine the size of these benefits from Steller sea lion preservation.

The RPA global control rule may lead to direct reductions in the harvest of pollock, Pacific cod, and Atka mackerel. The RPA also contains provisions that will increase operating costs for fishing operations and possibly reduce revenues through impacts on product quality. These increased costs and decreased revenues are also likely to lead to reduced harvests. Fishing and processing operations will thus find their net revenues reduced because of increased costs and reduced production and quality. Production decreases should lead to product price increases that may offset these losses in part. Production decreases will also be associated with welfare losses to U.S. consumers. Increases in management complexity will lead to increased costs for fishery management. Many of the areas where fishing will be restricted are heavily used by small vessels; serious safety issues will be raised if these vessels are forced to fish further offshore.

Due to extremely limited information on the costs of fishing and on the responsiveness of prices to changes in production, it has not been possible to do a complete benefit and cost analysis. A simulation model has been used to estimate the change in gross revenues the processing and fishing industries may face if the RPA is adopted. This model evaluates revenue changes due to production changes, but does not estimate price-related impacts. If fishermen are totally unable to compensate for reduced harvests in restricted times and places by fishing elsewhere, the simulation indicates that industry revenues would drop by about $401 million/year. It is much more likely that the industry will be able to compensate, at least to some extent by changing its fishing patterns. Under one set of assumptions about the industry's ability to compensate, revenues were found to drop by about $225 million/year. These changes are for gross revenues, not net revenues. A high degree of uncertainty surrounds these estimates; however, they may provide a sense of the magnitudes of the impacts associated with the RPA. Many factors discussed earlier are not accounted for by these revenue change estimates.

While the benefits of this RPA will be distributed widely through the U.S. population, the costs will be heavily concentrated on the fishing industry and on the communities dependent on it. Community impacts on Kodiak Island, the Alaska Peninsula and the Aleutians are expected to be severe. These communities are small, remote, generally without road access to other places, and, with few alternative employment opportunities, are heavily dependent on fishing.

The President has directed Federal agencies to use plain language in their communications with the public, including regulations. These regulations have been drafted to comply with that directive. We seek public comment on any ambiguity or unnecessary complexity arising from the language used in this rule.

List of Subjects in 50 CFR Part 679

Alaska, Fisheries, Recordkeeping and reporting requirements.

Dated: January 16, 2001.
Penelope D. Dalton,
Assistant Administrator for Fisheries, National Marine Fisheries Service.

For reasons set out in the preamble, 50 CFR part 679 is amended as follows:

PART 679—FISHERIES OF THE EXCLUSIVE ECONOMIC ZONE OFF ALASKA

1. The authority citation for part 679 is revised to read as follows:

Authority: 16 U.S.C. 773 et seq.; 1801 et seq.; 3631 et seq.; Title II of Division C, Pub. L. 105-277; Sec. 3027, Pub. L. 106-31; 113 Stat. 57; 16 U.S.C. 1540(f); and Sec. 209, Pub. L. 106-554.

2. In § 679.2 the definitions for “Appointed agent for service of process”, “Designated cooperative representative”, and under paragraph (4) the definition of “Directed fishing” are added in alphabetical order to read as follows:

§ 679.2 Definitions.

* * * * *

Appointed agent for service of process (applicable through December 31, 2001) means an agent appointed by the members of an inshore catcher vessel cooperative to serve on behalf of the cooperative. The appointed agent for service of process may be the owner of a vessel listed as a member of the cooperative or a registered agent. If at any time the cooperative's appointed agent for service of process becomes unable to accept service, then the cooperative members are required to notify the Regional Administrator of a substitute appointed agent.

* * * * *

Designated cooperative representative (applicable through December 31, 2001) means an individual who is designated by the members of an inshore pollock cooperative to fulfill requirements on behalf of the cooperative including, but not limited to, the signing of cooperative fishing permit applications and completing and submitting inshore catcher vessel pollock cooperative catch reports.

* * * * *

Directed fishing means * * *

(4) (applicable through December 31, 2001) With respect to the harvest of groundfish by AFA catcher/processors and AFA catcher vessels, any fishing activity that results in the retention of an amount of a species or species group on board a vessel that is greater than the maximum retainable bycatch amount for that species or species group as calculated under § 679.20.

* * * * *

3. In § 679.4, paragraph (l) is added to read as follows:

§ 679.4 Permits.

* * * * *

(l) AFA permits (applicable through December 31, 2001)—(1) General—(i) Applicability. In addition to any other permit and licensing requirements set out in this part, any vessel used to engage in directed fishing for a non-CDQ allocation of pollock in the BSAI and any shoreside processor, stationary floating processor, or mothership that receives pollock harvested in a non-CDQ directed pollock fishery in the BSAI must have a valid AFA permit onboard the vessel or at the facility location at all times while non-CDQ pollock is being harvested or processed. An AFA permit does not exempt a vessel operator, vessel, or processor from any other applicable permit or licensing requirement required under this part or in other state or Federal regulations.

(ii) Duration. Except as provided in paragraph (l)(6)(iv) of this section, and unless suspended or revoked, AFA vessel and processor permits are valid until December 31, 2004.

(iii) Application for permit. NMFS will issue AFA vessel and processor permits to the current owner(s) of a qualifying vessel or processor if the owner(s) submits to the Regional Administrator a completed AFA permit application that is subsequently approved.

(iv) Amended permits. AFA vessel and processor permits may not be used on or transferred to any vessel or processor that is not listed on the permit. However, AFA permits may be amended to reflect any change in the ownership of the vessel or processor. An application to amend an AFA permit must include the following:

(A) The original AFA permit to be amended, and

(B) A completed AFA permit application signed by the new vessel or processor owner.

(2) AFA catcher/processor permits —(i) Unrestricted. NMFS will issue to an owner of a catcher/processor an unrestricted AFA catcher/processor permit if the catcher/processor is one of the following (as listed in AFA paragraphs 208(e)(1) through (20)):

AMERICAN DYNASTY (USCG documentation number 951307);

KATIE ANN (USCG documentation number 518441);

AMERICAN TRIUMPH (USCG documentation number 646737);

NORTHERN EAGLE (USCG documentation number 506694);

NORTHERN HAWK (USCG documentation number 643771);

NORTHERN JAEGER (USCG documentation number 521069);

OCEAN ROVER (USCG documentation number 552100);

ALASKA OCEAN (USCG documentation number 637856);

ENDURANCE (USCG documentation number 592206);

AMERICAN ENTERPRISE (USCG documentation number 594803);

ISLAND ENTERPRISE (USCG documentation number 610290);

KODIAK ENTERPRISE (USCG documentation number 579450);

SEATTLE ENTERPRISE (USCG documentation number 904767);

US ENTERPRISE (USCG documentation number 921112);

ARCTIC STORM (USCG documentation number 903511);

ARCTIC FJORD (USCG documentation number 940866);

NORTHERN GLACIER (USCG documentation number 663457);

PACIFIC GLACIER (USCG documentation number 933627);

HIGHLAND LIGHT (USCG documentation number 577044);

STARBOUND (USCG documentation number 944658).

(ii) Restricted. NMFS will issue to an owner of a catcher/processor a restricted AFA catcher/processor permit if the catcher/processor is not listed in § 679.4(l)(2)(i) and is determined by the Regional Administrator to have harvested more than 2,000 mt of pollock in the 1997 BSAI directed pollock fishery.

(3) AFA catcher vessel permits. NMFS will issue to an owner of a catcher vessel an AFA catcher vessel permit containing sector endorsements and sideboard restrictions upon receipt and approval of a completed application for an AFA catcher vessel permit.

(i) Qualifying criteria—(A) Catcher vessels delivering to catcher/processors. NMFS will endorse an AFA catcher vessel permit to authorize directed fishing for pollock for delivery to a catcher/processor if the catcher vessel:

(1) Is one of the following (as listed in paragraphs 208(b)(1) through (7) of the AFA):

AMERICAN CHALLENGER (USCG documentation number 633219);

FORUM STAR (USCG documentation number 925863);

MUIR MILACH (USCG documentation number 611524);

NEAHKAHNIE (USCG documentation number 599534);

OCEAN HARVESTER (USCG documentation number 549892);

SEA STORM (USCG documentation number 628959);

TRACY ANNE (USCG documentation number 904859); or

(2) Is not listed in § 679.4(l)(3)(i)(A)(1) and is determined by the Regional Administrator to have delivered at least 250 metric tons and at least 75 percent of the pollock it harvested in the directed BSAI pollock fishery in 1997 to catcher/processors for processing by the offshore component.

(B) Catcher vessels delivering to AFA motherships. NMFS will endorse an AFA catcher vessel permit to authorize directed fishing for pollock for delivery to an AFA mothership if the catcher vessel:

(1) Is one of the following (as listed in paragraphs 208(c)(1) through (19) and subsection 211(e) of the AFA):

ALEUTIAN CHALLENGER (USCG documentation number 603820);

ALYESKA (USCG documentation number 560237);

AMBER DAWN (USCG documentation number 529425);

AMERICAN BEAUTY (USCG documentation number 613847);

CALIFORNIA HORIZON (USCG documentation number 590758);

MAR-GUN (USCG documentation number 525608);

MARGARET LYN (USCG documentation number 615563);

MARK I (USCG documentation number 509552);

MISTY DAWN (USCG documentation number 926647);

NORDIC FURY (USCG documentation number 542651);

OCEAN LEADER (USCG documentation number 561518);

OCEANIC (USCG documentation number 602279);

PACIFIC ALLIANCE (USCG documentation number 612084);

PACIFIC CHALLENGER (USCG documentation number 518937);

PACIFIC FURY (USCG documentation number 561934);

PAPADO II (USCG documentation number 536161);

TRAVELER (USCG documentation number 929356);

VESTERAALEN (USCG documentation number 611642);

WESTERN DAWN (USCG documentation number 524423);

LISA MARIE (USCG documentation number 1038717); or

(2) Is not listed in § 679.4(l)(3)(i)(B)(1) and is determined by the Regional Administrator to have delivered at least 250 mt of pollock for processing by motherships in the offshore component of the BSAI directed pollock fishery in any one of the years 1996 or 1997, or between January 1, 1998, and September 1, 1998, and is not eligible for an endorsement to deliver pollock to catcher/processors under § 679.4(l)(3)(i)(A).

(C) Catcher vessels delivering to AFA inshore processors. NMFS will endorse an AFA catcher vessel permit to authorize directed fishing for pollock for delivery to an AFA inshore processor if the catcher vessel:

(1) Is the LISA MARIE (USCG documentation number 1038717); or

(2) is not eligible for an endorsement to deliver pollock to catcher/processors under § 679.4(l)(3)(i)(A), and:

(i) Is determined by the Regional Administrator to have delivered at least 250 mt of pollock harvested in the directed BSAI pollock fishery for processing by the inshore component in any one of the years 1996 or 1997, or between January 1, 1998, and September 1, 1998; or

(ii) Is less than 60 ft (18.3 m) LOA and is determined by the Regional Administrator to have delivered at least 40 mt of pollock harvested in the directed BSAI pollock fishery for processing by the inshore component in any one of the years 1996 or 1997, or between January 1, 1998 and September 1, 1998.

(ii) Application for AFA catcher vessel permit. A completed application for an AFA catcher vessel permit must contain:

(A) Vessel information. The vessel name, ADF&G registration number, USCG documentation number, vessel telephone number (if any), gross tons, shaft horsepower, and registered length (in feet);

(B) Owner information. Owner name(s), tax ID number(s), business mailing address(es), business telephone number(s), business fax number(s), business e-mail address(es), and managing company (if any);

(C) Vessel AFA qualification information. AFA catcher vessel permit endorsement(s) requested; and

(D) Vessel crab activity information required for crab sideboard endorsements. The owner of an AFA catcher vessel wishing to participate in any BSAI king or Tanner crab fishery must apply for a crab sideboard endorsement authorizing the catcher vessel to retain that crab species. An AFA catcher vessel permit may be endorsed for a crab species if the owner requests a crab sideboard endorsement, provides supporting documentation that the catcher vessel made the required legal landing(s) of a crab species, and the Regional Administrator verifies the legal landing(s) according to the following criteria:

(1) Bristol Bay Red King Crab (BBRKC): A legal landing of any BSAI king or Tanner crab species in 1996, 1997, or on or before February 7, 1998. A BBRKC sideboard endorsement also authorizes a vessel to retain Bairdi Tanner crab harvested during the duration of a BBRKC opening if the vessel is otherwise authorized to retain Bairdi Tanner crab while fishing for BBRKC under state and Federal regulations.

(2) St. Matthew Island blue king crab: A legal landing of St. Matthew Island blue king crab in that fishery in 1995, 1996, or 1997.

(3) Pribilof Island red and blue king crab: A legal landing of Pribilof Island blue or red king crab in that fishery in 1995, 1996, or 1997.

(4) Aleutian Islands (Adak) brown king crab: A legal landing of Aleutian Islands brown king crab during in each of the 1997/1998 and 1998/1999 fishing seasons.

(5) Aleutian Islands (Adak) red king crab: A legal landing of Aleutian Islands red king crab in each of the 1995/1996 and 1998/1999 fishing seasons.

(6) Opilio Tanner crab: A legal landing of Chionoecetes(C.) opilio Tanner crab in each of 4 or more years from 1988 to 1997.

(7) Bairdi Tanner crab: A legal landing of C. bairdi Tanner crab in 1995 or 1996.

(E) Vessel exemptions from AFA catcher vessel groundfish sideboard directed fishing closures. An AFA catcher vessel permit may contain exemptions from certain groundfish sideboard directed fishing closures. If a vessel owner is requesting an exemption from groundfish sideboard-directed closures, the application must provide supporting documentation that the catcher vessel qualifies for the exemption based on the criteria set out below. The Regional Administrator will review the vessel's catch history according to the following criteria:

(1) BSAI Pacific cod. For a catcher vessel to qualify for an exemption from AFA catcher vessel sideboards in the BSAI Pacific cod fishery, the catcher vessel must be less than 125 ft LOA, have harvested a combined total of less than 5,100 mt of BSAI pollock, and have made 30 or more legal landings of Pacific cod in the BSAI directed fishery for Pacific cod during the combined years 1995, 1996, and 1997.

(2) GOA groundfish species. For a catcher vessel to qualify for an exemption from AFA catcher vessel sideboards in the GOA groundfish fisheries, the catcher vessel must be less than 125 ft LOA, have harvested a combined total of less than 5,100 mt of BSAI pollock and made 40 or more legal landings of GOA groundfish during the combined years 1995, 1996, and 1997.

(F) Certification of notary and applicant. Owner signature(s), date of signature, printed name(s), and stamp and signature of a notary public.

(4) AFA mothership permits. NMFS will issue to an owner of a mothership an AFA mothership permit if the mothership is one of the following (as listed in paragraphs 208(d)(1) through (3) of the AFA):

EXCELLENCE (USCG documentation number 967502);

GOLDEN ALASKA (USCG documentation number 651041); and

OCEAN PHOENIX (USCG documentation number 296779).

(i) Cooperative processing endorsement. The owner of an AFA mothership who wishes to process pollock harvested by a fishery cooperative formed under § 679.60 must apply for and receive a cooperative processing endorsement on the vessel's AFA mothership permit.

(ii) Application for AFA mothership permit. A completed application for an AFA mothership permit must contain:

(A) Type of permit requested. Type of processor and whether requesting an AFA co-operative endorsement.

(B) Mothership information. The mothership name, ADF&G processor code, USCG documentation number, Federal fisheries permit number, gross tons, shaft horsepower, and registered length (in feet), and business telephone number, business FAX number, and business e-mail address used onboard the mothership.

(C) Owner information. Owner name(s), tax ID number(s), business mailing address(es), business telephone number(s), business fax number(s), business e-mail address(es), and managing company (if any);

(D) AFA entity/AFA crab facility ownership information. If the applicant is applying for a cooperative pollock processing endorsement, the AFA mothership application must identify all of the individuals, corporations or other entities that comprise the AFA entity that owns the inshore processor, and also must list the name, type of facility, ADF&G processor code, and nature and percentage of ownership or control of each of each AFA crab facility that is associated with such AFA entity; and

(E) Certification of notary and applicant. Owner signature(s), date of signature, printed name(s), and notary stamp and signature of a notary public.

(5) AFA inshore processor permits. NMFS will issue to an owner of a shoreside processor or stationary floating processor an AFA inshore processor permit upon receipt and approval of a completed application.

(i) Qualifying criteria—(A) Unrestricted processors. NMFS will issue an unrestricted AFA inshore processor permit to a shoreside processor or stationary floating processor if the Regional Administrator determines that the processor facility processed annually more than 2,000 mt round-weight of pollock harvested in the inshore component of the directed BSAI pollock fishery during each of 1996 and 1997.

(B) Restricted processors. NMFS will issue a restricted AFA inshore processor permit to a shoreside processor or stationary floating processor if the Regional Administrator determines that the facility processed pollock harvested in the inshore component of the directed BSAI pollock fishery during 1996 or 1997, but did not process annually more than 2,000 mt round-weight of BSAI pollock during each of 1996 and 1997.

(ii) Cooperative processing endorsement. The owner of an AFA inshore processor who wishes to process pollock harvested by a fishery cooperative formed under § 679.61 must apply for and receive a cooperative processing endorsement on the AFA inshore processor permit.

(iii) Single geographic location requirement. An AFA inshore processor permit authorizes the processing of pollock harvested in the BSAI directed pollock fishery in only a single geographic location during a fishing year. For the purpose of this paragraph, single geographic location means:

(A) Shoreside processors. The physical location at which the land-based shoreside processor first processed BSAI pollock harvested in the BSAI directed pollock fishery during a fishing year;

(B) Stationary floating processors. A location within Alaska state waters that is within 5 nm of the position in which the stationary floating processor first processed BSAI pollock harvested in the BSAI directed pollock fishery during a fishing year.

(iv) Application for permit. A completed application for an AFA inshore processor permit must contain:

(A) Type of permit requested. Type of processor, whether requesting an AFA cooperative endorsement, and amount of BSAI pollock processed in 1996 and 1997;

(B) Stationary floating processor information. The vessel name, ADF&G processor code, USCG documentation number, Federal processor permit number, gross tons, shaft horsepower, registered length (in feet), and business telephone number, business FAX number, and business E-mail address used onboard the vessel.

(C) Shoreside processor information. The processor name, Federal processor permit number, ADF&G processor code, business street address; business telephone and FAX numbers, and business e-mail address.

(D) Owner information. Owner name(s), tax ID number(s), business mailing address(es), business telephone number(s), business fax number(s), business e-mail address(es), and managing company (if any);

(E) AFA entity/AFA crab facility ownership information. If the applicant is applying for a cooperative pollock processing endorsement, the AFA inshore processor application must identify all of the individuals, corporations or other entities that comprise the AFA entity that owns the inshore processor, and also must list the name, type of facility, ADF&G processor code, and nature and percentage of ownership or control of each AFA crab facility that is associated with such AFA entity; and

(F) Certification of notary and applicant. Owner signature(s), date of signature, printed name(s), and notary stamp and signature of a notary public.

(6) Inshore cooperative fishing permits—(i) General. NMFS will issue to an inshore catcher vessel cooperative formed under section 1 of the Act of June 25, 1934 (15 U.S.C. 521) for the purpose of cooperatively managing directed fishing for pollock for processing by an AFA inshore processor an AFA inshore cooperative fishing permit upon receipt and approval of a completed application.

(ii) Application for permit. A completed application for an inshore cooperative fishing permit must contain the following information:

(A) Cooperative contact information. Name of cooperative; name of cooperative representative; and business mailing address, business telephone number, business fax number, and business e-mail address of the cooperative;

(B) Designated cooperative processor. The name and physical location of AFA Inshore Processor that is designated in the cooperative contract as the processor to whom the cooperative has agreed to deliver at least 90 percent of its BSAI pollock catch. If the processor is a stationary floating processor, the single geographic location (latitude and longitude) at which the processor will process BSAI pollock under the AFA; and Federal processor permit number of the AFA inshore processor;

(C) Cooperative contract information. A copy of the cooperative contract and a written certification that:

(1) The contract was signed by the owners of at least 80 percent of the qualified catcher vessels. For the purpose of this paragraph, a catcher vessel is a qualified catcher vessel if:

(i) it delivered more pollock harvested in the BSAI inshore directed pollock fishery to the AFA inshore processor designated under paragraph (l)(6)(ii)(B) of this section than to any other shoreside processor or stationary floating processor during the year prior to the year in which the cooperative fishing permit will be in effect; and

(ii) the owner(s) of the catcher vessel in question has submitted a completed application for an AFA catcher vessel permit to the Regional Administrator that was received on or before December 31, 1999 and which is not subsequently denied.

(2) The cooperative contract requires that the cooperative deliver at least 90 percent of its BSAI pollock catch to its designated AFA processor; and

(3) Each catcher vessel in the cooperative is a qualified catcher vessel and is otherwise eligible to fish for groundfish in the BSAI, has an AFA catcher vessel permit with an inshore endorsement, and has no permit sanctions or other type of sanctions against it that would prevent it from fishing for groundfish in the BSAI;

(D) Business review letter. A copy of a letter from a party to the contract requesting a business review letter on the fishery cooperative from the Department of Justice, and any response to such request;

(E) Vessel information. For each cooperative catcher vessel member: Vessel name, ADF&G registration number, USCG documentation number, AFA permit number; and

(F) Certification of notary and applicant. Signature and printed name of cooperative representative, date of signature, and notary stamp or seal of a notary public.

(iii) Duration of cooperative fishing permits. Inshore cooperative fishing permits are valid for 1 calendar year.

(iv) Add or subtract vessels to a cooperative fishing permit. The cooperative representative must submit a new application to add or subtract a catcher vessel to or from an inshore cooperative fishing permit to the Regional Administrator prior to the application deadline. Upon approval by the Regional Administrator, NMFS will issue an amended cooperative fishing permit.

(v) Application deadline. An inshore cooperative fishing permit application and any subsequent contract amendments that add or subtract vessels must be received by the Regional Administrator by December 1 prior to the year in which the inshore cooperative fishing permit will be in effect. Inshore cooperative fishing permit applications or amendments to inshore fishing cooperative permits received after December 1 will not be accepted by the Regional Administrator for the subsequent fishing year.

(7) Replacement vessels. (i) In the event of the actual total loss or constructive total loss of an AFA catcher vessel, AFA mothership, or AFA catcher/processor, the owner of such vessel may replace such vessel with a replacement vessel. The replacement vessel will be eligible in the same manner as the original vessel after submission and approval of an application for an AFA replacement vessel provided that:

(A) Such loss was caused by an act of God, an act of war, a collision, an act or omission of a party other than the owner or agent of the vessel, or any other event not caused by the willful misconduct of the owner or agent;

(B) The replacement vessel was built in the United States and if ever rebuilt, was rebuilt in the United States;

(C) The USCG certificate of documentation with fishery endorsement for the replacement vessel is issued within 36 months of the end of the last year in which the eligible vessel harvested or processed pollock in the directed pollock fishery;

(D) If the eligible vessel is greater than 165 ft (50.3 m) in registered length, or more than 750 gross registered tons, or has engines capable of producing more than 3,000 shaft horsepower, the replacement vessel is of the same or lesser registered length, gross registered tons, and shaft horsepower;

(E) If the eligible vessel is less than 165 ft (50.3 m) in registered length, of fewer than 750 gross registered tons, and has engines incapable of producing more than 3,000 shaft horsepower, the replacement vessel is less than each of such thresholds and does not exceed by more than 10 percent the registered length, gross registered tons or shaft horsepower of the eligible vessel; and

(F) If the replacement vessel is already an AFA catcher vessel, the inshore cooperative catch history of both vessels may be merged in the replacement vessel for the purpose of determining inshore cooperative allocations except that a catcher vessel with an endorsement to deliver pollock to AFA catcher/processors may not be simultaneously endorsed to deliver pollock to AFA motherships or AFA inshore processors.

(ii) Application for permit. A completed application for an AFA permit for replacement vessel must contain:

(A) Identification of lost AFA eligible vessel.

(1) Name, ADF&G vessel registration number, USCG documentation number, AFA permit number, gross tons, shaft horsepower, and registered length from USCG documentation of the vessel;

(2) Name(s), tax ID number(s), business mailing address(es), telephone number(s), FAX number(s), and e-mail address(es) of owner(s);

(3) Last year in which this vessel harvester or processed pollock in a BSAI directed pollock fishery; and

(4) Description of how the vessel was lost or destroyed. Attach a USCG Form 2692 or insurance papers to verify the claim.

(B) Identification of replacement vessel.

(1) Name, ADF&G vessel registration number, USCG documentation number, gross tons, shaft horsepower, registered length, net tons, and length overall (in feet) from USCG documentation, and Federal Fisheries Permit number of the vessel;

(2) Name(s), tax ID number(s), business mailing address(es), business telephone number(s), business FAX number(s), and business e-mail address(es) of the owner(s);

(3) YES or NO indication of whether the vessel was built in the United States; and

(4) YES or NO indication of whether the vessel has ever been rebuilt, and if so whether it was rebuilt in the United States.

(C) Certification of applicant and notary. Signature(s) and printed name(s) of owner(s) and date of signature; signature, notary stamp or seal of notary public, and date notary commission expires.

(8) Application evaluations and appeals—(i) Initial evaluation. The Regional Administrator will evaluate an application for an AFA fishing or processing permit submitted in accordance with this paragraph (l) and compare all claims in the application with the information in the official AFA record. Claims in the application that are consistent with information in the official AFA record will be accepted by the Regional Administrator. Inconsistent claims in the application, unless supported by evidence, will not be accepted. An applicant who submits inconsistent claims or fails to submit the information specified in the application for an AFA permit will be provided a 60-day evidentiary period to submit the specified information, submit evidence to verify the applicant's inconsistent claims, or submit a revised application with claims consistent with information in the official AFA record. An applicant who submits claims that are inconsistent with information in the official AFA record has the burden of proving that the submitted claims are correct.

(ii) Additional information and evidence. The Regional Administrator will evaluate additional information or evidence to support an applicant's inconsistent claims submitted within the 60-day evidentiary period. If the Regional Administrator determines that the additional information or evidence meets the applicant's burden of proving that the inconsistent claims in his or her application are correct, the official AFA record will be amended and the information will be used in determining whether the applicant is eligible for an AFA permit. However, if the Regional Administrator determines that the additional information or evidence does not meet the applicant's burden of proving that the inconsistent claims in his or her application is correct, the applicant will be notified by an initial administrative determination that the applicant did not meet the burden of proof to change information in the official AFA record.

(iii) Sixty-day evidentiary period. The Regional Administrator will specify by letter a 60-day evidentiary period during which an applicant may provide additional information or evidence to support the claims made in his or her application, or to submit a revised application with claims consistent with information in the official AFA record, if the Regional Administrator determines that the applicant did not meet the burden of proving that the information on the application is correct through evidence provided with the application. Also, an applicant who fails to submit required information will have 60 days to provide that information. An applicant will be limited to one 60-day evidentiary period. Additional information or evidence, or a revised application received after the 60-day evidentiary period specified in the letter has expired will not be considered for the purposes of the initial administrative determination.

(iv) Initial administrative determinations (IAD). The Regional Administrator will prepare and send an IAD to the applicant following the expiration of the 60-day evidentiary period if the Regional Administrator determines that the information or evidence provided by the applicant fails to support the applicant's claims and is insufficient to rebut the presumption that the official AFA record is correct, or if the additional information, evidence, or revised application is not provided within the time period specified in the letter that notifies the applicant of his or her 60-day evidentiary period. The IAD will indicate the deficiencies in the application, including any deficiencies with the information, the evidence submitted in support of the information, or the revised application. The IAD also will indicate which claims cannot be approved based on the available information or evidence. An applicant who receives an IAD may appeal under the appeals procedures set out at § 679.43. An applicant who avails himself or herself of the opportunity to appeal an IAD will receive an interim AFA permit that authorizes a person to participate in an AFA pollock fishery, and will have the specific endorsements and designations based on the claims in his or her application. An interim AFA permit will expire upon final agency action.

(v) Effect of cooperative allocation appeals. An AFA inshore cooperative may appeal the pollock quota share issued to the cooperative under § 679.61; however, final agency action on the appeal must occur prior to December 15 for the results of the appeal to take effect during the subsequent fishing year.

* * * * *

4. In § 679.5, paragraphs (a)(4)(iv), (f)(3), (f)(4), (i)(1)(iii), and (o) are added to read as follows:

§ 679.5 Recordkeeping and reporting.

(a) * * *

(4) * * *

(iv) Shoreside processor electronic logbook report. (Applicable through December 31, 2001.) The manager of a shoreside processor or stationary floating processor receiving groundfish from AFA catcher vessels must use NMFS-approved software to report catcher vessel deliveries to NMFS as required under this section, and maintain the shoreside processor electronic logbook report described at paragraph (f)(3) of this section, and printed reports required under this section to record the information described at paragraph (f)(4) of this section. The owner of a shoreside processor or stationary floating processor is responsible for compliance and must ensure that the operator, manager, or representative complies with the requirements of this paragraph described at paragraph (f)(3) of this section.

* * * * *

(f) * * *

(3) Shoreside processor electronic logbook report—(Applicable through December 31, 2001.) (i) Requirement. The manager of a shoreside processor or stationary floating processor that receives deliveries of groundfish from one or more AFA catcher vessels must record in and submit a shoreside processor electronic logbook report for each catcher vessel delivery and must print and retain reports required under this section for the duration of the fishing year.

(ii) Applicability. (A) Processors that use the shoreside processor electronic logbook to record all deliveries and that receive from NMFS an electronic return receipt for each delivery report are exempt from the requirement to maintain shoreside processor DCPLs as described at paragraph (f)(1) and (f)(2) of this section and are exempt from the requirement to submit quarterly DCPL logsheets to NMFS Enforcement as described at paragraph (a)(14)(iii)(A) of this section.

(B) Processors that submit the shoreside processor electronic logbook report and that receive from NMFS an electronic return receipt for each delivery report are exempt from the requirement to maintain and submit WPRs to the Regional Administrator as described at paragraph (i) of this section.

(C) Processors that submit the shoreside processor electronic logbook report, receive from NMFS a return receipt for each delivery report, and that are receiving deliveries of fish under a CDQ program are exempt from the requirement to submit CDQ delivery reports to the Regional Administrator as described at paragraph (n)(1) of this section.

(iii) Time limit and submittal. (A) The shoreside processor electronic logbook report must be submitted daily to NMFS as an electronic file. A dated return-receipt will be generated and sent by NMFS to the processor confirming receipt and acceptance of the report. Processors must retain the return receipt as proof of report submission. If a processor does not receive a return receipt from NMFS, the processor must contact NMFS within 24 hours for further instruction on submission of electronic logbook reports.

(B) Information entered daily and described at § 679.5(f)(3)(iv)(B) must be entered each day on the day they occur.

(C) Information for each delivery described at § 679.5(f)(3)(iv)(C) must be submitted to NMFS by noon of the following day for each delivery of groundfish.

(iv) Information required. The manager must enter the following information into the shoreside processor electronic logbook:

(A) Information entered once (at software installation) or whenever it changes:

(1) Shoreside processor name, ADF&G processor code, Federal processor permit number, and processor e-mail address;

(2) State port code;

(3) Name, telephone and FAX numbers of representative.

(B) Information entered daily:

(1) Indicate if no deliveries or no production;

(2) Number of observers on site;

(3) Whether harvested in BSAI or GOA;

(4) Product by species code, product code, and whether primary, ancillary, or reprocessed/rehandled;

(5) Product weight (in lb or mt).

(C) Information entered for each delivery:

(1) Date fishing began and delivery date;

(2) Vessel name (optional) and ADF&G number;

(3) Whether delivery is from a buying station;

(4) If received from a buying station:

(i) Type: vessel, vehicle, or other.

(ii) Name of buying station and date received by buying station.

(iii) If a vessel, ADF&G number.

(iv) If a vehicle, license plate number.

(v) If other, description;

(5) Whether a discard DFL was received from catcher vessel; if discard DFL not received, reason given;

(6) ADF&G fish ticket number of delivery;

(7) Management program name and identifying number (whether CDQ, research program, experimental fishery, IFQ, or AFA coop);

(8) Gear type of harvester;

(9) Landed species by species code, product code, and weight (in pounds or mt) for each species of each delivery;

(10) Discard or disposition species by species code, product code, and weight (in pounds or mt) of groundfish or PSC herring;

(11) Discard or disposition species by species code, product code, and count (in numbers of animals) of PSC halibut, salmon, or crab;

(12) If a CDQ delivery, discard or disposition species by species code, product code, weight (in pounds or mt) and count of PSQ halibut;

(13) ADF&G statistical area(s) where fishing occurred; and estimated percentage of total delivered weight corresponding to each area.

(4) Shoreside processor electronic logbook printed reports. (i) The manager must output at the processing plant daily reports of the shoreside processor electronic logbook in two formats generated by the required software onto paper consisting of a Shoreside Logbook Daily Production Report and a Delivery Worksheet. The processor must maintain copies of both of these printouts throughout the fishing year and must make them available to observers, NMFS personnel, and authorized officers upon request.

(ii) Information required—(A) Delivery worksheet. Name of processor; ADF&G fish ticket number; management program name (whether CDQ, research program, experimental fishery, IFQ, or cooperative) and identifying number; catcher vessel name (optional) and ADF&G vessel number; date fishing began; delivery date; gear type by harvester; landed species by species code and product code and weight (in lb) for each species of each delivery; ADF&G statistical area and percentage of total delivered weight in each area, Federal reporting area; discard or disposition by species code and product code; weight of each discard or disposition species (in lb), number of each discard or disposition species (in lb) (if groundfish or herring); number of each species discard or disposition species if PSC halibut, salmon or crab.

(B) Shoreside logbook daily production. Processor name; Federal processor number; ADF&G processor code; date; number of observers on site; indicate if no production and/or no deliveries; last sent date; last modified date; product by species code and product code whether primary, ancillary, or reprocessed/rehandled; and product weight in lb.

* * * * *

(i) Weekly production report (WPR). * * *

(1) * * *

(iii) (applicable through December 31, 2001) If a shoreside processor or stationary floating processor and if using software approved by the Regional Administrator as described in § 679.5(f)(3), the shoreside processor or stationary floating processor is exempt from the requirements to submit a WPR.

* * * * *

(o) Catcher vessel cooperative pollock catch report. (Applicable through December 31, 2001.) (1) Applicability. The designated representative of each AFA inshore processor catcher vessel cooperative must submit to the Regional Administrator a catcher vessel cooperative pollock catch report detailing each delivery of pollock harvested under the allocation made to that cooperative. The owners of the member catcher vessels in the cooperative are jointly responsible for compliance and must ensure that the designated representative complies with the applicable recordkeeping and reporting requirements of this section.

(2) Time limits and submittal. (i) The cooperative pollock catch report must be submitted by one of the following methods:

(A) an electronic data file in a format approved by NMFS; or

(B) by fax.

(ii) The cooperative pollock catch report must be received by the Regional Administrator by 1200 hours, A.l.t. 1 week after the date of completion of delivery.

(3) Information required. The cooperative pollock catch report must contain the following information: Cooperative account number; catcher vessel ADF&G number; inshore processor Federal processor permit number; delivery date; amount of pollock (in lb) delivered plus weight of at-sea pollock discards; ADF&G fish ticket number.

* * * * *

5. In § 679.7, paragraphs (a)(11) and (b) are suspended until July 17, 2001, and paragraphs (a)(17) and (j) are added to read as follows:

§ 679.7 Prohibitions.

* * * * *

(a) * * *

(17) Tender vessel—(Applicable through July 17, 2001.) (i) Use a catcher vessel or catcher/processor as a tender vessel before offloading all groundfish or groundfish product harvested or processed by that vessel.

(ii) Use a catcher vessel or catcher/processor to harvest groundfish while operating as a tender vessel.

* * * * *

(j) Prohibitions specific to the GOA—(Applicable through July 17, 2001.) (1) Southeast Outside trawl closure. Use any gear other than non-trawl gear in GOA east of 140° W long.

(2) Catcher vessel trip limit for pollock. Retain on board a catcher vessel at any time, more than 300,000 pounds (136 mt) of unprocessed pollock.

(3) Tender vessel restrictions for pollock. (i) Operate as a tender vessel east of 157°00′ W long. for pollock harvested in the GOA.

(ii) Operate as a tender vessel west of 157°00′ W long. while retaining on board at any time more than 600,000 lb (272 mt) of unprocessed pollock.

* * * * *

6. In § 679.20, paragraphs (a)(5)(i)(A), (a)(5)(ii)(B), and (c)(2)(ii) are suspended until July 17, 2001 and paragraphs (a)(5)(i)(B), (a)(5)(ii)(C), (c)(2)(iii), (c)(7), and (d)(1)(iv) are added to read as follows:

§ 679.20 General limitations.

* * * * *

(a) * * *

(5) * * *

(i) * * *

(B) BSAI seasonal allowances—(Applicable through July 17, 2001.) (1) Inshore, catcher/processor, mothership, and CDQ components. The portion of the Bering Sea subarea pollock directed fishing allowance allocated to each component under Sections 206(a) and 206(b) of the American Fisheries Act will be divided into two seasonal allowances corresponding to the two fishing seasons set out at § 679.23(e)(5), as follows: A/B Season, 40 percent; C/D Season, 60 percent.

(2) Inseason Adjustments. Within any fishing year, the Regional Administrator may add or subtract the under harvest or over harvest of a seasonal allowance, by component, according to the harvest limitations below. The Steller Sea Lion Conservation Area (SCA) is defined at § 679.22(a)(11)(iv).

Bering Sea subarea | Combined A/B season, maximum overall harvest of 40% of annual pollock TAC |  | Combined C/D season, maximum overall harvest of 60% of annual pollock TAC
Inside SCA | Maximum harvest limit of 20% of annual pollock TAC for A+B combined, and 15% for A or B singly. |  | Maximum harvest limit of 4.5% of annual pollock TAC | Maximum harvest limit of 7.5% of annual pollock TAC.
Season | A | B | C | D

* * * * *

(ii) * * *

(C) GOA seasonal allowances. (Applicable through July 17, 2001.) Each apportionment established under paragraph (a)(5)(ii)(A) of this section will be divided into four seasonal allowances corresponding to the four fishing seasons set out at § 679.23(d)(3) of this part as follows: A Season, 30 percent; B Season, 15 percent; C Season, 30 percent; D Season, 25 percent. Within any fishing year, under harvest or over harvest of a seasonal allowance may be added to or subtracted from subsequent seasonal allowances in a manner to be determined by the Regional Administrator, provided that a revised seasonal allowance does not exceed 30 percent of the annual TAC apportionment.

* * * * *

(c) * * *

(2) * * *

(iii) BSAI. (Applicable through July 17, 2001.) Except for pollock, Atka mackerel, and the hook and line and pot gear allocation of sablefish, one quarter of each proposed initial TAC and apportionment thereof, one quarter of each CDQ reserve established by paragraph (b)(1)(iii) of this section, and one quarter of the proposed PSQ reserve and prohibited species catch allowances established by § 679.21.

(A) The interim specifications for pollock and Atka mackerel will be equal to the first seasonal allowance for pollock and Atka mackerel that is published in the proposed specifications under paragraph (c)(1) of this section.

(B) The interim specifications for CDQ pollock will be equal to the first seasonal allowance that is published in the proposed specifications under paragraph (c)(1) of this section.

* * * * *

(7) BSAI and Western and Central GOA Pacific cod season allocations. The annual TAC Pacific cod in the BSAI and the Western and Central GOA will be divided, after the subtraction of any reserves and incidental catch, between the A Season and B Season as follows:

(i) A Season, January 1, 2001, to June 10, 2001, 60 percent;

(ii) B Season, June 10, 2001, to December 31, 2001, 40 percent;

(iii) Each season apportionment will be allocated among the various sectors as provided in §§ 679.20(a)(6)(iii) and 679.20(a)(7).

(iv) Any overage or underage of Pacific cod harvest from the A Season may be subtracted from or added to the subsequent B Season.

* * * * *

(d) * * *

(1) * * *

(iv) AFA sideboard limitations. (Applicable through December 31, 2001.) (A) If the Regional Administrator determines that any sideboard harvest limit for a group of AFA vessels established under § 679.63 has been or will be reached, the Regional Administrator may establish a directed fishing allowance for the species or species group applicable only to the identified group of AFA vessels.

(B) In establishing a directed fishing allowance under paragraph (d)(1)(iv)(A) of this section, the Regional Administrator shall consider the amount of the harvest limitation established for a group of AFA vessels under § 679.63 that will be taken as incidental catch by those vessels in directed fishing for other species.

* * * * *

7. In § 679.21 paragraphs (d)(8) and (e)(3)(v) are added to read as follows:

§ 679.21 Prohibited species bycatch management.

* * * * *

(d) * * *

(8) AFA halibut bycatch limitations. (Applicable through December 31, 2001). Halibut bycatch limits for AFA catcher vessels will be established according to the procedure and formula set out in § 679.63(b) and managed through directed fishing closures for AFA catcher vessels in the groundfish fisheries to which the halibut bycatch limit applies.

* * * * *

(e) * * *

(3) * * *

(v) AFA prohibited species catch limitations. (Applicable through December 31, 2001.) Halibut and crab PSC limits for AFA catcher/processors and AFA catcher vessels will be established according to the procedures and formulas set out in § 679.63 (a) and (b) and managed through directed fishing closures for AFA catcher/processors and AFA catcher vessels in the groundfish fisheries for which the PSC limit applies.

* * * * *

8. In § 679.22, paragraphs (a)(7), (a)(8), and (b)(2) are suspended until July 17, 2001 and paragraphs (a)(11), (a)(12), (a)(13), (b)(3), and (b)(5) are added to read as follows:

§ 679.22 Closures.

(a) * * *

(11) Steller sea lion protection areas, Bering Sea subarea and Bogoslof District—(Applicable through July 17, 2001.) (i) Year-round trawl closures. Until 1200 hours, A.l.t., June 10, 2001, trawling is prohibited within 10 nm of selected Steller sea lion rookeries in the Bering Sea subarea and Bogoslof District. These rookeries are listed in Table 21 to this part and are identifiable by a designation of “Bering Sea” in column 2, “R” in column 7, and “Y” in column 14. After 1200 hours, A.l.t., June 10, 2001, refer to paragraph (a)(11)(v) of this section for fishing prohibitions.

(ii) Seasonal trawl closures. During January 20 through 1200 hours, A.l.t., June 10, or a date earlier than June 10 if directed fishing for pollock is prohibited for all sectors under § 679.20, trawling is prohibited within 20 nm of selected Steller sea lion rookeries in the Bering Sea subarea and Bogoslof District. These rookeries are listed in Table 21 to this part and are identifiable by a designation of “Bering Sea” in column 2, “R” in column 7, and “Y” in column 14.

(iii) Pollock closures. Until 1200 hours, A.l.t., June 10, 2001, directed fishing for pollock, including pollock CDQ, is prohibited within 10 or 20 nm of selected Steller sea lion rookery and haulout sites in Bering Sea subarea and Bogoslof District. These sites are listed in Table 21 to this part and are identifiable by a designation of “Bering Sea” in column 2, “R” or “H” in column 7, and “Y” in column 14. The radius and time period of the closure for each site can be determined by referencing columns 10 and 11. After 1200 hours, A.l.t., June 10, 2001, refer to paragraph (a)(11)(v) of this section for fishing prohibitions.

(iv) Steller sea lion conservation area (SCA)—(A) General. Directed fishing for pollock by vessels catching pollock for processing by the inshore component, catcher/processors in the offshore component, motherships in the offshore component, or directed fishing for pollock CDQ, is prohibited within the SCA for the duration of a fishing season when the Regional Administrator announces, by notification in the Federal Register, that the criteria set out in paragraph (a)(11)(iv)(D) of this section have been met by that industry component.

(B) Boundaries. The SCA consists of the area of the Bering Sea subarea between 170°00′ W long. and 163°00′ W long., south of straight lines connecting the following points in the order listed:

55°00′ N lat. 170°00′ W long.;

55°00′ N lat. 168°00′ W long.;

55°30′ N lat. 168°00′ W long.;

55°30′ N lat. 166°00′ W long.;

56°00′ N lat. 166°00′ W long.; and,

56°00′ N lat. 163°00′ W long.

(C) Seasons—Subject to other provisions of this part, directed fishing for pollock within the SCA is authorized only during the following seasons:

(1) A season. From 1200 hours, A.l.t., January 20, through 1200 hours, A.l.t., April 1;

(2) B season. From 1200 hours, A.l.t., April 1, through 1200 hours, A.l.t., June 10;

(3) C season. From 1200 hours, A.l.t., June 10, through 1200 hours, A.l.t., August 20;

(4) D season. From 1200 hours, A.l.t., August 20, through 1200 hours, A.l.t., November 1.

(D) Criteria for closure—(1) General. The directed fishing closures identified in paragraph (a)(11)(iv)(A) of this section will take effect when the Regional Administrator determines that the harvest of a seasonal limit of pollock within the SCA reaches the amounts specified in the following table:

Seasonal DFA Apportionment and Harvest Limits Within the SCA
[In metric tons]
Industry sector | A/B (40% of annual DFA): A-SCA limit | A/B (40% of annual DFA): B-SCA limit | C/D (60% of annual DFA): C-SCA limit | C/D (60% of annual DFA): D-SCA limit
Inshore | 81,802 | 27,267 | 39,440 | 65,734
C/P | 38,564 | 12,854 | 0 | 0
Mothership | 14,607 | 4,869 | 0 | 0
CDQ | 28,247 | 9,339 | 9,567 | 15,718

(2) Inshore catcher vessels greater than 99 ft (30.2 m) LOA. The Regional Administrator will prohibit directed fishing for pollock to vessels greater than 99 ft (30.2 m) LOA, catching pollock for processing by the inshore component before reaching the inshore SCA harvest limit during the A, B, and D seasons to accommodate fishing by vessels less than or equal to 99 ft (30.2 m) inside the SCA for the duration of the inshore seasonal opening. The Regional Administrator will estimate how much of the inshore seasonal allowance is likely to be harvested by catcher vessels less than or equal to 99 ft (30.2 m) LOA and reserve a sufficient amount of the inshore SCA allowance to accommodate fishing by such vessels after the closure of the SCA to inshore vessels greater than 99 ft (30.2 m) LOA. The Regional Administrator will prohibit directed fishing for all inshore catcher vessels within the SCA when the inshore limit specified in paragraph (a)(11)(iv)(E)(1) of this section has been met.

(v) Steller sea lion management areas. (A) The following sea lion management areas are established in the Bering Sea subarea and the Bogoslof district:

(1) Area 7. All waters within the SCA, as defined in 50 CFR § 679.22(a)(11)(iv)(B), east to the eastern boundary of the SCA, and west to a line connecting the point 55° 30′ N lat./166° W long. with the point 54° 51′ N lat./164° 33′ 33″ W long., including 20 nm seaward of selected sites. These sites are listed in Table 21 to this part and are identifiable by “Bering Sea” in column 2 and “7” in column 16.

(2) Area 8. All waters within the SCA, as defined in 50 CFR § 679.22(a)(11)(iv)(B), east to a line connecting the point 55° 30′ N lat./166° W long. with the point 54° 51′ N lat./164° 33′ 33″ W long., and west to the eastern boundary of area 518, as described in figure 1 of this part.

(3) Area 9. All waters within the SCA, as defined in 50 CFR § 679.22(a)(11)(iv)(B), east to the eastern boundary of area 518, as described in figure 1 of this part, west to the western boundary of area 518, as described in figure 1 of this part, and north to 55° N lat.

(B) Directed fishing for pollock and Pacific cod is prohibited in Steller sea lion management areas 8 and 9.

(C) Directed fishing for pollock and Pacific cod is prohibited within 3 nm of selected sites in Steller sea lion management area 7.

(12) Steller sea lion protection areas, Aleutian Islands Subarea—(Applicable through July 17, 2001.) (i) 10-nm closures. Until 1200 hours, A.l.t., June 10, 2001, trawling is prohibited within 10 nm of selected Steller sea lion rookeries in the Aleutian Islands subarea. These rookeries are listed in Table 21 to this part and are identifiable by a designation of “Aleutian Islands” in column 2, “R” in column 7, “10 nm” in column 13, and “Y” in column 14. After 1200 hours, A.l.t., June 10, 2001, refer to paragraph (a)(12)(v) of this section for fishing prohibitions.

(ii) 20-nm closures. Until 1200 hours, A.l.t., June 10, 2001, trawling is prohibited within 20 nm of selected Steller sea lion rookeries in the Aleutian Islands subarea. These rookeries are listed in Table 21 to this part and are identifiable by a designation of “Aleutian Islands” in column 2, “R” in column 7, “20 nm” in column 13, and “Y” in column 14. After 1200 hours, A.l.t., June 10, 2001, refer to paragraph (a)(12)(v) of this section for fishing prohibitions.

(iii) Western and Central Aleutian Islands closures. (A) General. Trawling is prohibited within 20 nm of selected rookery and haulout sites in the Aleutian Islands subarea when the Regional Administrator announces by notification in the Federal Register that the criteria for a trawl closure in a district set out in paragraph (a)(12)(iii)(B) of this section has been met. These sites are listed in Table 21 to this part and are identifiable by a designation of “Aleutian Islands” in column 2 and “Y” in column 14.

(B) Criteria for closure. The trawl closures identified in paragraph (a)(12)(iii)(A) of this section will take effect when the Regional Administrator determines that the harvest of a seasonal allowance of Atka mackerel specified under § 679.20(a)(8)(ii)(A) reaches the following percentages identified for each year and district:

Year | Western (543) | Central (542)
1999 | 65 percent | 80 percent.
2000 | 57 percent | 67 percent.
2001 | 48 percent | 46 percent.
2002 and after | 40 percent | 40 percent.

(C) Duration of closure. A Steller sea lion trawl closure within a district will remain in effect until NMFS closes Atka mackerel to directed fishing within the same district.

(D) CDQ fishing. A CDQ group is prohibited from exceeding the CDQ portion of the percentage of annual Atka mackerel in the Western and/or Central districts of the AI specified in paragraph (a)(12)(iii)(B) of this section for all sites identified in paragraph (a)(12)(iii)(A) of this section.

(iv) Pollock closure. Directed fishing for pollock is prohibited at all times within the Aleutian Islands subarea.

(v) Steller sea lion management areas. (A) The following sea lion management areas are established in the Aleutian Islands subarea:

(1) Area 12. All waters 20 nm seaward of selected sites in area 541, as described in figure 1 of this part, and all waters within the area between 52° N lat. and 53° N lat and between 173° 30′ W long. and 172° 30′ W long. These sites are listed in Table 21 to this part and are identifiable by “Aleutian Islands” in column 2 and “12” in column 16.

(2) Area 13. All waters 20 nm seaward of selected sites in area 542 and 543, as described in figure 1 of this part. These sites are listed in Table 21 to this part and are identifiable by “Aleutian Islands” in column 2 and “13” in column 16.

(B) Directed fishing for pollock, Pacific cod, and Atka mackerel is prohibited in Steller sea lion management area 13.

(C) Directed fishing for pollock, Pacific cod, and Atka mackerel by all federally permitted vessels is prohibited within 3 nm of selected sites in Steller sea lion management area 12.

(13) No fishing zones. (Applicable through July 17, 2001.) Until 1200 hours, A.l.t., June 10, 2001, directed fishing for groundfish by all federally permitted vessels is prohibited within 3 nm of selected Steller sea lion haulout sites in the BSAI. These sites are listed in Table 21 to this part and are identifiable by a designation “Bering Sea” or “Aleutian Islands” in column 2, “H” or “RPA” in column 7, and “Y” in column 14. After 1200 hours, A.l.t., June 10, 2001, refer to paragraph (a)(11)(v) of this section for fishing prohibitions in the Bering Sea subarea and the Bogoslof district and paragraph (a)(12)(v) of this section for fishing prohibitions in the Aleutian Islands subarea.

* * * * *

(b) * * *

(3) Steller sea lion protection areas—(Applicable through July 17, 2001.) (i) Year-round trawl closures. Until 1200 hours, A.l.t., June 10, 2001, trawling is prohibited within 10 nm of selected Steller sea lion rookeries in the GOA west of 144° W. longitude. These rookeries are listed in Table 21 to this part and are identifiable by a designation of “Gulf of Alaska” in column 2, “R” in column 7, and “Y” in column 14. After 1200 hours, A.l.t., June 10, 2001, refer to paragraph (b)(3)(iv) of this section for fishing prohibitions.

(ii) Pollock closures. Until 1200 hours, A.l.t., June 10, 2001, directed fishing for pollock is prohibited within 10 or 20 nm of selected Steller sea lion rookery and haulout sites in GOA west of 144° W. longitude. These sites are listed in Table 21 to this part and are identifiable by a designation of “Gulf of Alaska” in column 2, “R” or “H” in column 7, and “Y” in column 14. The radius and time period of the closure for each site can be determined by referencing columns 10 and 11. After 1200 hours, A.l.t., June 10, 2001, refer to paragraph (b)(3)(iv) of this section for fishing prohibitions.

(iii) Shelikof Strait conservation area—(A) General. Directed fishing for pollock is prohibited within the Shelikof Strait conservation area during the A and B seasons, defined at § 679.23(d)(3) of this part, when the Regional Administrator announces through notification in the Federal Register that the A or B season catch of pollock from within the Shelikof Strait conservation area reaches the amount determined by paragraph (b)(3)(iii)(C) of this section.

(B) Boundaries. The Shelikof Strait conservation area consists of the area bound by straight lines and shoreline connecting the following coordinates in the following order:

58°51′ N lat. 153°15′ W long.

58°51′ N lat. 152°00′ W long.

and the intersection of 152°00′ W long. with Afognak Island; aligned counterclockwise around the shoreline of Afognak, Kodiak, and Raspberry Islands to

57°00′ N lat. 154°00′ W long.

56°30′ N lat. 154°00′ W long.

56°30′ N lat. 155°00′ W long.

56°00′ N lat. 155°00′ W long.

56°00′ N lat. 157°00′ W long.

and the intersection of 157°00′ W long. with the Alaska Peninsula.

(C) Determination of TAC. NMFS will publish the pollock TAC for the Shelikof Strait conservation area in the annual specifications pursuant to § 679.20(c). The TAC is determined by calculating a ratio equal to the most recent estimate of pollock biomass in Shelikof Strait divided by the most recent estimate of total pollock biomass in the GOA. NMFS will multiply this ratio by the overall pollock TAC for the GOA and then multiply that sum by the seasonal TAC apportionment to determine the Shelikof Strait apportionment.

(iv) Steller sea lion management areas. (A) The following sea lion management areas are established in the GOA:

(1) Area 1. All waters 20nm seaward of selected sites east to 144° W long., west to 148° 45′ W long., and excluding waters inside of areas 639 and 649, as described in Figure 3 to part. These sites are listed in Table 21 to this part and are identifiable by “Gulf of Alaska” in column 2 and “1” in column 16.

(2) Area 2. All waters 20nm seaward of selected sites east to 148°45′ W long., in Shelikof Strait west to 154° W long., including all waters of Shelikof Strait, and on the east side of Kodiak Island south to a line connecting the point 57°31′3″ N lat./152°17′48″ W long. with the point 57°24′36″ N lat./151°40′29″ W long. These sites are listed in Table 21 to this part and are identifiable by “Gulf of Alaska” in column 2 and “2” in column 16.

(3) Area 3. All waters 20 nm seaward of selected sites on the east side of Kodiak Island north to a line connecting the point 57°31′3″ N lat./152°17′48″ W long. with the point 57°24′36″ N lat./151°40′29″ W long., in Shelikof Strait east to 154° W long., including all waters of Shelikof Strait south to a line connecting the point 56° 38′ N lat./157°27′ W long. with the point 56°24′ N lat./154°41′ W long. These sites are listed in Table 21 to this part and are identifiable by “Gulf of Alaska” in column 2 and “3” in column 16.

(4) Area 4. All waters 20 nm seaward of selected sites north to a line connecting the point 56°38′ N lat./157°27′ W long. with the point 56°24′ N lat./154°41′ W long. These sites are listed in Table 21 to this part and are identifiable by “Gulf of Alaska” in column 2 and “4” in column 16.

(5) Area 5. All waters 20 nm seaward of selected sites west to 161°15′ W long. These sites are listed in Table 21 to this part and are identifiable by “Gulf of Alaska” in column 2 and “5” in column 16.

(6) Area 6. All waters 20 nm seaward of selected sites east to 161°15′ W long. These sites are listed in Table 21 to this part and are identifiable by “Gulf of Alaska” in column 2 and “6” in column 16.

(7) Area 10. All waters 20 nm seaward of selected sites in area 610, as described in Figure 3 to part. These sites are listed in Table 21 to this part and are identifiable by “Gulf of Alaska” in column 2 and “10” in column 16.

(8) Area 11. All waters 20 nm seaward of selected sites in area 610, as described in Figure 3 to part. These sites are listed in Table 21 to this part and are identifiable by “Gulf of Alaska” in column 2 and “11” in column 16.

(B) Directed fishing for pollock and Pacific cod is prohibited in Steller sea lion management areas 2, 4, 6, 10, and 11.

(C) Directed fishing for pollock and Pacific cod is prohibited by all federally permitted vessels is prohibited within 3 nm of selected sites in Steller sea lion management areas 1, 3, and 5.

* * * * *

(5) No fishing zones. (Applicable through July 17, 2001.) Until 1200 hours, A.l.t., June 10, 2001, directed fishing for groundfish by all federally permitted vessels is prohibited within 3 nm of selected Steller sea lion haulout sites in the GOA west of 144° W. longitude. These sites are listed in Table 21 to this part and are identifiable by a designation “Gulf of Alaska” in column 2, “H” or “RPA” in column 7, and “Y” in column 14. After 1200 hours, A.l.t., June 10, 2001, refer to paragraph (b)(3)(iv) of this section for fishing prohibitions.

* * * * *

9. In § 679.23, paragraphs (d)(2), (e)(2), and (e)(4)(iii) are suspended until July 17, 2001 and paragraphs (d)(3), (d)(4), (e)(4)(iv), (e)(4)(v), (e)(5), (e)(6), and (i) are added to read as follows:

§ 679.23 Seasons.

* * * * *

(d) * * *

(3) Directed fishing for pollock. (Applicable through July 17, 2001.) Subject to other provisions of this part, directed fishing for pollock in the Western and Central Regulatory Areas is authorized only during the following four seasons:

(i) A season. From 1200 hours, A.l.t., January 20, through 1200 hours, A.l.t., March 1;

(ii) B season. From 1200 hours, A.l.t., March 15, through 1200 hours, A.l.t., May 31;

(iii) C season. From 1200 hours, A.l.t., August 20, through 1200 hours, A.l.t., September 15.

(iv) D season. From 1200 hours, A.l.t., October 1, through 1200 hours, A.l.t., November 1.

(4) Directed fishing for Pacific cod. (Applicable through July 17, 2001.) (i) Fixed gear. Subject to other provisions of this part, directed fishing for Pacific cod with fixed gear in the Western and Central Regulatory Areas is authorized only during the following two seasons:

(A) A season. From 0001 hours, A.l.t., January 1, through 1200 hours, A.l.t., June 10; and

(B) B season. From 1200 hours, A.l.t., June 10, through 2400 hours, A.l.t., December 31.

(ii) Trawl gear. Subject to other provisions of this part, directed fishing for Pacific cod with trawl gear in the Western and Central Regulatory Areas is authorized only during the following two seasons:

(A) A season. From 1200 hours, A.l.t., January 20, through 1200 hours, A.l.t., June 10; and

(B) B season. From 1200 hours, A.l.t., June 10, through 2400 hours, A.l.t., November 1.

* * * * *

(e) * * *

(4) * * *

(iv) Groundfish CDQ. (Applicable through July 17, 2001.) Fishing for groundfish CDQ species, other than pollock CDQ, and fixed gear sablefish CDQ under subpart C of this part, is authorized from 0001 hours, A.l.t., January 1, through the end of each fishing year, except as provided under paragraph (c) of this section.

(v) Pollock CDQ. (Applicable through July 17, 2001.) Fishing for pollock CDQ is authorized under paragraph (e)(5)(i) of this section.

(5) Directed fishing for pollock in the Bering Sea subarea— (Applicable through July 17, 2001.) (i) Inshore, offshore catcher/processor, and mothership components and pollock CDQ fisheries. Subject to other provisions of this part, directed fishing for pollock by vessels catching pollock for processing by the inshore component, catcher/processors in the offshore component, and motherships in the offshore component in the Bering Sea subarea or directed fishing for pollock CDQ in the Bering Sea subarea is authorized only during the following two seasons:

(A) A/B season. From 1200 hours, A.l.t., January 20, through 1200 hours, A.l.t., June 10;

(B) C/D season. From 1200 hours, A.l.t., June 10, through 1200 hours, A.l.t., November 1;

(6) Directed fishing for Pacific cod—(Applicable through July 17, 2001.) (i) Fixed gear. Subject to other provisions of this part, directed fishing for Pacific cod with fixed gear in the BSAI is authorized only during the following two seasons:

(A) A season. From 0001 hours, A.l.t., January 1, through 1200 hours, A.l.t., June 10; and

(B) B season. From 1200 hours, A.l.t., June 10, through 2400 hours, A.l.t., December 31.

(ii) Trawl gear. Subject to other provisions of this part, directed fishing for Pacific cod with trawl gear in the BSAI is authorized only during the following two seasons:

(A) A season. From 1200 hours, A.l.t., January 20, through 1200 hours, A.l.t., June 10; and

(B) B season. From 1200 hours, A.l.t., June 10, through 2400 hours, A.l.t., November 1.

* * * * *

(i) Catcher vessel exclusive fishing seasons for pollock. (Applicable through July 17, 2001.) Catcher vessels are prohibited from participating in directed fishing for pollock under the following conditions. Vessels less than 125 ft (38.1 m) LOA are exempt from this restriction when fishing east of 157°00′ W. long. Bering Sea and GOA seasons are specified at § 679.23(d)(3) and § 679.23(e)(5).

If you own or operate a catcher vessel and engage in directed fishing for pollock in the. * * * | During the * * * | Then you are prohibited from subsequently engaging in directed fishing for pollock in the * * *
Bering Sea subarea | A/B season | GOA until the following C season.
| C/D season | GOA until the A season of the next year.
GOA | A season | BSAI until the following C/D season.
| B season | BSAI until the following C/D season.
| C season | BSAI until the A/B season of the following year.
| D season | BSAI until the A/B season of the following year.

* * * * *

10. In § 679.50 paragraphs (c)(5) and (d)(5) are added to read as follows:

§ 679.50 Groundfish Observer Program applicable through December 31, 2001.

* * * * *

(c) * * *

(5) AFA catcher/processors and motherships—(Applicable through December 31, 2001.) (i) Coverage requirement.

(A) Unrestricted AFA catcher/processors and AFA motherships. The owner or operator of an unrestricted AFA catcher/processor or AFA mothership must provide at least two NMFS certified observers for each day that the vessel is used to harvest, process, or take deliveries of groundfish. More than two observers are required if the observer workload restriction at § 679.50(c)(5)(iii) would otherwise preclude sampling as required under § 679.62(a)(1).

(B) Restricted AFA catcher/processors. The owner or operator of a restricted AFA catcher/processor must provide at least two NMFS certified observers for each day that the vessel is used to engage in directed fishing for pollock in the BSAI, or takes deliveries of pollock harvested in the BSAI. When a restricted AFA catcher/processor is not engaged in directed fishing for BSAI pollock and is not receiving deliveries of pollock harvested in the BSAI, the observer coverage requirements at § 679.50(c)(1)(iv) apply.

(ii) Certification level. At least one of the observers required under paragraphs (c)(5)(i)(A) and (B) of section must be certified as a lead CDQ observer as specified in paragraph (h)(1)(i)(E)(1) of this section.

(iii) Observer work load. The time required for the observer to complete sampling, data recording, and data communication duties may not exceed 12 consecutive hours in each 24-hour period, and, the observer may not sample more than 9 hours in each 24-hour period.

* * * * *

(d) * * *

(5) AFA inshore processors—(Applicable through December 31, 2001.) (i) Coverage level. An AFA inshore processor is required to provide a NMFS certified observer for each 12 consecutive hour period of each calendar day during which the processor takes delivery of, or processes, groundfish harvested by a vessel engaged in a directed pollock fishery in the BSAI. A processor that takes delivery of or processes pollock for more than 12 consecutive hours in a calendar day is required to provide two NMFS-certified observers for each such day.

(ii) Multiple processors. An observer deployed to an AFA inshore processor may not be assigned to cover more than one processor during a calendar day in which the processor receives or processes pollock harvested in the BSAI directed pollock fishery.

* * * * *

11. In part 679, add subpart F to read as follows:

Subpart F—American Fisheries Act Management Measures (Applicable Through December 31, 2001)
Sec.
679.59 Authority and related regulations.
679.60 Catcher/processor and mothership pollock cooperatives.
679.61 Inshore pollock cooperatives.
679.62 Requirements for vessels and processors.
679.63 Harvest limitations in other fisheries.
679.64 AFA inshore processor and AFA mothership crab processing sideboard limits.

Subpart F—American Fisheries Act Management Measures (Applicable Through December 31, 2001)

§ 679.59 Authority and related regulations.

Regulations under this subpart were developed by the National Marine Fisheries Service and the North Pacific Fishery Management Council to implement the American Fisheries Act (AFA) [Div. C, Title II, Subtitle II, Pub. L. 105-277, 112 Stat. 2681 (1998)]. Additional regulations that implement specific provisions of the AFA are set out at § 679.2 Definitions, § 679.4 Permits, § 679.5 Recordkeeping and reporting, § 679.7 Prohibitions, § 679.20 General limitations, § 679.21 Prohibited species bycatch management, § 679.28 Equipment and operational requirements for Catch Weight Measurement, § 679.31 CDQ reserves, and § 679.50 Groundfish Observer Program applicable through December 31, 2000.

§ 679.60 Catcher/processor and mothership pollock cooperatives.

(a) Applicability. Any fishery cooperative formed under section 1 of the Act of June 25, 1934 (15 U.S.C. 521) for the purpose of cooperatively managing directed fishing for BSAI pollock for processing by catcher/processors or motherships must comply with the provisions of this section.

(b) Filing of fishery cooperative contracts. Any contract implementing a fishery cooperative for the purpose of cooperatively managing directed fishing for BSAI pollock for processing by catcher/processors or motherships, and any material modifications to any such contract must be filed not less than 30 days prior to the start of fishing under the contract with the Council and with the Regional Administrator, together with a copy of a letter from a party to the contract requesting a business review letter on the fishery cooperative from the Department of Justice and any response to such request. Any fishery cooperative intending to deliver pollock to an AFA mothership also must notify the owners of the AFA mothership not less than 30 days prior to the start of fishing under the contract.

(c) Required elements. Any cooperative contract filed under paragraph (b) of this section must contain the following information:

(1) A list of parties to the contract,

(2) A list of all vessels and processors that will harvest and process pollock harvested under the cooperative,

(3) The amount or percentage of pollock allocated to each party to the contract, and

(4) For a cooperative that includes catcher vessels delivering pollock to motherships or catcher/processors, penalties to prevent each non-exempt member catcher vessel from exceeding an individual vessel sideboard limit for each BSAI or GOA sideboard species or species group that is issued to the vessel by the cooperative in accordance with the following formula:

(i) The aggregate individual vessel sideboard limits issued to all member vessels in a cooperative must not exceed the aggregate contributions of each member vessel towards the overall groundfish sideboard amount as calculated by NMFS under § 679.63(b) and as announced to the cooperative by the Regional Administrator, or

(ii) In the case of two or more cooperatives that have entered into an inter-cooperative agreement, the aggregate individual vessel sideboard limits issued to all member vessels subject to the inter-cooperative agreement must not exceed the aggregate contributions of each member vessel towards the overall groundfish sideboard amount as calculated by NMFS under § 679.63(b) and as announced to NMFS by the Regional Administrator.

(d) Annual report. Any fishery cooperative governed by this section must submit annual preliminary and final written reports on fishing activity to the North Pacific Fishery Management Council, 605 West 4th Ave, Suite 306, Anchorage, AK 99501, for public distribution. The preliminary report covering activities through November 1 must be submitted by December 1 of each year and the final report must be submitted by January 31 of each year.

(1) Required contents. The preliminary and final written reports must contain, at a minimum:

(i) The cooperative's allocated catch of pollock and sideboard species, and any sub-allocations of pollock and sideboard species made by the cooperative to individual vessels on a vessel-by-vessel basis;

(ii) The cooperative's actual retained and discarded catch of pollock, sideboard species, and PSC on a area-by-area and vessel-by-vessel basis;

(iii) A description of the method used by the cooperative to monitor fisheries in which cooperative vessels participated; and

(iv) A description of any actions taken by the cooperative to penalize vessels that exceed their allowed catch and bycatch in pollock and all sideboard fisheries.

§ 679.61 Inshore pollock cooperatives.

(a) Applicability. Any fishery cooperative formed under section 1 of the Act of June 25, 1934 (15 U.S.C. 521) for the purpose of cooperatively managing directed fishing for pollock for processing by an AFA inshore processor must comply with the provisions of this section.

(b) Filing of fishery cooperative contracts. Any contract implementing a fishery cooperative for the purpose of cooperatively managing directed fishing for pollock for processing by an AFA inshore processor, any material modifications to any such contract, and a copy of a letter from a party to the contract requesting a business review letter on the fishery cooperative from the Department of Justice and any response to such request, must be filed with the Council and with the Regional Administrator no later than 30 days prior to the start of fishing under the contract.

(c) Required elements. Any cooperative contract filed under paragraph (b) of this section must contain the following:

(1) A list of parties to the contract,

(2) A list of all vessels and processors that will harvest and process pollock harvested under the cooperative,

(3) The amount or percentage of pollock allocated to each party to the contract, and

(4) Penalties to prevent each non-exempt member catcher vessel from exceeding an individual vessel sideboard limit for each BSAI or GOA groundfish sideboard species or species group that is issued to the vessel by the cooperative in accordance with the following formula:

(i) The aggregate individual vessel sideboard limits issued to all member vessels in a cooperative must not exceed the aggregate contributions of each member vessel towards the overall groundfish sideboard amount as calculated by NMFS under § 679.63(b) and as announced to the cooperative by the Regional Administrator, or

(ii) In the case of two more cooperatives that have entered into an inter-cooperative agreement, the aggregate individual vessel sideboard limits issued to all member vessels subject to the inter-cooperative agreement must not exceed the aggregate contributions of each member vessel towards the overall groundfish amount as calculated by NMFS under § 679.63(b) and as announced to NMFS by the Regional Administrator.

(d) Responsible parties—(1) Designated representative. Any cooperative formed under this section must appoint a designated representative to fulfill regulatory requirements on behalf of the cooperative including, but not limited to, the signing of cooperative fishing permit applications and completing and submitting inshore catcher vessel pollock cooperative catch reports. The owners of the member catcher vessels in the cooperative are jointly responsible for compliance and must ensure that the designated representative complies with all applicable regulations in this part.

(2) Agent for service of process. (i) Any cooperative formed under this section must appoint an agent who is authorized to receive and respond to any legal process issued in the United States with respect to all owners and operators of vessels listed on the cooperative fishing permit. The cooperative must provide the Regional Administrator with the name, address and telephone number of the appointed agent on the application for an inshore cooperative fishing permit. Service on or notice to the cooperative's appointed agent constitutes service on or notice to all members of the cooperative.

(ii) The owners and operators of all member vessels of an inshore pollock cooperative are responsible for ensuring that the agent is capable of accepting service on behalf of the cooperative for at least 5 years from the expiration day of the AFA permit. The owners and operators of all member vessels of a cooperative are also responsible for ensuring that a substitute agent is designated and the Agency is notified of the name, address and telephone number of the substitute representative in the event the previously designated representative is no longer capable of accepting service on behalf of the cooperative or the cooperative members within that 5-year period.

(e) Cooperative pollock allocations. An inshore pollock cooperative that applies for and receives an AFA inshore cooperative fishing permit under § 679.4(l)(6) will receive a sub-allocation of the annual inshore pollock allocation that is determined according to the following procedure:

(1) Calculation of individual vessel catch histories. The Regional Administrator will calculate an official AFA inshore cooperative catch history for every catcher vessel that made a landing of inshore pollock in the Bering Sea Subarea and/or Aleutian Islands Subarea during 1995, 1996, or 1997 according to the following steps:

(i) Determination of annual landings. For each year from 1995 through 1997 the Regional Administrator will determine each vessel's total inshore landings; from the Bering Sea Subarea and Aleutian Islands Subarea separately.

(ii) Offshore compensation. If a catcher vessel made a total of 500 or more mt of landings of Bering Sea Subarea pollock or Aleutian Islands Subarea pollock to catcher/processors or offshore motherships other than the EXCELLENCE (USCG documentation number 967502); GOLDEN ALASKA (USCG documentation number 651041); or OCEAN PHOENIX (USCG documentation number 296779) over the 3-year period from 1995 through 1997, then all offshore pollock landings made by that vessel from 1995 through 1997 will be added to the vessel's inshore catch history by year and subarea.

(iii) Best two out of three years. After steps (i) and (ii) are completed, the 2 years with the highest landings will be selected for each subarea and added together to generate the vessel's official AFA inshore cooperative catch history for each subarea. A vessel's best 2 years may be different for the Bering Sea subarea and the Aleutian Islands Subarea.

(2) Calculation of cooperative quota share. Each inshore pollock cooperative that applies for and receives an AFA inshore pollock cooperative fishing permit will receive an annual quota share percentage of pollock for each subarea of the BSAI that is equal to the sum of each member vessel's official AFA inshore cooperative catch history for that subarea divided by the sum of the official AFA inshore cooperative catch histories of all catcher vessels that made BSAI inshore pollock landings from that subarea in 1995, 1996, or 1997. The cooperative's quota share percentage will be listed on the cooperative's AFA pollock cooperative permit.

(3) Conversion of quota share to annual TAC allocation. Each inshore pollock cooperative that receives a quota share percentage for a fishing year will receive an annual allocation of Bering Sea and/or Aleutian Islands pollock that is equal to the cooperative's quota share percentage for that subarea multiplied by the annual inshore pollock allocation for that subarea. Each cooperative's annual pollock TAC allocation may be published in the interim, and final BSAI TAC specifications notices.

(f) Cooperative fishing restrictions. AFA inshore pollock cooperatives must comply with the following fishing restrictions.

(1) Eligible vessels. Only catcher vessels listed on the cooperative's AFA inshore cooperative fishing permit are permitted to harvest the cooperative's annual cooperative allocation.

(2) Quota management. All BSAI inshore pollock harvested by a member vessel while engaging in directed fishing for inshore pollock in the BSAI during the fishing year for which the annual cooperative allocation is in effect will accrue against the cooperative's annual pollock allocation regardless of whether the pollock was retained or discarded.

(3) Reporting of cooperative catch. Each inshore pollock cooperative must report to the Regional Administrator its BSAI pollock harvest on daily basis according to the recordkeeping and reporting requirements set out at § 679.5(o).

(g) Annual report. Any fishery cooperative governed by this section must submit annual preliminary and final written reports on fishing activity to the North Pacific Fishery Management Council, 605 West 4th Ave, Suite 306, Anchorage, AK 99501, for public distribution. The preliminary and final reports must contain the same elements and must be submitted according to the same deadlines as the preliminary and final reports required under § 679.60(d).

§ 679.62 Requirements for vessels and processors.

(a) AFA catcher/processors and AFA motherships—(1) Unrestricted AFA catcher/processors and AFA motherships.

(i) Catch weighing. All groundfish landed by unrestricted AFA catcher/processors or received by AFA motherships must be weighed on a NMFS-certified scale and made available for sampling by a NMFS certified observer. The owner and operator of an unrestricted AFA catcher/processor or an AFA mothership must ensure that the vessel is in compliance with the scale requirements described at § 679.28(b), that each groundfish haul is weighed separately, and that no sorting of catch takes place prior to weighing.

(ii) Observer sampling station. The owner and operator of an unrestricted AFA catcher/processor or AFA mothership must provide an observer sampling station as described at § 679.28(d) and must ensure that the vessel operator complies with the observer sampling station requirements described at § 679.28(d) at all times that the vessel harvests groundfish or receives deliveries of groundfish harvested in the BSAI or GOA.

(2) Restricted AFA catcher/processors. The owner or operator of a restricted AFA catcher/processor must comply with the catch weighing and observer sampling station requirements set out in paragraph (a)(1) of this section at all times the vessel is engaged in directed fishing for pollock in the BSAI.

(b) AFA inshore processors—(1) Catch Weighing. All groundfish landed by AFA catcher vessels engaged in directed fishing for pollock in the BSAI must be sorted and weighed on a scale approved by the State of Alaska under § 679.28(c) and be made available for sampling by a NMFS certified observer. The observer must be allowed to test any scale used to weigh groundfish in order to determine its accuracy.

(2) The plant manager or plant liaison must notify the observer of the offloading schedule for each delivery of BSAI pollock by an AFA catcher vessel at least 1 hour prior to offloading. An observer must monitor each delivery of BSAI pollock from an AFA catcher vessel and be on site the entire time the delivery is being weighed or sorted.

§ 679.63 Harvest limitations in other fisheries.

(a) AFA catcher/processor sideboards. The Regional Administrator will establish restrictions on the ability of unrestricted AFA catcher/processors to engage in directed fishing for BSAI groundfish species other than pollock. Such limits will be established and managed as follows:

(1) Calculation of groundfish harvest limits. For each groundfish species or species group in which a TAC is specified for an area or subarea of the BSAI, the Regional Administrator will establish annual AFA catcher/processor harvest limits as follows:

(i) Pacific cod. The Pacific cod harvest limit will be equal to the 1997 aggregate catch of Pacific cod by catcher/processors listed in paragraphs 208(e)(1) through (20) and 209 of the AFA in non-pollock target fisheries divided by the Pacific cod TAC available to catcher/processors in 1997 multiplied by the Pacific cod TAC available for harvest by catcher/processors in the year in which the harvest limit will be in effect.

(ii) Aleutian Islands Pacific ocean perch. The Aleutian Islands Pacific ocean perch harvest limit will be equal to the aggregate 1996 through 1997 catch of Aleutian Islands Pacific ocean perch by catcher/processors listed in paragraphs 208(e)(1) through (20) and 209 of the AFA in non-pollock target fisheries divided by the sum of the Aleutian Islands Pacific ocean perch TACs available to catcher/processors in 1996 and 1997 multiplied by the Aleutian Islands Pacific ocean perch TAC available for harvest by catcher/processors in the year in which the harvest limit will be in effect.

(iii) Atka mackerel. The Atka mackerel harvest limit for each area and season will be equal to:

(A) Bering Sea subarea and Eastern Aleutian Islands, zero;

(B) Central Aleutian Islands, 11.5 percent of the annual TAC specified for Atka mackerel; and

(C) Western Aleutian Islands, 20 percent of the annual TAC specified for Atka mackerel.

(iv) Remaining groundfish species. Except as provided for in paragraphs (a)(2)(1)(i) through (a)(2)(1)(iii) of this section, the harvest limit for each BSAI groundfish species or species group will be equal to the aggregate 1995 through 1997 catch of that species by catcher/processors listed in paragraphs 208(e)(1) through (20) and 209 of the AFA in non-pollock target fisheries divided by the sum of the TACs of that species or species group available to catcher/processors in 1995 through 1997 multiplied by the TAC of that species available for harvest by catcher/processors in the year in which the harvest limit will be in effect.

(2) Calculation of halibut and crab PSC bycatch limits. For each halibut or crab PSC limit specified for catcher/processors in the BSAI, the Regional Administrator will establish an annual unrestricted AFA catcher/processor PSC limit equal to the estimated aggregate 1995 through 1997 PSC bycatch of that species by catcher/processors listed in paragraphs 208(e)(1) through (20) and 209 of the AFA while engaged in directed fishing for species other than pollock divided by the aggregate PSC bycatch limit of that species for catcher/processors from 1995 through 1997 multiplied by the PSC limit of that species available to catcher/processors in the year in which the harvest limit will be in effect.

(3) Management of AFA catcher/processor sideboard limits. The Regional Administrator will manage groundfish harvest limits and PSC bycatch limits for AFA catcher/processors in accordance with the procedures set out in § 679.20(d)(1)(iv), and § 679.21(e)(3)(v).

(b) AFA catcher vessel sideboards. The Regional Administrator will establish restrictions on the ability of AFA catcher vessels to engage in directed fishing for other groundfish species in the GOA and BSAI. Such restrictions will be established and managed as follows:

(1) Calculation of groundfish and PSC sideboards. For each groundfish species or species group in which a TAC is specified for an area or subarea of the GOA and BSAI; and for each halibut and crab PSC limit, the Regional Administrator will establish annual AFA catcher vessel groundfish harvest limits and PSC bycatch limits as follows:

(i) Affected vessels. Catcher vessel harvest limits and PSC bycatch limits will apply to all AFA catcher vessels in all GOA and non-pollock BSAI groundfish fisheries except:

(A) BSAI Pacific cod—(1) AFA catcher vessels less than 125 ft (38.1 m) LOA that are determined by the Regional Administrator to have harvested a combined total of less than 5,100 mt of BSAI pollock, and to have made 30 or more legal landings of Pacific cod in the BSAI directed fishery for Pacific cod from 1995 through 1997 will be exempt from sideboard closures for BSAI Pacific cod.

(2) AFA catcher vessels with mothership endorsements will be exempt from BSAI Pacific cod catcher vessel sideboard directed fishing closures after March 1 of each fishing year.

(B) GOA groundfish. AFA catcher vessels less than 125 ft (38.1 m) LOA that are determined by the Regional Administrator to have harvested less than 5100 mt of BSAI pollock and to have made 40 or more landings of GOA groundfish from 1995 through 1997 will be exempt from GOA groundfish catcher vessel sideboard directed fishing closures.

(ii) Calculation of BSAI and GOA groundfish harvest limits—(A) BSAI Groundfish other than BSAI Pacific cod. The AFA catcher vessel groundfish harvest limit for each BSAI groundfish species or species group other than BSAI Pacific cod will be equal to the aggregate retained catch of that groundfish species or species group from 1995 through 1997 by AFA catcher vessels not exempted under § 679.63(b)(1)(i)(A)(1); divided by the sum of the TACs available to catcher vessels for that species or species group from 1995 through 1997; multiplied by the TAC available to catcher vessels in the year or season in which the harvest limit will be in effect.

(B) BSAI Pacific cod. The AFA catcher vessel groundfish harvest limit for BSAI Pacific cod will be equal to the retained catch of BSAI Pacific cod in 1997 by AFA catcher vessels not exempted under § 679.63(b)(1)(i)(A)(1) divided by the BSAI Pacific cod TAC available to catcher vessels in 1997; multiplied by the BSAI Pacific cod TAC available to catcher vessels in the year or season in which the harvest limit will be in effect.

(C) GOA groundfish. The AFA catcher vessel groundfish harvest limit for each GOA groundfish species or species group will be equal to the aggregate retained catch of that groundfish species or species group from 1995 through 1997 by AFA catcher vessels not exempted under § 679.63(b)(1)(i)(B); divided by the sum of the TACs of that species or species group available to catcher vessels from 1995 through 1997; multiplied by the TAC available to catcher vessels in the year or season in which the harvest limit will be in effect.

(iii) Calculation of BSAI and GOA PSC bycatch limits. The AFA catcher vessel PSC bycatch limit for halibut in the BSAI and GOA, and each crab species in the BSAI for which a trawl bycatch limit has been established will be a portion of the PSC limit equal to the ratio of aggregate retained groundfish catch by AFA catcher vessels in each PSC target category from 1995 through 1997 relative to the retained catch of all vessels in that fishery from 1995 through 1997.

(iv) Management of AFA catcher vessel sideboard limits. The Regional Administrator will manage groundfish harvest limits and PSC bycatch limits for AFA catcher vessels using directed fishing closures and PSC closures according to the procedures set out at § 679.20(d)(1)(iv), § 679.21(d)(8), and § 679.21(e)(3)(v).

§ 679.64 AFA inshore processor and AFA mothership crab processing sideboard limits.

(a) Applicability. The crab processing limits in this section apply to any AFA inshore or mothership entity that receives pollock harvested in the BSAI directed pollock fishery by a fishery cooperative established under § 679.60 or § 679.61.

(b) Calculation of crab processing sideboard limits. Upon receipt of an application for a cooperative processing endorsement from the owners of an AFA mothership or AFA inshore processor, the Regional Administrator will calculate a crab processing cap percentage for the associated AFA inshore or mothership entity. The crab processing cap percentage for each BSAI king or Tanner crab species will be equal to the percentage of the total catch of each BSAI king or Tanner crab species that the AFA crab facilities associated with the AFA inshore or mothership entity processed in the aggregate, on average, in 1995, 1996, and 1997.

(c) Notification of crab processing sideboard percentage limits. An AFA inshore or mothership entity's crab processing cap percentage for each BSAI king or Tanner crab species will be listed on each AFA mothership or AFA inshore processor permit that contains a cooperative pollock processing endorsement.

(d) Conversion of crab processing sideboard percentages and notification of crab processing sideboard poundage caps. Prior to the start of each BSAI king or Tanner crab fishery, NMFS will convert each AFA inshore or mothership entity's crab processing sideboard percentage to a poundage cap by multiplying the crab processing sideboard percentage by the pre-season guideline harvest level established for that crab fishery by ADF&G. The Regional Administrator will notify each AFA inshore or mothership entity of its crab processing sideboard poundage cap through a letter to the owner of the AFA mothership or AFA inshore processor and by publishing the crab processing poundage caps on the NMFS-Alaska Region world wide web home page (http://www.fakr.noaa.gov).

(e) Overages. In the event that the actual harvest of a BSAI crab species exceeds the pre-season Guideline harvest level (GHL) announced for that species, an AFA inshore or mothership entity may exceed its crab processing cap without penalty up to an amount equal to the AFA inshore or mothership entity's crab processing percentage multiplied by the final official harvest amount of that crab species as determined by ADF&G and announced by NMFS on the NMFS-Alaska Region world wide web home page (http://www.fakr.noaa.gov).

12. In 50 CFR part 679, Tables 12, 13, and 20 to part 679 are suspended, and Table 21 to part 679 is added to read as follows:

Table 21 to 50 CFR Part 679 Steller Sea Lion Protection Areas in the Bering Sea, Aleutian Islands and Gulf of Alaska
Site name | Management region | Boundaries from: Latitude (N) | Boundaries from: Longitude (W) | Boundaries to: Latitude (N) | Boundaries to: Longitude (W) | ESA listed or RPA* | No transit zone 3 nm | Critical habitat nm
St. Lawrence I./S Punuk I | Bering Sea | 63 04.00 N | 168 51.00 W |  |  | H |  | 20
St. Lawrence I./SW Cape | Bering Sea | 63 18.00 N | 171 26.00 W |  |  | H |  | 20
Hall I | Bering Sea | 60 37.00 N | 173 00.00 W |  |  | H |  | 20
St Paul I./Sea Lion Rock | Bering Sea | 57 06.00 N | 170 17.50 W |  |  | H |  | 20
St Paul I./NE Pt | Bering Sea | 57 15.00 N | 170 06.50 W |  |  | H |  | 20
Walrus I. (Pribilofs) | Bering Sea | 57 11.00 N | 169 56.00 W |  |  | R | 3 | 20
St. George I/Dalnoi Pt. | Bering Sea | 56 36.00 N | 169 46.00 W |  |  | H |  | 20
St. George I./S Rookery | Bering Sea | 56 33.50 N | 169 40.00 W |  |  | H |  | 20
Cape Newenham | Bering Sea | 58 39.00 N | 162 10.50 W |  |  | H |  | 20
Round (Walrus Islands) | Bering Sea | 58 36.00 N | 159 58.00 W |  |  | H |  | 20
Attu I./Cape Wrangell | Aleutian Islands | 52 54.60 N | 172 27.90 E | 52 55.40 N | 172 27.20 E | R | 3 | 20
Agattu I./Gillon Pt | Aleutian Islands | 52 24.13 N | 173 21.31 E |  |  | R | 3 | 20
Attu I./Chirikof Pt | Aleutian Islands | 52 49.75 N | 173 26.00 E |  |  | H |  | 20
Agattu I./Cape Sabak | Aleutian Islands | 52 22.50 N | 173 43.30 E | 52 21.80 N | 173 41.40 E | R | 3 | 20
Alaid I | Aleutian Islands | 52 46.50 N | 173 51.50 E | 52 45.00 N | 173 56.50 E | H |  | 20
Shemya I | Aleutian Islands | 52 44.00 N | 174 08.70 E |  |  | H |  | 20
Buldir I | Aleutian Islands | 52 20.25 N | 175 54.03 E | 52 20.38 N | 175 53.85 E | R | 3 | 20
Kiska I./Cape St. Stephen | Aleutian Islands | 51 52.50 N | 177 12.70 E | 51 53.50 N | 177 12.00 E | R | 3 | 20
Kiska I./Sobaka & Vega | Aleutian Islands | 51 49.50 N | 177 19.00 E | 51 48.50 N | 177 20.50 E | H |  | 20
Kiska I./Lief Cove | Aleutian Islands | 51 57.16 N | 177 20.41 E | 51 57.24 N | 177 20.53 E | R | 3 | 20
Kiska I./Sirius Pt. | Aleutian Islands | 52 08.50 N | 177 36.50 E |  |  | H |  | 20
Tanadak I. (Kiska) | Aleutian Islands | 51 56.80 N | 177 46.80 E |  |  | H |  | 20
Segula I. | Aleutian Islands | 51 59.90 N | 178 05.80 E | 52 03.06 N | 178 08.80 E | H |  | 20
Ayugadak Point | Aleutian Islands | 51 45.36 N | 178 24.30 E |  |  | R | 3 | 20
Rat I./Krysi Pt | Aleutian Islands | 51 49.98 N | 178 12.35 E |  |  | RPA |  |
Little Sitkin I. | Aleutian Islands | 51 59.30 N | 178 29.80 E |  |  | H |  | 20
Amchitka I./Column Rocks | Aleutian Islands | 51 32.32 N | 178 49.28 E |  |  | R | 3 | 20
Amchitka I./East Cape | Aleutian Islands | 51 22.26 N | 179 27.93 E | 51 22.00 N | 179 27.00 E | R | 3 | 20
Amchitka I./Cape Ivakin | Aleutian Islands | 51 24.46 N | 179 24.21 E |  |  | RPA |  |
Semisopochnoi/Petrel Pt | Aleutian Islands | 52 01.40 N | 179 36.90 E | 52 01.50 N | 179 39.00 E | R | 3 | 20
Semisopochnoi I./Pochnoi Pt | Aleutian Islands | 51 57.30 N | 179 46.00 E |  |  | R | 3 | 20
Amatignak I./Nitrof Pt | Aleutian Islands | 51 13.00 N | 179 07.80 W |  |  | H |  | 20
Unalga & Dinkum Rocks | Aleutian Islands | 51 33.67 N | 179 04.25 W | 51 35.09 N | 179 03.66 W | H |  | 20
Ulak I./Hasgox Pt | Aleutian Islands | 51 18.90 N | 178 58.90 W | 51 18.70 N | 178 59.60 W | R | 3 | 20
Kavalga I | Aleutian Islands | 51 34.50 N | 178 51.73 W | 51 34.50 N | 178 49.50 W | H |  | 20
Tag I | Aleutian Islands | 51 33.50 N | 178 34.50 W |  |  | R | 3 | 20
Ugidak I | Aleutian Islands | 51 34.95 N | 178 30.45 W |  |  | H |  | 20
Gramp Rock | Aleutian Islands | 51 28.87 N | 178 20.58 W |  |  | R | 3 | 20
Tanaga I./Bumpy Pt | Aleutian Islands | 51 55.00 N | 177 58.50 W | 51 55.00 N | 177 57.10 W | H |  | 20
Bobrof I. | Aleutian Islands | 51 54.00 N | 177 27.00 W |  |  | H |  | 20
Kanaga I./Ship Rock | Aleutian Islands | 51 46.70 N | 177 20.72 W |  |  | H |  | 20
Kanaga I./North Cape | Aleutian Islands | 51 56.50 N | 177 09.00 W |  |  | H |  | 20
Adak I | Aleutian Islands | 51 35.50 N | 176 57.10 W | 51 37.40 N | 176 59.60 W | R | 3 | 20
Little Tanaga Strait | Aleutian Islands | 51 49.09 N | 176 13.90 W |  |  | H |  | 20
Great Sitkin I | Aleutian Islands | 52 06.00 N | 176 10.50 W | 52 07.00 N | 176 07.00 W | H |  | 20
Anagaksik I | Aleutian Islands | 51 50.86 N | 175 53.00 W |  |  | H |  | 20
Kasatochi I | Aleutian Islands | 52 11.11 N | 175 31.00 W |  |  | R | 3 | 20
Atka I./N. Cape | Aleutian Islands | 52 24.20 N | 174 17.80 W |  |  | H |  | 20
Amlia I./Sviech. Harbor | Aleutian Islands | 52 01.80 N | 173 23.90 W |  |  | H |  | 20
Sagigik I | Aleutian Islands | 52 00.50 N | 173 09.30 W |  |  | H |  | 20
Amlia I./East | Aleutian Islands | 52 05.70 N | 172 59.00 W | 52 05.75 N | 172 57.50 W | H |  | 20
Tanadak I. (Amlia) | Aleutian Islands | 52 04.20 N | 172 57.60 W |  |  | H | 20
Agligadak I | Aleutian Islands | 52 06.09 N | 172 54.23 W |  |  | R | 3 | 20
Seguam I./Saddleridge Pt | Aleutian Islands | 52 21.05 N | 172 34.40 W | 52 21.02 N | 172 33.60 W | R | 3 | 20
Seguam I./Finch Pt | Aleutian Islands | 52 23.40 N | 172 27.70 W | 52 23.25 N | 172 24.30 W | H |  | 20
Seguam I./South Side | Aleutian Islands | 52 21.60 N | 172 19.30 W | 52 15.55 N | 172 31.22 W | H |  | 20
Amukta I. & Rocks | Aleutian Islands | 52 27.25 N | 171 17.90 W |  |  | H |  | 20
Chagulak I | Aleutian Islands | 52 34.00 N | 171 10.50 W |  |  | H |  | 20
Yunaska I | Aleutian Islands | 52 41.40 N | 170 36.35 W |  |  | R | 3 | 20
Uliaga | Bering Sea | 53 04.00 N | 169 47.00 W | 53 05.00 N | 169 46.00 W | H |  |
Chuginadak | Gulf of Alaska | 52 46.70 N | 169 41.90 W |  |  | H |  | 20
Kagamil | Bering Sea | 53 02.10 N | 169 41.00 W |  |  | H |  | 20
Samalga | Gulf of Alaska | 52 46.00 N | 169 15.00 W |  |  | RPA |  |
Adugak I | Bering Sea | 52 54.70 N | 169 10.50 W |  |  | R | 3 | 20
Umnak I./Cape Aslik | Bering Sea | 53 25.00 N | 168 24.50 W |  |  | H |  | 20
Ogchul I | Gulf of Alaska | 52 59.71 N | 168 24.24 W |  |  | R | 3 | 20
Bogoslof I./Fire Island | Bering Sea | 53 55.69 N | 168 02.05 W |  |  | R | 3 | 20
Polivnoi Rock | Gulf of Alaska | 53 15.96 N | 167 57.99 W |  |  | H |  | 20
Emerald I | Gulf of Alaska | 53 17.50 N | 167 51.50 W |  |  | H |  | 20
Unalaska/Cape Izigan | Gulf of Alaska | 53 13.64 N | 167 39.37 W |  |  | RPA |  |
Unalaska/Bishop Pt | Bering Sea | 53 58.40 N | 166 57.50 W |  |  | RPA |  |
Akutan I./Reef-lava | Bering Sea | 54 08.10 N | 166 06.19 W | 54 09.10 N | 166 05.50 W | H |  | 20
Unalaska I./Cape Sedanka | Gulf of Alaska | 53 50.50 N | 166 05.00 W |  |  | H |  | 20
Old Man Rocks | Gulf of Alaska | 53 52.20 N | 166 04.90 W |  |  | H |  | 20
Akutan I./Cape Morgan | Gulf of Alaska | 54 03.39 N | 165 59.65 W | 54 03.70 N | 166 03.68 W | R | 3 | 20
Akun I./Billings Head | Bering Sea | 54 17.62 N | 165 32.06 W | 54 17.57 N | 165 31.71 W | R | 3 | 20
Rootok | Gulf of Alaska | 54 03.90 N | 165 31.90 W | 54 02.90 N | 165 29.50 W | RPA |  |
Tanginak I | Gulf of Alaska | 54 12.00 N | 165 19.40 W |  |  | H |  | 20
Tigalda/Rocks NE | Gulf of Alaska | 54 09.60 N | 164 59.00 W | 54 09.12 N | 164 57.18 W | H |  | 20
Unimak/Cape Sarichef | Bering Sea | 54 34.30 N | 164 56.80 W |  |  | RPA |  |
Aiktak | Gulf of Alaska | 54 10.99 N | 164 51.15 W |  |  | RPA |  |
Ugamak I | Gulf of Alaska | 54 13.50 N | 164 47.50 W | 54 12.80 N | 164 47.50 W | R | 3 | 20
Round (GOA) | Gulf of Alaska | 54 12.05 N | 164 46.60 W |  |  | RPA |  |
Sea Lion Rock (Amak) | Bering Sea | 55 27.82 N | 163 12.10 W |  |  | R | 3 | 20
Amak I. and rocks | Bering Sea | 55 24.20 N | 163 09.60 W | 55 26.15 N | 163 08.50 W | H |  | 20
Bird I | Gulf of Alaska | 54 40.00 N | 163 17.15 W |  |  | H |  | 20
Caton I | Gulf of Alaska | 54 22.70 N | 162 21.30 W |  |  | H |  | 20
South Rocks | Gulf of Alaska | 54 18.14 N | 162 41.25 W |  |  | H |  | 20
Clubbing Rocks (S) | Gulf of Alaska | 54 41.98 N | 162 26.74 W |  |  | R | 3 | 20
Clubbing Rocks (N) | Gulf of Alaska | 54 42.75 N | 162 26.72 W |  |  | R | 3 | 20
Pinnacle Rock | Gulf of Alaska | 54 46.06 N | 161 45.85 W |  |  | R | 3 | 20
Sushilnoi Rocks | Gulf of Alaska | 54 49.30 N | 161 42.73 W |  |  | RPA |  |
Olga Rocks | Gulf of Alaska | 55 00.45 N | 161 29.81 W | 54 59.09 N | 161 30.89 W | RPA |  |
Jude I | Gulf of Alaska | 55 15.75 N | 161 06.27 W |  |  | H |  | 20
Sea Lion Rocks (Shumagins) | Gulf of Alaska | 55 04.70 N | 160 31.04 W |  |  | H |  | 20
Nagai I./Mountain Pt | Gulf of Alaska | 54 54.20 N | 160 15.40 W | 54 56.00 N | 160 15.00 W | H |  | 20
The Whaleback | Gulf of Alaska | 55 16.82 N | 160 05.04 W |  |  | H |  | 20
Chernabura I | Gulf of Alaska | 54 45.18 N | 159 32.99 W | 54 45.87 N | 159 35.74 W | R | 3 | 20
Castle Rock | Gulf of Alaska | 55 16.47 N | 159 29.77 W |  |  | H |  | 20
Atkins I | Gulf of Alaska | 55 03.20 N | 159 17.40 W |  |  | R | 3 | 20
Spitz I | Gulf of Alaska | 55 46.60 N | 158 53.90 W |  |  | H |  | 20
Mitrofania | Gulf of Alaska | 55 50.20 N | 158 41.90 W |  |  | RPA |  |
Kak | Gulf of Alaska | 56 17.30 N | 157 50.10 W |  |  | RPA |  |
Lighhthouse Rocks | Gulf of Alaska | 55 46.79 N | 157 24.89 W |  |  | H |  | 20
Sutwik I | Gulf of Alaska | 56 31.05 N | 157 20.47 W | 56 32.00 N | 157 21.00 W | H |  | 20
Chowiet I | Gulf of Alaska | 56 00.54 N | 156 41.42 W | 56 00.30 N | 156 41.60 W | R | 3 | 20
Nagai Rocks | Gulf of Alaska | 55 49.80 N | 155 47.50 W |  |  | H |  | 20
Chirikof I | Gulf of Alaska | 55 46.50 N | 155 39.50 W | 55 46.44 N | 155 43.46 W | R | 3 | 20
Puale Bay | Gulf of Alaska | 57 40.60 N | 155 23.10 W |  |  | H |  | 20
Kodiak/Cape Ikolik | Gulf of Alaska | 57 17.20 N | 154 47.50 W |  |  | H |  | 20
Takli I | Gulf of Alaska | 58 01.75 N | 154 31.25 W |  |  | H |  | 20
Cape Kuliak | Gulf of Alaska | 58 08.00 N | 154 12.50 W |  |  | H |  | 20
Cape Gull | Gulf of Alaska | 58 11.50 N | 154 09.60 W | 58 12.50 N | 154 10.50 W | H |  | 20
Kodiak/Cape Ugat | Gulf of Alaska | 57 52.41 N | 153 50.97 W |  |  | H |  | 20
Sitkinak/Cape Sitkinak | Gulf of Alaska | 56 34.30 N | 153 50.96 W |  |  | H |  | 20
Shakun Rock | Gulf of Alaska | 58 32.80 N | 153 41.50 W |  |  | H |  | 20
Twoheaded I | Gulf of Alaska | 56 54.50 N | 153 32.75 W | 56 53.90 N | 153 33.74 W | H |  | 20
Cape Douglas (Shaw I.) | Gulf of Alaska | 59 00.00 N | 153 22.50 W |  |  | RPA |  |
Kodiak/Cape Barnabas | Gulf of Alaska | 57 10.20 N | 152 53.05 W |  |  | H |  | 20
Kodiak/Gull Point | Gulf of Alaska | 57 21.45 N | 152 36.30 W |  |  | H |  | 20
Latax Rocks | Gulf of Alaska | 58 40.10 N | 152 31.30 W |  |  | H |  | 20
Ushagat I./SW | Gulf of Alaska | 58 54.75 N | 152 22.20 W |  |  | H |  | 20
Ugak I | Gulf of Alaska | 57 23.60 N | 152 17.50 W | 57 21.90 N | 152 17.40 W | H |  | 20
Sea Otter I | Gulf of Alaska | 58 31.15 N | 152 13.30 W |  |  | H |  | 20
Long I | Gulf of Alaska | 57 46.82 N | 152 12.90 W |  |  | H |  | 20
Sud I | Gulf of Alaska | 58 54.00 N | 152 12.50 W |  |  | H |  | 20
Kodiak/Cape Chiniak | Gulf of Alaska | 57 37.90 N | 152 08.25 W |  |  | H |  | 20
Sugarloaf I | Gulf of Alaska | 58 53.25 N | 152 02.40 W |  |  | R | 3 | 20
Sea Lion Rocks (Marmot) | Gulf of Alaska | 58 20.53 N | 151 48.83 W |  |  | H |  | 20
Marmot I | Gulf of Alaska | 58 13.65 N | 151 47.75 W | 58 09.90 N | 151 52.06 W | R | 3 | 20
Nagahut Rocks | Gulf of Alaska | 59 06.00 N | 151 46.30 W |  |  | H |  | 20
Perl | Gulf of Alaska | 59 05.75 N | 151 39.75 W |  |  | RPA |  |
Gore Point | Gulf of Alaska | 59 12.00 N | 150 58.00 W |  |  | H |  | 20
Outer (Pye) I | Gulf of Alaska | 59 20.50 N | 150 23.00 W | 59 21.00 N | 150 24.50 W | R | 3 | 20
Steep Point | Gulf of Alaska | 59 29.05 N | 150 15.40 W |  |  | RPA |  |
Seal Rocks (Kenai) | Gulf of Alaska | 59 31.20 N | 149 37.50 W |  |  | H | see note | 20
Chiswell Islands | Gulf of Alaska | 59 36.00 N | 149 34.00 W |  |  | H |  | 20
Rugged Island | Gulf of Alaska | 59 49.80 N | 149 23.30 W | 59 51.00 N | 149 25.30 W | RPA |  |
Point Elrington | Gulf of Alaska | 59 56.00 N | 148 15.20 W |  |  | H |  | 20
Perry I | Gulf of Alaska | 60 44.00 N | 147 54.60 W |  |  | H |  | 20
The Needle | Gulf of Alaska | 60 06.64 N | 147 36.17 W |  |  | H |  | 20
Point Eleanor | Gulf of Alaska | 60 35.00 N | 147 34.00 W |  |  | H |  | 20
Wooded I. (Fish I.) | Gulf of Alaska | 59 52.90 N | 147 20.65 W |  |  | R | see note | 20
Glacier Island | Gulf of Alaska | 60 51.30 N | 147 14.50 W |  |  | RPA |  |
Seal Rocks (Cordova) | Gulf of Alaska | 60 09.78 N | 146 50.30 W |  |  | R | see note | 20
Cape Hinchinbrook | Gulf of Alaska | 60 14.00 N | 146 38.50 W |  |  | RPA |  |
Middleton I | Gulf of Alaska | 59 28.30 N | 146 18.80 W |  |  | H |  | 20
Hook Point | Gulf of Alaska | 60 20.00 N | 146 15.60 W |  |  | H |  | 20
Cape St. Elias | Gulf of Alaska | 59 47.50 N | 144 36.20 W |  |  | H |  | 20
Cape Fairweather | Gulf of Alaska | 58 47.50 N | 137 56.30 W |  |  | H |  |
Graves Rock | Gulf of Alaska | 58 14.30 N | 136 45.40 W |  |  | H |  |
* RPA sites meet the criteria in the 1998 Biological Opinion for the protection of Steller sea lions but are not listed in 50 CFR part 226. These sites are not included in closures of critical habitat in the Aleutian Islands subarea upon attainment of critical habitat limits specified for the Aleutian Islands Atka mackerel fishery.

[FR Doc. 01-1744 Filed 1-18-01; 3:25 pm]

BILLING CODE 3510-22-P